DEPARTMENT OF THE INTERIOR

Fish and Wildlife Service

50 CFR Part 10

[FWS-R9-MB-2007-0109;91200-1231-9BPP]

RIN 1018-AB72

General Provisions; Revised List of Migratory Birds

AGENCY: Fish and Wildlife Service, Interior.

ACTION: Final rule.

SUMMARY: We, the U.S. Fish and Wildlife Service, revise the List of Migratory Birds by both adding and removing numerous species. Reasons for the changes to the list include correcting previous mistakes including misspellings, adding species based on new evidence of occurrence in the United States or U.S. territories, removing species no longer known to occur within the United States, and changing names based on new taxonomy. The net increase of 175 species (186 added and 11 removed) brings the total number of species protected by the Migratory Bird Treaty Act (MBTA) to 1007. We regulate most aspects of the taking, possession, transportation, sale, purchase, barter, exportation, and importation of migratory birds. An accurate and up-to-date list of species protected by the MBTA is essential for regulatory purposes.

DATES: This rule is effective March 31, 2010.

FOR FURTHER INFORMATION CONTACT: Terry Doyle, Wildlife Biologist, Division of Migratory Bird Management, at 703-358-1799.

SUPPLEMENTARY INFORMATION:

What Statutory Authority Does the Service Have for This Rulemaking?

We have statutory authority and responsibility for enforcing the Migratory Bird Treaty Act (MBTA) (16 U.S.C. 703-711), the Fish and Wildlife Improvement Act of 1978 (16 U.S.C. 712), and the Fish and Wildlife Act of 1956 (16 U.S.C. 742a-j). The MBTA implements Conventions between the United States and four neighboring countries for the protection of migratory birds, as follows:

(1) Canada: Convention for the Protection of Migratory Birds, August 16, 1916, United States-Great Britain (on behalf of Canada), 39 Stat. 1702, T.S. No. 628;

(2) Mexico: Convention for the Protection of Migratory Birds and Game Mammals, February 7, 1936, United States-United Mexican States (Mexico), 50 Stat. 1311, T.S. No. 912;

(3) Japan: Convention for the Protection of Migratory Birds and Birds in Danger of Extinction, and Their Environment, March 4, 1972, United States-Japan, 25 U.S.T. 3329, T.I.A.S. No. 7990; and

(4) Russia: Convention for the Conservation of Migratory Birds and Their Environment, United States-Union of Soviet Socialist Republics (Russia), November 26, 1976, 92 Stat. 3110, T.I.A.S. 9073.

What Is the Purpose of This Rulemaking?

Our purpose is to inform the public of the species protected by the MBTA and its implementing regulations. These regulations are found in Title 50, Code of Federal Regulations (CFR), Parts 10, 20, and 21. We regulate most aspects of the taking, possession, transportation, sale, purchase, barter, exportation, and importation of migratory birds. An accurate and up-to-date list of species protected by the MBTA is essential for regulatory purposes.

Why Is This Amendment of the List of Migratory Birds Necessary?

The amendment is needed to: (1) Add two species covered by the Japanese and Russian Conventions that were mistakenly omitted from previous lists; (2) add 29 species of accidental or casual occurrence documented prior to April 1985, but not included in prior lists; (3) add 65 species based on new distributional records documenting their occurrence in the United States since April 1985; (4) add 24 species that occur naturally in the United States only in Hawaii; (5) add 28 species that occur naturally in the United States only in the Pacific island territories of American Samoa, Baker and Howland Islands, Guam, or the Northern Mariana Islands; (6) add 38 species newly recognized as a result of taxonomic changes; (7) remove 10 species not known to occur within the boundaries of the United States or its territories; (8) remove one species that is now treated as a subspecies; (9) change the common (English) names of 48 species to conform with accepted use; (10) change the scientific names of 66 species to conform with accepted use; (11) change the common and scientific names of seven species to conform with accepted use; (12) change the scientific names of four species in the alphabetical list to conform with accepted use and to correct inconsistencies between the alphabetical and taxonomic lists; (13) correct errors in the common (English) name of two species; (14) correct errors in the scientific names of three species in the taxonomic list; and (15) change the status of one taxon from protected subspecies to non-protected species (due to lack of natural occurrence in the United States or its territories). In accordance with the Migratory Bird Treaty Reform Act of 2004 (Pub. L. 108-447) (MBTRA), we also reaffirm our determination of March 15, 2005 (70 FR 12710), that the Mute Swan (Cygnus olor), which was never formally listed in 50 CFR 10.13 but was briefly treated as protected by the MBTA as the result of a court order (Hill v. Norton, 275 F.3d 98 (D.C. Cir. 2001)), is no longer afforded protection because it is nonnative and human-introduced. See Fund for Animals v. Norton, 374 F. Supp. 2d 91 (D. D.C. 2005, denying injunction because of the clear language of the MBTRA). The District Court's judgment was later affirmed on appeal (Fund for Animals v. Kempthorne, 472 F.3d 872, D.C. Cir. 2006).

The List of Migratory Birds (50 CFR 10.13) was last revised on April 5, 1985 (50 FR 13710). In a proposed rule published May 9, 1995 (60 FR 24686), we suggested updating the List of Migratory Birds by adding 20 species, removing 1 species, and revising the common (English) or scientific names of 23 previously listed species to conform to the most recent nomenclature. The proposed amendments were necessitated by five published supplements to the 6th (1983) edition of the American Ornithologists' Union's (AOU's) Check-list of North American birds. Knowing that additional amendments would be necessary following the anticipated publication of a 7th edition of the Check-list, we elected to delay publication of a final rule until after the appearance of the revised Check-list. The 1995 proposed rule generated just two public comments, from the American Ornithologists' Union and the Association of Scientific Collections. The comments of those organizations, mostly editorial in nature, are reflected in this document, as appropriate.

Following publication of the 7th edition of the Check-list in July 1998, administrative workloads and staff shortages prevented work on a final rule until September 2000. A followup proposed rule was deemed necessary because of the five-year delay since publication of the initial proposed rule, and the many new changes necessitated by the 7th edition of the Check-list. In a second proposed rule published October 12, 2001 (66 FR 52282), we suggested adding 30 species, removing one species, and revising the common (English) or scientific names of 78 previously-listed species to conform to accepted use.

Of the 116 letters received on the proposed rule of October 12, 2001, 109 dealt solely with the presumed protective status of the Mute Swan (Cygnus olor) under the MBTA. Of the remaining seven letters, three provided comments of a general nature (including recommendations for adding or deleting certain species); two expressed general support without offering specific comments; one questioned the legality of extending MBTA protection to species that do not cross State or international boundaries; and one expressed concern about the harvest of MBTA-protected shorebirds in the Caribbean. These comments remain part of the public record and were incorporated, as appropriate, into this final rule.

Because of the delay since publication of the 2001 proposed rule, plus the many new changes necessitated by six published supplements (AOU 2000, 2002, 2003, 2004, 2005, 2006) to the 7th edition of the Check-list, we published a third proposed rule on August 24, 2006 (71 FR 50194). This allowed the public to review and comment on all of the desired changes that have come to light since publication of the 1995 and 2001 proposed rules. In addition, this final rule incorporates the changes in the AOU supplement published in 2007.

What Scientific Authorities Are Used To Amend the List of Migratory Birds?

Although bird names (common and scientific) are relatively stable, staying current with standardized use is necessary to avoid confusion in communications. In making our determinations, we primarily relied on the American Ornithologists' Union's Check-list of North American birds (AOU 1998), as amended (AOU 1999, 2000, 2002, 2003, 2004, 2005, 2006 and 2007), on matters of taxonomy, nomenclature, and the sequence of species and other higher taxonomic categories (orders, families, subfamilies) for species that occur in North America. For the few species that occur outside the geographic area covered by the Check-list, we relied primarily on Monroe and Sibley (1993). Though we primarily rely on the above checklists, when informed taxonomic opinion is inconsistent or controversial, we evaluate available published and unpublished information and come to our own conclusion regarding the validity of taxa.

What Criteria Are Used To Identify Individual Species Protected by the MBTA?

A species qualifies for protection under the MBTA by meeting one or more of the following four criteria:

(1) It is a species covered by the Canadian Convention of 1916, as amended in 1996, by virtue of meeting the following three criteria: (a) It belongs to a family or group of species named in the Canadian Convention, as amended; (b) specimens, photographs, videotape recordings, or audiotape recordings provide convincing evidence of natural occurrence in the United States or its territories; and (c) the documentation of such records has been recognized by the AOU or other competent scientific authorities.

(2) It is a species covered by the Mexican Convention of 1936, as amended in 1972, by virtue of meeting the following three criteria: It (a) belongs to a family or group of species named in the Mexican Convention, as amended; (b) specimens, photographs, videotape recordings, or audiotape recordings provide convincing evidence of natural occurrence in the United States or its territories; and (c) the documentation of such records has been recognized by the AOU or other competent scientific authorities.

(3) It is a species listed in the annex to the Japanese Convention of 1972, as amended.

(4) It is a species listed in the appendix to the Russian Convention of 1976.

In accordance with the MBTRA, we have not listed species whose occurrences in the United States are solely the result of intentional or unintentional human-assisted introduction(s). We hereby adopt the definition of “human-assisted introduction” as used in the notice implementing the MBTRA (70 FR 12710): “An intentional introduction is one that was purposeful—for example, the person(s) or institution(s) involved intended for it to happen. An unintentional introduction is one that was unforeseen or unintended, for example, the establishment of self-sustaining populations following repeated escapes from captive facilities.”

How Do the Scientific Names Used Here Compare to Those That Appear in the Japanese and Russian Conventions?

The Japanese and Russian Conventions list individual species of birds that are covered. For 37 of these species, the scientific (genus or species) name currently recognized by scientific authorities (AOU 1998, 1999; Monroe and Sibley 1993) differs from that which appears in the Conventions. The following cross-reference provides a linkage between the scientific names used in this list and those that appear in the annex to the Japanese Convention and the appendix to the Russian Convention. The first name is the modern equivalent proposed here, and the second name is that which appears in one or both of the Conventions. These changes modernize the regulatory list without revising either the Japanese or the Russian Convention (indicated by J and R, respectively):

Accipiter gularis (Japanese Sparrowhawk) is listed as Accipiter virgatus (J & R);

Actitis hypoleucos (Common Sandpiper) is listed as Tringa hypoleucos (J & R);

Aethia psittacula (Parakeet Auklet) is listed as Cyclorrhynchus psittacula (R);

Anas americana (American Wigeon) is listed as Mareca americana (J);

Anas clypeata (Northern Shoveler) is listed as Spatula clypeata (J);

Anas penelope (Eurasian Wigeon) is listed as Mareca penelope (J);

Anous minutus (Black Noddy) is listed as Anous tenuirostris (J);

Anthus rubescens (American Pipit) is listed as Anthus spinoletta (J & R);

Branta bernicla (Brant) incorporates Branta nigricans (R);

Calidris alba (Sanderling) is listed as Crocethia alba (J);

Calidris subminuta (Long-toed Stint) is listed as part of Calidris minutilla (J);

Carduelis flammea (Common Redpoll) is listed as Acanthis flammea (J);

Carduelis hornemanni (Hoary Redpoll) is included as part of Carduelis flammea (J), and is listed as Acanthis hornemanni (R);

Charadrius morinellus (Eurasian Dotterel) is listed as Eudromias morinellus (J & R);

Chen caerulescens (Snow Goose) is listed as Anser caerulescens (J);

Chen canagica (Emperor Goose) is listed as Anser canagicus (J), and Philacte canagica (R);

Cygnus columbianus (Tundra Swan) incorporates Cygnus bewickii (R);

Egretta sacra (Pacific Reef-Egret) is listed as Demigretta sacra (J);

Ficedula narcissina (Narcissus Flycatcher) is listed as Muscicapa narcissina (J);

Fratercula cirrhata (Tufted Puffin) is listed as Lunda cirrhata (J & R);

Gallinago gallinago (Common Snipe) is listed as Capella gallinago (R);

Gallinago megala (Swinhoe's Snipe) is listed as Capella megala (R);

Gallinago stenura (Pin-tailed Snipe) is listed as Capella stenura (R);

Heteroscelus brevipes (Gray-tailed Tattler) is included as part of Tringa incana (J);

Heteroscelus incanus (Wandering Tattler) is listed as Tringa incana (J);

Luscinia calliope (Siberian Rubythroat) is listed as Erithacus calliope (J);

Melanitta fusca (White-winged Scoter) incorporates Melanitta deglandi (J);

Mergellus albellus (Smew) is listed as Mergus albellus (J & R);

Milvus migrans (Black Kite) is listed as Milvus korschun (R);

Numenius borealis (Eskimo Curlew) is included as part of Numenius minutus (J);

Phalaropus lobatus (Red-necked Phalarope) is listed as Lobipes lobatus (R);

Phoebastria albatrus (Short-tailed Albatross) is listed as Diomedea albatrus (J & R);

Phoebastria immutabilis (Laysan Albatross) is listed as Diomedea immutabilis (J & R);

Phoebastria nigripes (Black-footed Albatross) is listed as Diomedea nigripes (J & R);

Pterodroma hypoleuca (Bonin Petrel) is listed as Pterodroma leucoptera (R);

Tachycineta bicolor (Tree Swallow) is listed as Iridoprocne bicolor (R); and

Turdus obscurus (Eyebrowed Thrush) is listed as Turdus pallidus (R).

How Do the Changes Affect the List of Migratory Birds?

The amendments (186 additions, 11 removals, 121 name changes, and 9 corrections) affect a grand total of 327 species and result in a net addition of 175 species to the List of Migratory Birds, increasing the species total from 832 to 1007. Of the 175 species that we add to the list, 38 were previously covered under the MBTA as subspecies of listed species. These amendments can be logically arranged in the following 15 categories:

(1) Add two species that are included in the Appendix of the Russian Convention and in the Annex to the Japanese Convention, respectively; the omission of these species in previous lists was an oversight. These species also qualify for protection under the Canadian and Mexican Conventions as members of the families Anatidae and Laridae, respectively:

Duck, Spot-billed, Anas poecilorhyncha; and

Gull, Black-tailed, Larus crassirostris.

(2) Add 29 species based on review and acceptance by AOU (prior to April 1985) of distributional records documenting their occurrence in the United States, Puerto Rico, or the U.S. Virgin Islands. These species belong to families covered by the Canadian and/or Mexican Conventions. They were excluded from the 1985 list because their occurrence was viewed as accidental or casual, a criterion no longer viewed as inconsistent with the MBTA or its underlying Conventions. A species of accidental or casual occurrence is one whose normal range is far enough removed from the United States as to make regular occurrence unlikely or improbable (AOU 1983). For each species, we list the State(s) in which it has been recorded plus the relevant AOU publication(s):

Albatross, Shy, Thalassarche cauta—Washington (AOU 1982, 1983, 1997, 1998);

Albatross, Wandering, Diomedea exulans—California (AOU 1982, 1983, 1998);

Bunting, Blue, Cyanocompsa parellina—Louisiana, Texas (AOU 1982, 1983, 1998);

Bunting, Gray, Emberiza variabilis—Alaska (AOU 1982, 1983, 1998);

Bunting, Little, Emberiza pusilla—Alaska (AOU 1982, 1983, 1998);

Chaffinch, Common, Fringilla coelebs—Maine to Massachusetts (AOU 1982, 1983, 1998);

Crake, Paint-billed, Neocrex erythrops—Texas, Virginia (AOU 1982, 1983, 1998);

Curlew, Eurasian, Numenius arquata—Massachusetts, New York (AOU 1982, 1983, 1998);

Flycatcher, La Sagra's, Myiarchus sagrae—Alabama, Florida (AOU 1982, 1983, 1998);

Flycatcher, Variegated, Empidonomus varius—Maine, Tennessee (AOU 1982, 1983, 1998);

Gull, Belcher's, Larus belcheri—Florida (AOU 1982, 1983, 1998, 2003);

Hawk, Roadside, Buteo magnirostis—Texas (AOU 1982, 1983, 1998);

Hummingbird, Bumblebee, Atthis heloisa—Arizona (AOU 1982, 1983, 1998);

Martin, Southern, Progne elegans—Florida (AOU 1982, 1983, 1998);

Mockingbird, Bahama, Mimus gundlachii—Florida (AOU 1982, 1983, 1998);

Petrel, Black-winged, Pterodroma nigripennis—Hawaii (AOU 1982, 1983, 1998);

Petrel, Jouanin's, Bulweria fallax—Hawaii (AOU 1982, 1983, 1998);

Pewee, Hispaniolan, Contopus hispaniolensis—Puerto Rico (AOU 1983, 1995, 1998);

Pipit, Tree, Anthus trivialis—Alaska (AOU 1982, 1983, 1995);

Rail, Spotted, Pardirallus maculatus—Pennsylvania, Texas (AOU 1982, 1983, 1998);

Scops-Owl, Oriental, Otus sunia—Alaska (AOU 1982, 1983, 1998);

Shearwater, Streaked, Calonectris leucomelas—California (AOU 1982, 1983, 1998);

Shrike, Brown, Lanius cristatus—Alaska, California (AOU 1982, 1983, 1998);

Swift, Short-tailed, Chaetura brachyura—U.S. Virgin Islands (AOU 1983, 1998);

Tern, Large-billed, Phaetusa simplex—Illinois, New Jersey, Ohio (AOU 1983, 1998);

Vireo, Thick-billed, Vireo crassirostris—Florida (AOU 1983, 1998);

Warbler, Dusky, Phylloscopus fuscatus—Alaska, California (AOU 1982, 1983, 1998);

Warbler, Fan-tailed, Euthlypis lachrymosa—Arizona (AOU 1982, 1983, 1998); and

Warbler, Wood, Phylloscopus sibilatrix—Alaska (AOU 1982, 1983, 1998).

(3) Add 65 species based on review and acceptance by AOU (since April 1985) of new distributional records documenting their occurrence in the United States, Puerto Rico, or the U.S. Virgin Islands. These species belong to families covered by the Canadian and/or Mexican Conventions and most are considered to be of accidental or casual occurrence. For each species, we list the State(s) in which it has been recorded plus the relevant publication(s):

Albatross, Black-browed, Thalassarche melanophris—Virginia (AOU 2002);

Albatross, Light-mantled, Phoebetria palpebrata—California (AOU 1997, 1998);

Bluetail, Red-flanked, Tarsiger cyanurus—Alaska (AOU 1995, 1998);

Bunting, Pine, Emberiza leucocephalos—Alaska (AOU 1995, 1998);

Bunting, Yellow-breasted, Emberiza aureola—Alaska (AOU 1989, 1998);

Bunting, Yellow-throated, Emberiza elegans—Alaska (AOU 2000);

Carib, Purple-throated, Eulampis jugularis—U.S. Virgin Islands (AOU 1998);

Catbird, Black, Melanoptila glabrirostris—Texas (AOU 1998);

Duck, Muscovy, Cairina moschata—Texas (AOU 1998);

Egret, Little, Egretta garzetta—Massachusetts, New Hampshire, Puerto Rico, Virginia (AOU 1998);

Elaenia, Greenish, Myiopagis viridicata—Texas (AOU 1989, 1998);

Falcon, Red-footed, Falco vespertinus—Massachusetts, (AOU 2007);

Flycatcher, Piratic, Legatus leucophalus—Florida, New Mexico, Texas (AOU 2002);

Flycatcher, Social, Myiozetetes similis—Texas (AOU 2006);

Flycatcher, Tufted, Mitrephanes phaeocercus—Texas (AOU 1998);

Forest-Falcon, Collared, Micrastur semitorquatus—Texas (AOU 1998)

Frog-Hawk, Gray, Accipiter soloensis—Hawaii (AOU 1997, 1998);

Gallinule, Azure, Porphyrio flavirostris—New York (AOU 1991, 1998, 2002);

Golden-Plover, European, Pluvialis apricaria—Alaska (Western Birds 2001);

Goose, Lesser White-fronted, Anser erythropus—Alaska (AOU 1995, 1998);

Gull, Gray-hooded, Larus cirrocephalus—Florida (AOU 2002);

Gull, Kelp, Larus dominicanus—Indiana, Louisiana, Maryland, Texas (AOU 2002);

Gull, Yellow-legged, Larus michahellis (=cachinnans)—Maryland (AOU 1993, 1998, 2007);

Hawk, Crane, Geranospiza caerulescens—Texas (AOU 1998);

Hobby, Eurasian, Falco subbuteo—Alaska (AOU 1985, 1995, 1998);

Hummingbird, Cinnamon, Amazilia rutila—Arizona, New Mexico (AOU 1998);

Hummingbird, Xantus's, Hylocharis xantusii—California (AOU 1998);

Mango, Green-breasted, Anthracothorax prevostii—Texas (AOU 1998);

Martin, Brown-chested, Progne tapera—Massachusetts (AOU 1985, 1995, 1998);

Mockingbird, Blue, Melanotis caerulescens—Arizona, Texas (AOU 1998);

Nightingale-Thrush, Black-headed, Catharus mexicanus—Texas (AOU 2006);

Nightingale-Thrush, Orange-billed, Catharus aurantiirostris—Texas (AOU 2002);

Owl, Mottled, Ciccaba virgata—Texas (AOU 1989, 1998);

Owl, Stygian, Asio stygius—Texas (AOU 2002);

Petrel, Bermuda, Pterodroma cahow—North Carolina (AOU 1998);

Petrel, Great-winged, Pterodroma macroptera—California (AOU 2004);

Petrel, Stejneger's, Pterodroma longirostris—California, Hawaii (AOU 1989, 1998);

Pewee, Cuban, Contopus caribaeus—Florida (AOU 2004);

Plover, Collared, Charadrius collaris—Texas (AOU 1998);

Pond-Heron, Chinese, Ardeola bacchus—Alaska (AOU 2000);

Reef-Heron, Western, Egretta gularis—Massachusetts (AOU 1985, 1998);

Robin, Siberian Blue, Luscinia cyane—Alaska (AOU 1987, 1998);

Robin, White-throated, Turdus assimilis—Texas (AOU 1998);

Sandpiper, Green, Tringa ochropus—Alaska (AOU 1985, 1998);

Shearwater, Cape Verde, Calonectris edwardsii—North Carolina (AOU 2006);

Silky-flycatcher, Gray, Ptilogonys cinereus—Texas (AOU 1998);

Siskin, Eurasian, Carduelis spinus—Alaska (AOU 1995, 1998);

Stilt, Black-winged, Himantopus himantopus—Alaska (AOU 1985, 1998);

Stonechat, Saxicola torquatus—Alaska (AOU 1987, 1998, 2004);

Storm-Petrel, Black-bellied Fregetta tropica—North Carolina (AOU 2006);

Storm-Petrel, Ringed, Oceanodroma hornbyi—California (AOU 2007);

Swallow, Mangrove, Tachycineta albilinea—Florida (AOU 2005);

Swift, Alpine, Apus melba—Puerto Rico (AOU 1998);

Tanager, Flame-colored, Piranga bidentata—Arizona, Texas (AOU 1987, 1998);

Tern, Great Crested, Thalasseus bergii—Hawaii (AOU 1991, 1998, 2006);

Tern, Whiskered, Chlidonias hybrida—Delaware, New Jersey (AOU 1997, 1998, 2003);

Tityra, Masked, Tityra semifasciata—Texas (AOU 1998);

Turtle-Dove, Oriental, Streptopelia orientalis—Alaska (AOU 1991, 1998);

Vireo, Yucatan, Vireo magister—Texas (AOU 1987, 1998);

Wagtail, Citrine, Motacilla citreola—Alabama (AOU 1995, 1998);

Warbler, Crescent-chested, Parula superciliosa—Arizona (AOU 1987, 1998);

Warbler, Lanceolated, Locustella lanceolata—Alaska, California (AOU 1985, 1998);

Warbler, Yellow-browed, Phylloscopus inornatus—Alaska (AOU 2002);

Whitethroat, Lesser, Sylvia curruca—Alaska (AOU 2004); and

Woodpecker, Great Spotted, Dendrocopos major—Alaska (AOU 1987, 1998).

(4) Add 24 species that belong to families covered by the Canadian and/or Mexican Conventions, but occur naturally in the United States only in Hawaii:

Akekee, Loxops caeruleirostris

Akepa, Loxops coccineus

Akialoa, Greater, Hemignathus ellisianus

Akiapolaau, Hemignathus munroi

Akikiki, Oreomystis bairdi

Akohekohe, Palmeria dolei

Alauahio, Maui, Paroreomyza montana

Alauahio, Oahu, Paroreomyza maculata

Amakihi, Hawaii, Hemignathus virens

Amakihi, Kauai, Hemignathus kauaiensis

Amakihi, Oahu, Hemignathus flavus

Anianiau, Magumma parva

Apapane, Himatione sanguinea

Creeper, Hawaii, Oreomystis mana

Finch, Laysan, Telespiza cantans

Finch, Nihoa, Telespiza ultima

Iiwi, Vestiaria coccinea

Kakawahie, Paroreomyza flammea

Millerbird, Acrocephalus familiaris

Nukupuu, Hemignathus lucidus

Ou, Psittirostra psittacea

Palila, Loxioides bailleui

Parrotbill, Maui, Pseudonestor xanthophrys

Poo-uli, Melamprosops phaeosoma

(5) Add 28 species that belong to families covered by the Canadian and/or Mexican Conventions, but occur naturally in the United States only in the Pacific island territories of American Samoa, Baker and Howland Islands, Guam, or the Northern Mariana Islands (Pratt et al. 1987). We also list the territory or territories in which each species is known to occur:

Bittern, Black, Ixobrychus flavicollis (Guam);

Cormorant, Little Pied, Phalacrocorax melanoleucos (Northern Marianas);

Crake, Spotless, Porzana tabuensis (American Samoa);

Crow, Mariana, Corvus kubaryi (Guam, Northern Marianas);

Duck, Pacific Black, Anas superciliosa (American Samoa);

Fruit-Dove, Crimson-crowned, Ptilinopus porphyraceus (American Samoa);

Fruit-Dove, Many-colored, Ptilinopus perousii (American Samoa);

Fruit-Dove, Mariana, Ptilinopus roseicapilla (Guam, Northern Marianas);

Greenshank, Nordmann's, Tringa guttifer (Guam);

Ground-Dove, Friendly, Gallicolumba stairi (American Samoa);

Ground-Dove, White-throated, Gallicolumba xanthonura (Guam, Northern Marianas);

Heron, Gray, Ardea cinerea (Northern Marianas);

Imperial-Pigeon, Pacific, Ducula pacifica (American Samoa);

Kingfisher, Collared, Todirhamphus chloris (American Samoa, Northern Marianas);

Kingfisher, Micronesian, Todirhamphus cinnamominus (Guam);

Oystercatcher, Eurasian, Haematopus ostralegus (Guam);

Petrel, Gould's, Pterodroma leucoptera (American Samoa);

Petrel, Phoenix, Pterodroma alba (Baker and Howland Islands);

Petrel, Tahiti, Pterodroma rostrata (American Samoa);

Rail, Buff-banded, Gallirallus philippensis (American Samoa);

Rail, Guam, Gallirallus owstoni (Guam);

Reed-Warbler, Nightingale, Acrocephalus luscinia (Northern Marianas, formerly Guam);

Storm-Petrel, Matsudaira's, Oceanodroma matsudairae (Guam, Northern Marianas);

Storm-Petrel, Polynesian, Nesofregata fuliginosa (American Samoa);

Storm-Petrel, White-bellied, Fregetta grallaria (American Samoa);

Swamphen, Purple, Porphyrio porphyrio (American Samoa);

Swiftlet, Mariana, Aerodramus bartschi (Guam, Northern Marianas); and

Swiftlet, White-rumped, Aerodramus spodiopygius (American Samoa).

(6) Add 38 species because of recent taxonomic changes in which taxa formerly treated as subspecies have been determined to be distinct species. Given that each of these species was formerly treated as subspecies of a listed species, these additions will not change the protective status of any of these taxa, only the names by which they are known. In each case, we reference the AOU publication(s) supporting the change:

Bean-Goose, Tundra, Anser serrirostris (formerly treated as subspecies of Anser fabalis, Taiga Bean-Goose [=Bean Goose]) [AOU 2007];

Coot, Hawaiian, Fulica alai (formerly treated as subspecies of Fulica americana, American Coot) [AOU 1993, 1998];

Flicker, Gilded, Colaptes chrysoides (formerly treated as subspecies of Colaptes auratus, Northern Flicker) [AOU 1995, 1998];

Flycatcher, Cordilleran, Empidonax occidentalis (formerly treated as subspecies of Empidonax difficilis, Western [=Pacific-slope] Flycatcher) [AOU 1989, 1998];

Gnatcatcher, California, Polioptila californica (formerly treated as subspecies of Polioptila melanura, Black-tailed Gnatcatcher) [AOU 1989, 1998];

Golden-Plover, Pacific, Pluvialis fulva (formerly treated as subspecies of Pluvialis dominica, Lesser [=American] Golden-Plover) [AOU 1993, 1998];

Grebe, Clark's, Aechmophorus clarkii (formerly treated as subspecies of Aechmophorus occidentalis, Western Grebe) [AOU 1985, 1998];

Heron, Green, Butorides virescens (formerly treated as subspecies of Butorides striatus, Green-backed [=Striated] Heron) [AOU 1993, 1998];

Kamao, Myadestes myadestinus (formerly treated as subspecies of Phaeornis obscurus, Hawaiian Thrush [=Omao]) [AOU 1985, 1998];

Kite, White-tailed, Elanus leucurus (formerly treated as subspecies of Elanus caeruleus, Black-shouldered Kite) ([AOU 1983, 1993, 1998]);

Loon, Pacific, Gavia pacifica (formerly treated as subspecies of Gavia arctica, Arctic Loon) [AOU 1985, 1998];

Magpie, Black-billed, Pica hudsonia (formerly treated as subspecies of Pica pica, Black-billed [=Eurasian] Magpie) [AOU 2000];

Murrelet, Long-billed, Brachyramphus perdix—formerly treated as a subspecies of Brachyramphus marmoratus, Marbled Murrelet (AOU 1997);

Olomao, Myadestes lanaiensis (formerly treated as subspecies of Phaeornis obscurus, Hawaiian Thrush [=Omao]) [AOU 1985, 1998];

Oriole, Bullock's, Icterus bullockii (formerly treated as subspecies of Icterus galbula, Northern [=Baltimore] Oriole) [AOU 1995, 1998];

Petrel, Hawaiian, Pterodroma sandwichensis (formerly treated as subspecies of Pterodroma phaeopygia, Dark-rumped [=Galapagos] Petrel) [AOU 2002];

Petrel, White-necked, Pterodroma cervicalis (formerly treated as subspecies of Pterodroma externa, White-necked [=Juan Fernandez] Petrel) [AOU 1991, 1998];

Pipit, American, Anthus rubescens (formerly treated as subspecies of Anthus spinoletta, Water Pipit (AOU 1989, 1998);

Rosy-Finch, Black, Leucosticte atrata (formerly treated as subspecies of Leucosticte arctoa, Rosy Finch) [AOU 1993, 1998];

Rosy-Finch, Brown-capped, Leucosticte australis (formerly treated as subspecies of Leucosticte arctoa, Rosy Finch) [AOU 1993, 1998];

Rosy-Finch, Gray-crowned, Leucosticte tephrocotis (formerly treated as subspecies of Leucosticte arctoa, Rosy Finch) [AOU 1993, 1998];

Sapsucker, Red-naped, Sphyrapicus nuchalis (formerly treated as subspecies of Sphyrapicus varius, Yellow-bellied Sapsucker) [AOU 1985, 1998];

Scrub-Jay, Island, Aphelocoma insularis (formerly treated as subspecies of Aphelocoma coerulescens, Scrub [=Florida] Jay [=Scrub-Jay]) [AOU 1995, 1998];

Scrub-Jay, Western, Aphelocoma californica (formerly treated as subspecies of Aphelocoma coerulescens, Scrub [=Florida] Jay [=Scrub-Jay]) [AOU 1995, 1998];

Snipe, Wilson's, Gallinago delicata (formerly treated as subspecies of Gallinago gallinago, Common Snipe) [AOU 2002];

Sparrow, Nelson's Sharp-tailed, Ammodramus nelsoni (formerly treated as subspecies of Ammodramus caudacutus, Sharp-tailed [=Saltmarsh Sharp-tailed] Sparrow) [AOU 1995, 1998];

Spindalis, Puerto Rican, Spindalis portoricensis (formerly treated as subspecies of Spindalis zena, Stripe-headed [=Western] Tanager [=Spindalis]) [AOU 2000];

Thrush, Bicknell's, Catharus bicknelli (formerly treated as subspecies of Catharus minimus, Gray-cheeked Thrush) [AOU 1995, 1998];

Titmouse, Black-crested, Baeolophus atricristatus (formerly treated as subspecies of Parus [=Baeolophus] bicolor, Tufted Titmouse) [AOU 2002];

Titmouse, Juniper, Baeolophus ridgwayi (formerly treated as subspecies of Parus [=Baeolophus] inornatus, Plain [=Oak] Titmouse) [AOU 1997, 1998];

Towhee, California, Pipilo crissalis (formerly treated as subspecies of Pipilo fuscus, Brown [=Canyon] Towhee) [AOU 1989, 1998];

Towhee, Spotted, Pipilo maculatus (formerly treated as subspecies of Pipilo erythrophthalmus, Rufous-sided [=Eastern] Towhee) [AOU 1995, 1998];

Vireo, Cassin's, Vireo cassinii (formerly treated as subspecies of Vireo solitarius, Solitary [=Blue-headed] Vireo) [AOU 1997, 1998];

Vireo, Plumbeous, Vireo plumbeus (formerly treated as subspecies of Vireo solitarius, Solitary [=Blue-headed] Vireo) [AOU 1997, 1998];

Vireo, Yellow-green, Vireo flavoviridis (formerly treated as subspecies of Vireo olivaceus, Red-eyed Vireo) [AOU 1987, 1998];

Wagtail, Eastern Yellow, Motacilla tschutschensis (formerly treated as subspecies of Motacilla flava, Yellow Wagtail) [AOU 2004];

Woodpecker, American Three-toed, Picoides dorsalis (formerly treated as subspecies of Picoides tridactylus, Three-toed [=Eurasian Three-toed] Woodpecker) [AOU 2003]; and

Woodpecker, Arizona, Picoides arizonae (formerly treated as subspecies of Picoides stricklandi, Strickland's Woodpecker) [AOU 2000].

(7) Remove 10 species based on revised taxonomic treatments and new distributional evidence confirming that their known geographic ranges lie entirely outside the political boundaries of the United States and its territories. In each case, we reference the AOU publication(s) supporting these changes:

Finch, Rosy, Leucosticte arctoa (AOU 1993, 1998);

Heron, Green-backed (=Striated), Butorides striatus (AOU 1993, 1998);

Kite, Black-shouldered, Elanus caeruleus (AOU 1983, 1993, 1998);

Magpie, Black-billed (=Eurasian), Pica pica (AOU 2000);

Noddy, Lesser, Anous tenuirostris (AOU 1998; treated as conspecific with Black Noddy, Anous minutus);

Petrel, Dark-rumped (=Galapagos), Pterodroma phaeopygia (AOU 2002);

Pipit, Water, Anthus spinoletta (AOU 1983, 1989, 1998);

Wagtail, Yellow, Motacilla flava (AOU 2004);

Woodpecker, Strickland's, Picoides stricklandi (AOU 2000); and

Woodpecker, Three-toed (=Eurasian Three-toed), Picoides tridactylis (AOU 2003).

(8) Remove one former species that is now treated as a subspecies:

Wagtail, Black-backed, Motacilla lugens (lugens will remain protected as a subspecies of Motacilla alba, White Wagtail) [AOU 2005].

(9) Revise the common (English) names of 48 species to conform to the most recent nomenclatural treatment. These revisions do not change the protective status of any of these taxa, only the names by which they are known. In each case, we reference the published source(s) for the name change:

Barn-Owl, Common, Tyto alba, becomes Owl, Barn (AOU 1989, 1998);

Bittern, Chinese, Ixobrychus sinensis, becomes Bittern, Yellow (AOU 1991, 1998);

Crow, Mexican, Corvus imparatus, becomes Crow, Tamaulipas (AOU 1997, 1998);

Curlew, Least, Numenius minutus, becomes Curlew, Little (AOU 1987, 1998);

Flycatcher, Gray-spotted, Muscicapa griseisticta, becomes Flycatcher, Gray-streaked (AOU 2004);

Flycatcher, Western, Empidonax difficilis, becomes Flycatcher, Pacific-slope (AOU 1989, 1998);

Golden-Plover, Lesser, Pluvialis dominica, becomes Golden-Plover, American (AOU 1993, 1998);

Goose, Bean, Anser fabalis, becomes Bean-Goose, Taiga (AOU 2007)

Goose, Ross', Chen rossii, becomes Goose, Ross's (AOU 1998);

Gull, Common Black-headed, Larus ridibundus, becomes Gull, Black-headed (AOU 1995, 1998);

Gull, Ross', Rhodostethia rosea, becomes Gull, Ross's (AOU 1998);

Hawk, Asiatic Sparrow, Accipiter gularis, becomes Sparrowhawk, Japanese (Monroe and Sibley 1993);

Hawk, Harris', Parabuteo unicinctus, becomes Hawk, Harris's (AOU 1998);

Hawk-Owl, Northern, Surnia ulula, becomes Owl, Northern Hawk (AOU 1989, 1998);

Heron, Pacific Reef, Egretta sacra, becomes Reef-Egret, Pacific (Monroe and Sibley 1993);

Hoopoe, Upupa epops, becomes Hoopoe, Eurasian (AOU 1998);

Jay, Gray-breasted, Aphelocoma ultramarina, becomes Jay, Mexican (AOU 1995, 1998);

Jay, Scrub, Aphelocoma coerulescens, becomes Scrub-Jay, Florida (AOU 1995, 1998);

Kite, American Swallow-tailed, Elanoides forficatus, becomes Kite, Swallow-tailed (AOU 1995, 1998);

Murrelet, Xantus', Synthliboramphus hypoleucus, becomes Murrelet, Xantus's (AOU 1998);

Nightjar, Jungle, Caprimulgus indicus, becomes Nightjar, Gray (AOU 2004);

Oldsquaw, Clangula hyemalis, becomes Duck, Long-tailed (AOU 2000);

Oriole, Black-cowled, Icterus dominicensis, becomes Oriole, Greater Antillean (AOU 2000);

Oriole, Northern, Icterus galbula, becomes Oriole, Baltimore (AOU 1995, 1998);

Petrel, White-necked, Pterodroma externa, becomes Petrel, Juan Fernandez (AOU 1991, 1998);

Plover, Great Sand, Charadrius leschenaultii, becomes Sand-Plover, Greater (AOU 2004);

Plover, Mongolian, Charadrius mongolus, becomes Sand-Plover, Lesser (AOU 2004);

Reed-Bunting, Common, Emberiza schoeniclus, becomes Bunting, Reed (AOU 1995, 1998);

Reed-Bunting, Pallas', Emberiza pallasi, becomes Bunting, Pallas's (AOU 1995, 1998);

Sandpiper, Spoonbill, Eurynorhynchus pygmeus, becomes Sandpiper, Spoon-billed (AOU 2004);

Skylark, Eurasian, Alauda arvensis, becomes Lark, Sky (AOU 1995, 1998);

Sparrow, Harris', Zonotrichia querela, becomes Sparrow, Harris's (AOU 1998);

Sparrow, Sharp-tailed, Ammodramus caudacutus, becomes Sparrow, Saltmarsh Sharp-tailed (AOU 1995, 1998);

Starling, Ashy, Sturnus cineraceus, becomes Starling, White-cheeked (Monroe and Sibley 1993);

Starling, Violet-backed, Sturnus philippensis, becomes Starling, Chestnut-cheeked (Monroe and Sibley 1993);

Stint, Rufous-necked, Calidris ruficollis, becomes Stint, Red-necked (AOU 1995);

Storm-Petrel, Sooty, Oceanodroma tristrami, becomes Storm-Petrel, Tristram's (AOU 1989, 1998);

Swift, Antillean Palm, Tachornis phoenicobia, becomes Palm-Swift, Antillean (AOU 1983, 1998);

Tanager, Stripe-headed, Spindalis zena, becomes Spindalis, Western (AOU 2000);

Teal, Falcated, Anas falcata, becomes Duck, Falcated (AOU 1997, 1998);

Thrush, Eye-browed, Turdus obscurus, becomes Thrush, Eyebrowed (AOU 1989, 1998);

Towhee, Brown, Pipilo fuscus, becomes Towhee, Canyon (AOU 1989, 1998);

Towhee, Rufous-sided, Pipilo erythrophthalmus, becomes Towhee, Eastern (AOU 1995, 1998);

Tree-Pipit, Olive, Anthus hodgsoni, becomes Pipit, Olive-backed (AOU 1995, 1998);

Trogon, Eared, Euptilotis neoxenus, becomes Quetzel, Eared (AOU 2002);

Vireo, Solitary, Vireo solitarius, becomes Vireo, Blue-headed (AOU 1997, 1998);

Warbler, Elfin Woods, Dendroica angelae, becomes Warbler, Elfin-woods (AOU 1998); and

Woodpecker, Lewis', Melanerpes lewis, becomes Woodpecker, Lewis's (AOU 1998).

(10) Revise the scientific names of 66 species to conform to the most recent nomenclatural treatment. These revisions do not change the protective status of any of these taxa, only the names by which they are known. In each case, we reference the AOU publication(s) documenting the name change:

Actitis macularia (Spotted Sandpiper) becomes Actitis macularius (AOU 2004);

Ajaia ajaja (Roseate Spoonbill) becomes Platalea ajaja (AOU 2002);

Amphispiza quinquestriata (Five-striped Sparrow) becomes Aimophila quinquestriata (AOU 1997, 1998);

Casmerodius albus (Great Egret) becomes Ardea alba (AOU 1995, 1998);

Catharacta maccormicki (South Polar Skua) becomes Stercorarius maccormicki (AOU 2000);

Catharacta skua (Great Skua) becomes Stercorarius skua (AOU 2000);

Catoptrophorus semipalmatus (Willet) becomes Tringa semipalmata (AOU 2006);

Ceryle alcyon (Belted Kingfisher) becomes Megaceryl alcyon (AOU 2007);

Ceryle torquatus (= Ceryle torquata) (Ringed Kingfisher) becomes Megaceryl torquata (AOU 2004, 2007);

Columba fasciata (Band-tailed Pigeon) becomes Patagioenas fasciata (AOU 2003);

Columba flavirostris (Red-billed Pigeon) becomes Patagioenas flavirostris (AOU 2003);

Columba inornata (Plain Pigeon) becomes Patagioenas inornata (AOU 2003);

Columba leucocephala (White-crowned Pigeon) becomes Patagioenas leucocephala (AOU 2003);

Columba squamosa (Scaly-naped Pigeon) becomes Patagioenas squamosa (AOU 2003);

Contopus borealis (Olive-sided Flycatcher) becomes Contopus cooperi (AOU 1997, 1998);

Cuculus saturatus (Oriental Cuckoo) becomes Cuculus optatus (AOU 2006);

Cyclorrhynchus psittacula (Parakeet Auklet) becomes Aethia psittacula (AOU 1997, 1998);

Delichon urbica (Common House-Martin) becomes Delichon urbicum (AOU 2004);

Diomedea albatrus (Short-tailed Albatross) becomes Phoebastria albatrus (AOU 1997, 1998);

Diomedea chlororhynchos (Yellow-nosed Albatross) becomes Thalassarche chlororhynchos (AOU 1997, 1998);

Diomedea immutabilis (Laysan Albatross) becomes Phoebastria immutabilis (AOU 1997, 1998);

Diomedea nigripes (Black-footed Albatross) becomes Phoebastria nigripes (AOU 1997, 1998);

Guiraca caerulea (Blue Grosbeak) becomes Passerina caerulea (AOU 2002);

Heteroscelus brevipes (Gray-tailed Tattler) becomes Tringa brevipes (AOU 2006);

Heteroscelus incanus (Wandering Tattler) becomes Tringa incana (AOU 2006);

Helmitheros vermivora (Worm-eating Warbler) becomes Helmitheros vermivorum (AOU 2004);

Hirundo fulva (Cave Swallow) becomes Petrochelidon fulva (AOU 1997, 1998);

Hirundo pyrrhonota (Cliff Swallow) becomes Petrochelidon pyrrhonota (AOU 1997, 1998);

Muscicapa narcissina (Narcissus Flycatcher) becomes Ficedula narcissina (AOU 1991, 1998);

Nesochen sandvicensis (Hawaiian Goose) becomes Branta sandvicensis (AOU 1993, 1998);

Nyctea scandiaca (Snowy Owl) becomes Bubo scandiacus (AOU 2003);

Nycticorax goisagi (Japanese Night-Heron) becomes Gorsachius goisagi (Monroe and Sibley 1993);

Nycticorax violaceus (Yellow-crowned Night-Heron) becomes Nyctanassa violacea (AOU 1998);

Orthorhynchus cristatus (Antillean Crested Hummingbird) becomes Orthorhyncus cristatus (AOU 1987);

Otus asio (Eastern Screech-Owl) becomes Megascops asio (AOU 2003);

Otus kennicottii (Western Screech-Owl) becomes Megascops kennicottii (AOU 2003);

Otus nudipes (Puerto Rican Screech-Owl) becomes Megascops nudipes (AOU 2003);

Otus trichopsis (Whiskered Screech-Owl) becomes Megascops trichopsis (AOU 2003);

Oxyura dominica (Masked Duck) becomes Nomonyx dominicus (AOU 1997, 1998);

Parus atricapillus (Black-capped Chickadee) becomes Poecile atricapillus (AOU 1997, 1998, 2003);

Parus bicolor (Tufted Titmouse) becomes Baeolophus bicolor (AOU 1997, 1998);

Parus carolinensis (Carolina Chickadee) becomes Poecile carolinensis (AOU 1997, 1998);

Parus gambeli (Mountain Chickadee) becomes Poecile gambeli (AOU 1997, 1998);

Parus hudsonicus (Boreal Chickadee) becomes Poecile hudsonica (AOU 1997, 1998, 2000);

Parus rufescens (Chestnut-backed Chickadee) becomes Poecile rufescens (AOU 1997, 1998);

Parus sclateri (Mexican Chickadee) becomes Poecile sclateri (AOU 1997, 1998);

Parus wollweberi (Bridled Titmouse) becomes Baeolophus wollweberi (AOU 1997, 1998);

Phalaropus fulicaria (Red Phalarope) becomes Phalaropus fulicarius (AOU 2002);

Polyborus plancus (Crested Caracara) becomes Caracara cheriway (AOU 1993, 1998, 2000);

Porphyrula martinica (Purple Gallinule) becomes Porphyrio martinica (AOU 2002);

Saurothera vieilloti (Puerto Rican Lizard-Cuckoo) becomes Coccyzus vieilloti (AOU 2006);

Seiurus aurocapillus (Ovenbird) becomes Seiurus aurocapilla (AOU 2003);

Sterna albifrons (Little Tern) becomes Sternula albifrons (AOU 2006);

Sterna aleutica (Aleutian Tern) becomes Onychoprion aleuticus (AOU 2006);

Sterna anaethetus (Bridled Tern) becomes Onychoprion anaethetus (AOU 2006);

Sterna antillarum (Least Tern) becomes Sternula antillarum (AOU 2006);

Sterna caspia (Caspian Tern) becomes Hydroprogne caspia (AOU 2006);

Sterna elegans (Elegant Tern) becomes Thalasseus elegans (AOU 2006);

Sterna fuscata (Sooty Tern) becomes Onychoprion fuscatus (AOU 2006);

Sterna lunata (Gray-backed Tern) becomes Onychoprion lunatus (AOU 2006);

Sterna maxima (Royal Tern) becomes Thalasseus maximus (AOU 2006);

Sterna nilotica (Gull-billed Tern) becomes Gelochelidon nilotica (AOU 2006);

Sterna sandvicensis (Sandwich Tern) becomes Thalasseus sandvicensis (AOU 2006);

Sula bassanus (Northern Gannet) becomes Morus bassanus (AOU 1989, 1998);

Tiaris olivacea (Yellow-faced Grassquit) becomes Tiaris olivaceus (AOU 2004); and

Toxostoma dorsale (Crissal Thrasher) becomes Toxostoma crissale (AOU 1985, 1998).

(11) Revise the common (English) and scientific names of seven species to conform with the most recent nomenclatural treatment. These revisions do not change the protective status of any of these taxa, only the names by which they are known. In each case, we reference the publication(s) supporting the name change:

Cormorant, Olivaceous, Phalacrocorax olivaceus, becomes Cormorant, Neotropic, Phalacrocorax brasilianus (AOU 1991, 1998);

Egret, Plumed, Egretta intermedia, becomes Egret, Intermediate, Mesophoyx intermedia (Monroe and Sibley 1993);

Night-Heron, Malay, Nycticorax melanolophus, becomes Night-Heron, Malayan, Gorsachius melanolophus (Monroe and Sibley 1993);

Thrush, Hawaiian, Phaeornis obscurus, becomes Omao, Myadestes obscurus (AOU 1985, 1998);

Thrush, Small Kauai, Phaeornis palmeri, becomes Puaiohi, Myadestes palmeri (AOU 1985, 1998);

Tit, Siberian, Parus cinctus, becomes Chickadee, Gray-headed, Poecile cincta (AOU 1998, 2000); and

Titmouse, Plain, Parus inornatus, becomes Titmouse, Oak, Baeolophus inornatus (AOU 1997, 1998).

(12) Revise incorrect or invalid scientific names of four species in the alphabetical list to reflect the most recent nomenclatural treatment and to correct inconsistencies between the alphabetical and taxonomic lists:

Kittiwake, Black-legged, Larus tridactyla, becomes Rissa trydactyla (AOU 1998);

Kittiwake, Red-legged, Larus brevirostris, becomes Rissa brevirostris (AOU 1998);

Skimmer, Black, Rhynchops niger, becomes Rynchops niger (AOU 1998); and

Thrush, Wood, Hylocichla minima, becomes Hylocichla mustelina (AOU 1998).

(13) Revise the common (English) name of two species in the alphabetical and taxonomic lists to correct misspellings:

Bittern, Schrenk's, Ixobrychus eurhythmus, becomes Bittern, Schrenck's (Monroe and Sibley 1993); and

Redstart, Slaty-throated, Myioborus miniatus, becomes Redstart, Slate-throated (AOU 1998).

(14) Revise the scientific names of three species in the taxonomic list to correct misspellings and inconsistencies between the alphabetical and taxonomic lists:

Sialis currucoides (Mountain Bluebird) becomes Sialia currucoides (AOU 1998);

Sialis mexicana (Western Bluebird) becomes Sialia mexicana (AOU 1998); and

Sialis sialis (Eastern Bluebird) becomes Sialia sialis (AOU 1998).

(15) Change the status of one taxon from protected subspecies to non-protected species (because there is no known natural occurrence of the newly recognized species in the United States or its territories). In accordance with the AOU (1998), the Barbary Falcon has been treated as a subspecies (pelegrinoides) of the Peregrine Falcon (Falco peregrinus) in 50 CFR 10.13. We defer to the taxonomic treatment of Monroe and Sibley (1993) in recognizing F. peregrinus pelegrinoides as a distinct species, Falco pelegrinoides, the Barbary Falcon. This brings our treatment of this taxon into conformity with that adopted by the Convention on International Trade in Endangered Species of Wild Flora and Fauna (CITES), thereby removing an inconsistency between the MBTA (50 CFR 10.13) and CITES (50 CFR 23.23) lists. This simple taxonomic change does not add or remove any species from the list:

Falco peregrinus pelegrinoides, formerly considered a subspecies of the Peregrine Falcon, is changed to Falco pelegrinoides, Barbary Falcon (Monroe and Sibley 1993). TheBarbary Falcon is not subject to the MBTA because its known geographic range lies entirely outside the political boundaries of the United States and its territories. This does not change the legal status of any other subspecies of the Peregrine Falcon, all of which will continue to be protected under the MBTA.

We continue to consider all previously recognized subspecies of the Canada Goose (Branta canadensis) as one species.

As a general practice, we use the AOU as a key source for taxonomic decisions. However, for species that are hunted, we may see a higher level of certainty about taxonomic changes before modifying hunting regulations and management plans, and communicating those changes to the public.

The AOU recently adopted nomenclature that divides the 11 subspecies of the previously-recognized single Canada Goose species into two species groups, Canada Goose and Cackling Goose (Branta hutchinsii) (AOU 2004). However, we choose to include the four subspecies AOU now considers Cackling Goose in the listing of Canada Goose, rather than include them in a separate species. Some waterfowl specialists do not agree that the data on which the AOU relied warranted the separation into two species. The AOU recommendation is based on research in large part supported by analysis of mitochondrial DNA (Van Wagner and Baker 1986, Shields and Wilson 1987, Quinn et al. 1991, Paxinos et al. 2002, Scribner et al. 2003). These studies suggest a difference between Cackling and Canada Geese primarily based on maternally inherited nonrecombinate mitochondrial DNA (mtDNA). We believe the mtDNA analyzed from geese in the geographic areas sampled indicate a substantial evolutionary distance between groups the AOU classifies as Cackling and Canada Geese. However, the nuclear (recombinant) microsatellite DNA (nuDNA) assessment presented in Scribner et al. (2003: Fig. 3) suggests either that the nuDNA has not yet sorted (nuDNA takes approximately four times as long to consolidate as does mtDNA [Zink and Barrowclough 2008]), or that this historical division is not being maintained because hybridization is occurring. An assessment of the nuDNA group samples from the North Slope of Alaska (now considered B. h. taverneri, a subspecies of Cackling Goose, by the AOU) suggests that this group is most closely paired with samples from South Central Alaska (B. c. parvipes, considered a subspecies of Canada Goose by the AOU). These results are consistent with those reported by Van Wagner and Baker (1990). If Cackling and Canada Geese are hybridizing, it is unclear what the outcome will be. Consequently, FWS is concerned whether the sample size and geographic distribution of specimens obtained for genetic analysis was adequate to determine the extent of hybridization. We suggest additional analysis of samples collected at several potential zones of integration to reduce this uncertainty, including the north slope of Alaska (B. h. taverneri and B. c. parvipes), and Arctic Canada (B. h. hutchinsii and B. c. parvipes, and B. h. hutchinsii and B. c. interior). Some of this work is already underway.

Issues related to monitoring and assessment of the proposed two species/Canada Goose complex also need to be resolved to ensure that the continuity in status assessments is maintained. We are also reluctant to begin informing the public, both hunters and non-hunters alike, of the implications of this change until further studies confirm that this separation is warranted. Additional research on Canada/Cackling Goose taxonomy and breeding distribution is currently being conducted and better techniques for field and harvest identification are in development. We will consider this additional information when it is available, at which time we may reconsider our decision. In any case, we emphasize that, regardless of name, goose subspecies identified as Cackling Goose by the AOU remain protected under the Migratory Bird Treaty Act as Canada Goose.

For ease of comparison, changes are summarized in the following table (numbers reference the categories treated above). Species whose names have been revised (categories 9-14) appear in both the left-hand column (old name removed) and right-hand column (new name added). To ensure that these two separate actions appear on the same line of the table, we employ brackets to identify old (removed) or new (added) names that are listed in correct alphabetical order elsewhere in the table:

Removed (alphabetically) | Added (alphabetically)
| Akekee, Loxops caeruleirostris (4).
| Akepa, Loxops coccineus (4).
| Akialoa, Greater, Hemignathus ellisianus (4).
| Akiapolaau, Hemignathus munroi (4).
| Akikiki, Oreomystis bairdi (4).
| Akohekohe, Palmeria dolei (4).
| Alauahio, Maui, Paroreomyza montana (4).
| Alauahio, Oahu, Paroreomyza maculate (4).
| Albatross, Black-browed, Thalassarche melanophris (3).
Albatross, Black-footed, Diomedea nigripes (10) | Albatross, Black-footed, Phoebastria nigripes (10).
Albatross, Laysan, Diomedea immutabilis (10) | Albatross, Laysan, Phoebastria immutabilis (10).
| Albatross, Light-mantled, Phoebetria palpebrata (3).
Albatross, Short-tailed, Diomedea albatrus (10) | Albatross, Short-tailed, Phoebastria albatrus (10).
| Albatross, Shy, Thalassarche cauta (2).
| Albatross, Wandering, Diomedea exulans (2).
Albatross, Yellow-nosed, Diomedea chlororhynchos (10) | Albatross, Yellow-nosed, Thalassarche chlororhynchos (10).
| Amakihi, Hawaii, Hemignathus virens (4).
| Amakihi, Kauai, Hemignathus kauaiensis (4).
| Amakihi, Oahu, Hemignathus flavus (4).
| Anianiau, Magumma parva (4).
| Apapane, Himatione sanguinea (4).
Auklet, Parakeet, Cyclorrhynchus psittacula (10) | Auklet, Parakeet, Aethia psittacula (10).
Barn-Owl, Common, Tyto alba (9) | [see Owl, Barn].
| Bean-Goose, Taiga, Anser fabalis (9).
| Bean-Goose, Tundra, Anser serrirostris (6).
| Bittern, Black, Ixobrychus flavicollis (5).
Bittern, Chinese, Ixobrychus sinensis (9) | Bittern, Yellow, Ixobrychus sinensis (9).
Bittern, Schrenk's, Ixobrychus eurhythmus (13) | Bittern, Schrenck's, Ixobrychus eurhythmus (13).
Bluebird, Eastern, Sialis sialis (14) | Bluebird, Eastern, Sialia sialis (14).
Bluebird, Mountain, Sialis currucoides (14) | Bluebird, Mountain, Sialia currucoides (14).
Bluebird, Western, Sialis mexicana (14) | Bluebird, Western, Sialia mexicana (14).
| Bluetail, Red-flanked, Tarsiger cyanurus (3).
| Bunting, Blue, Cyanocompsa parellina (2).
| Bunting, Gray, Emberiza variabilis (2).
| Bunting, Little, Emberiza pusilla (2).
[see Reed-Bunting, Pallas'] | Bunting, Pallas's, Emberiza pallasi (9).
| Bunting, Pine, Emberiza leucocephalos (3).
[see Reed-Bunting, Common] | Bunting, Reed, Emberiza schoeniclus (9).
| Bunting, Yellow-breasted, Emberiza aureola (3).
| Bunting, Yellow-throated, Emberiza elegans (3).
| Carib, Purple-throated, Eulampis jugularis (3).
Caracara, Crested, Polyborus plancus (10) | Caracara, Crested, Caracara cheriway (10).
| Catbird, Black, Melanoptila glabrirostris (3).
| Chaffinch, Common, Fringilla coelebs (2).
Chickadee, Black-capped, Parus atricapillus (10) | Chickadee, Black-capped, Poecile atricapillus (10).
Chickadee, Boreal, Parus hudsonicus (10) | Chickadee, Boreal, Poecile hudsonica (10).
Chickadee, Carolina, Parus carolinensis (10) | Chickadee, Carolina, Poecile carolinensis (10).
Chickadee, Chestnut-backed, Parus rufescens (10) | Chickadee, Chestnut-backed, Poecile rufescens (10).
[see Tit, Siberian] | Chickadee, Gray-headed, Poecile cincta (11).
Chickadee, Mexican, Parus sclateri (10) | Chickadee, Mexican, Poecile sclateri (10).
Chickadee, Mountain, Parus gambeli (10) | Chickadee, Mountain, Poecile gambeli (10).
| Coot, Hawaiian, Fulica alai (6).
| Cormorant, Little Pied, Phalacrocorax melanoleucos (5).
Cormorant, Olivaceous, Phalacrocorax olivaceus (11) | Cormorant, Neotropic, Phalacrocorax brasilianus (11).
| Crake, Paint-billed, Neocrex erythrops (2).
| Crake, Spotless, Porzana tabuensis (5).
| Creeper, Hawaii, Oreomystis mana (4).
| Crow, Mariana, Corvus kubaryi (5).
Crow, Mexican, Corvus imparatus (9) | Crow, Tamaulipas, Corvus imparatus (9).
Cuckoo, Oriental, Cuculus saturatus (10) | Cuckoo, Oriental, Cuculus optatus (10).
| Curlew, Eurasian, Numenius arquata (2).
Curlew, Least, Numenius minutus (9) | Curlew, Little, Numenius minutus (9).
[see Teal, Falcated] | Duck, Falcated, Anas falcata (9).
[see Oldsquaw] | Duck, Long-tailed, Clangula hyemalis (9).
Duck, Masked, Oxyura dominica (10) | Duck, Masked, Nomonyx dominicus (10).
| Duck, Muscovy, Cairina moschata (3).
| Duck, Pacific Black, Anas superciliosa (5).
| Duck, Spot-billed, Anas poecilorhyncha (1).
Egret, Great, Casmerodius albus (10) | Egret, Great, Ardea alba (10).
Egret, Plumed, Egretta intermedia (11) | Egret, Intermediate, Mesophoyx intermedia (11).
| Egret, Little, Egretta garzetta (3).
| Elaenia, Greenish, Myiopagis viridicata (3).
[Falcon, Barbary, Falco peregrinus pelegrinoides (=Falco pelegrinoides)] (15) | Falcon, Red-footed, Falco vespertinus (3).
| Finch, Laysan, Telespiza cantans (4).
| Finch, Nihoa, Telespiza ultima (4).
Finch, Rosy, Leucosticte arctoa (7) | [see Rosy-Finch].
| Flicker, Gilded, Colaptes chrysoides (6).
| Flycatcher, Cordilleran, Empidonax occidentalis (6).
Flycatcher, Gray-spotted, Muscicapa griseisticta (9) | Flycatcher, Gray-streaked, Muscicapa griseisticta (9).
| Flycatcher, La Sagra's, Myiarchus sagrae (2).
Flycatcher, Narcissus, Muscicapa narcissina (10) | Flycatcher, Narcissus, Ficedula narcissina (10).
Flycatcher, Olive-sided, Contopus borealis (10) | Flycatcher, Olive-sided, Contopus cooperi (10).
Flycatcher, Western, Empidonax difficilis (9) | Flycatcher, Pacific-slope, Empidonax difficilis (9).
| Flycatcher, Piratic, Legatus leucophalus (3).
| Flycatcher, Social, Myiozetetes similis (3).
| Flycatcher, Tufted, Mitrephanes phaeocercus (3).
| Flycatcher, Variegated, Empidonomus varius (2).
| Forest-Falcon, Collared, Micrastur semitorquatus (3).
| Frog-Hawk, Gray, Accipiter soloensis (3).
| Fruit-Dove, Crimson-crowned, Ptilinopus porphyraceus (5).
| Fruit-Dove, Many-colored, Ptilinopus perousii (5).
| Fruit-Dove, Mariana, Ptilinopus roseicapilla (5).
| Gallinule, Azure, Porphyrio flavirostris (3).
Gallinule, Purple, Porphyrula martinica (10) | Gallinule, Purple, Porphyrio martinica (10).
Gannet, Northern, Sula bassanus (10) | Gannet, Northern, Morus bassanus (10).
| Gnatcatcher, California, Polioptila californica (6).
Golden-Plover, Lesser, Pluvialis dominica (9) | Golden-Plover, American, Pluvialis dominica (9).
| Golden-Plover, European, Pluvialis apricaria (3).
| Golden-Plover, Pacific, Pluvialis fulva (6).
Goose, Bean, Anser fabalis (9) | [see Bean-Goose, Taiga].
Goose, Hawaiian, Nesochen sandvicensis (10) | Goose, Hawaiian, Branta sandvicensis (10).
| Goose, Lesser White-fronted, Anser erythropus (3).
Goose, Ross', Chen rossii (9) | Goose, Ross's, Chen rossii (9).
Grassquit, Yellow-faced, Tiaris olivacea (10) | Grassquit, Yellow-faced, Tiaris olivaceus (10).
| Grebe, Clark's, Aechmophorus clarkii (6).
| Greenshank, Nordmann's, Tringa guttifer (5).
Grosbeak, Blue, Guiraca caerulea (10) | Grosbeak, Blue, Passerina caerulea (10).
| Ground-Dove, Friendly, Gallicolumba stairi (5).
| Ground-Dove, White-throated, Gallicolumba xanthonura (5).
| Gull, Belcher's, Larus belcheri (2).
Gull, Common Black-headed, Larus ridibundus (9) | Gull, Black-headed, Larus ridibundus (9).
| Gull, Black-tailed, Larus crassirostris (1).
| Gull, Gray-hooded, Larus cirrocephalus (3).
| Gull, Kelp, Larus dominicanus (3).
Gull, Ross', Rhodostethia rosea (9) | Gull, Ross's, Rhodostethia rosea (9).
| Gull, Yellow-legged, Larus michahellis (3).
Hawk, Asiatic Sparrow, Accipiter gularis (9) | [see Sparrowhawk, Japanese].
| Hawk, Crane, Geranospiza caerulescens (3).
Hawk, Harris', Parabuteo unicinctus (9) | Hawk, Harris's, Parabuteo unicinctus (9).
| Hawk, Roadside, Buteo magnirostris (2).
Hawk-Owl, Northern, Surnia ulula (9) | [see Owl, Northern Hawk].
| Heron, Gray, Ardea cinerea (5).
| Heron, Green, Butorides virescens (6).
Heron, Green-backed, Butorides striatus (7) | [see Heron, Green].
Heron, Pacific Reef, Egretta sacra (9) | [see Reef-Egret, Pacific].
| Hobby, Eurasian, Falco subbuteo (3).
Hoopoe, Upupa epops (9) | Hoopoe, Eurasian, Upupa epops (9).
House-Martin, Common, Delichon urbica (10) | House-Martin, Common, Delichon urbicum (10).
Hummingbird, Antillean Crested, Orthorhynchus cristatus (10) | Hummingbird, Antillean Crested, Orthorhyncus cristatus (10).
| Hummingbird, Bumblebee, Atthis heloisa (2).
| Hummingbird, Cinnamon, Amazilia rutila (3).
| Hummingbird, Xantus's, Hylocharis xantusii (3).
| Iiwi, Vestiaria coccinea (4).
| Imperial-Pigeon, Pacific, Ducula pacifica (5).
Jay, Gray-breasted, Aphelocoma ultramarina (9) | Jay, Mexican, Aphelocoma ultramarina (9).
Jay, Scrub, Aphelocoma coerulescens (9) | [see Scrub-Jay, Florida].
| Kakawahie, Paroreomyza flammea (4).
| Kamao, Myadestes myadestinus (6).
| Kingfisher, Collared, Todirhamphus chloris (5).
| Kingfisher, Micronesian, Todirhamphus cinnamominus (5).
Kingfisher, Belted, Ceryle alcyon (10) | Kingfisher, Belted, Megaceryle alcyon (10).
Kingfisher, Ringed, Ceryle torquatus (10) | Kingfisher, Ringed, Megaceryle torquata (10).
Kite, American Swallow-tailed, Elanoides forficatus (9) | Kite, Swallow-tailed, Elanoides forficatus (9).
Kite, Black-shouldered, Elanus caeruleus (7) | [see Kite, White-tailed].
| Kite, White-tailed, Elanus leucurus (6).
Kittiwake, Black-legged, Larus tridactyla (12) | Kittiwake, Black-legged, Rissa trydactyla (12).
Kittiwake, Red-legged, Larus brevirostris (12) | Kittiwake, Red-legged, Rissa brevirostris (12).
[see Skylark, Eurasian] | Lark, Sky, Alauda arvensis (9).
Lizard-Cuckoo, Puerto Rican, Saurothera vieilloti (10) | Lizard-Cuckoo, Puerto Rican, Coccyzus vieilloti (10).
| Loon, Pacific, Gavia pacifica (6).
Magpie, Black-billed (=Eurasian), Pica pica (7) | [see Magpie, Black-billed, Pica hudsonia].
| Magpie, Black-billed, Pica hudsonia (6).
| Mango, Green-breasted, Anthracothorax prevostii (3).
| Martin, Brown-chested, Progne tapera (3).
| Martin, Southern, Progne elegans (2).
| Millerbird, Acrocephalus familiaris (4).
| Mockingbird, Bahama, Mimus gundlachii (2).
| Mockingbird, Blue, Melanotis caerulescens (3).
| Murrelet, Long-billed, Brachyramphus perdix (6).
Murrelet, Xantus', Synthliboramphus hypoleucus (9) | Murrelet, Xantus's, Synthliboramphus hypoleucus (9).
Night-Heron, Japanese, Nycticorax goisagi (10) | Night-Heron, Japanese, Gorsachius goisagi (10).
Night-Heron, Malay, Nycticorax melanolophus (11) | Night-Heron, Malayan, Gorsachius melanolophus (11).
Night-Heron, Yellow-crowned, Nycticorax violaceus (10) | Night-Heron, Yellow-crowned, Nyctanassa violacea (10).
| Nightingale-Thrush, Black-headed, Catharus mexicanus (3).
| Nightingale-Thrush, Orange-billed, Catharus aurantiirostris (3).
Nightjar, Jungle, Caprimulgus indicus (9) | Nightjar, Gray, Caprimulgus indicus (9).
Noddy, Lesser, Anous tenuirostris (7) | Nukupuu, Hemignathus lucidus (4).
Oldsquaw, Clangula hyemalis (9) | [see Duck, Long-tailed].
| Olomao, Myadestes lanaiensis (6).
[see Thrush, Hawaiian] | Omao, Myadestes obscurus (11).
Oriole, Northern, Icterus galbula (9) | Oriole, Baltimore, Icterus galbula (9).
| Oriole, Bullock's, Icterus bullockii (6).
Oriole, Black-cowled, Icterus dominicensis (9) | Oriole, Greater Antillean, Icterus dominicensis (9).
| Ou, Psittirostra psittacea (4).
Ovenbird, Seiurus aurocapillus (10) | Ovenbird, Seiurus aurocapilla (10).
[see Barn-Owl, Common] | Owl, Barn, Tyto alba (9).
| Owl, Mottled, Ciccaba virgata (3).
[see Hawk-Owl, Northern] | Owl, Northern Hawk, Surnia ulula (9).
Owl, Snowy, Nyctea scandiaca (10) | Owl, Snowy, Bubo scandiacus (10).
| Owl, Stygian, Asio stygius (3).
| Oystercatcher, Eurasian, Haematopus ostralegus (5).
| Palila, Loxioides bailleui (4).
[see Swift, Antillean Palm] | Palm-Swift, Antillean, Tachornis phoenicobia (9).
| Parrotbill, Maui, Pseudonestor xanthophrys (4).
| Petrel, Bermuda, Pterodroma cahow (3).
| Petrel, Black-winged, Pterodroma nigripennis (2).
Petrel, Dark-rumped, Pterodroma phaeopygia (7) | [see Petrel, Hawaiian].
| Petrel, Gould's, Pterodroma leucoptera (5).
| Petrel, Great-winged, Pterodroma macroptera (3).
| Petrel, Hawaiian, Pterodroma sandwichensis (6).
| Petrel, Jouanin's, Bulweria fallax (2).
Petrel, White-necked, Pterodroma externa (9) | Petrel, Juan Fernandez, Pterodroma externa (9).
| Petrel, Phoenix, Pterodroma alba (5).
| Petrel, Stejneger's, Pterodroma longirostris (3).
| Petrel, Tahiti, Pterodroma rostrata (5).
| Petrel, White-necked, Pterodroma cervicalis (6).
| Pewee, Cuban, Contopus caribaeus (3).
| Pewee, Hispaniolan, Contopus hispaniolensis (2).
Phalarope, Red, Phalaropus fulicaria (10) | Red Phalarope, Phalaropus fulicarius (10).
Pigeon, Band-tailed, Columba fasciata (10) | Pigeon, Band-tailed, Patagioenas fasciata (10).
Pigeon, Plain, Columba inornata (10) | Pigeon, Plain, Patagioenas inornata (10).
Pigeon, Red-billed, Columba flavirostris (10) | Pigeon, Red-billed, Patagioenas flavirostris (10).
Pigeon, Scaly-naped, Columba squamosa (10) | Pigeon, Scaly-naped, Patagioenas squamosa (10).
Pigeon, White-crowned, Columba leucocephala (10) | Pigeon, White-crowned, Patagioenas leucocephala (10).
Pipit, Water, Anthus spinoletta (7) | [see Pipit, American].
| Pipit, American, Anthus rubescens (6).
[see Tree-Pipit, Olive] | Pipit, Olive-backed, Anthus hodgsoni (9).
| Pipit, Tree, Anthus trivialis (2).
| Plover, Collared, Charadrius collaris (3).
Plover, Great Sand, Charadrius leschenaultii (9) | [see Sand-Plover, Greater].
Plover, Mongolian, Charadrius mongolus (9) | [see Sand-Plover, Lesser].
| Pond-Heron, Chinese, Ardeola bacchus (3).
| Poo-uli, Melamprosops phaeosoma (4).
[see Thrush, Small Kauai] | Puaiohi, Myadestes palmeri (11).
[see Trogon, Eared] | Quetzel, Eared, Euptilotis neoxenus (9).
| Rail, Buff-banded, Gallirallus philippensis (5).
| Rail, Guam, Gallirallus owstoni (5).
| Rail, Spotted, Pardirallus maculatus (2).
Redstart, Slaty-throated, Myioborus miniatus (13) | Redstart, Slate-throated, Myioborus miniatus (13).
Reed-Bunting, Common, Emberiza schoeniclus (9) | [see Bunting, Reed].
Reed-Bunting, Pallas', Emberiza pallasi (9) | [see Bunting, Pallas's].
| Reed-Warbler, Nightingale, Acrocephalus luscinia (5).
[see Heron, Pacific Reef] | Reef-Egret, Pacific, Egretta sacra (9).
| Reef-Heron, Western, Egretta gularis (3).
| Robin, Siberian Blue, Luscinia cyane (3).
| Robin, White-throated, Turdus assimilis (3).
| Rosy-Finch, Black, Leucosticte atrata (6).
| Rosy-Finch, Brown-capped, Leucosticte australis (6).
| Rosy-Finch, Gray-crowned, Leucosticte tephrocotis (6).
| Sandpiper, Green, Tringa ochropus (3).
Sandpiper, Spoonbill, Eurynorhynchus pygmeus (9) | Sandpiper, Spoon-billed, Eurynorhynchus pygmeus (9).
Sandpiper, Spotted, Actitis macularia (10) | Sandpiper, Spotted, Actitis macularius (10).
[see Plover, Great Sand] | Sand-Plover, Greater, Charadrius leschenaultii (9).
[see Plover, Mongolian] | Sand-Plover, Lesser, Charadrius mongolus (9).
| Sapsucker, Red-naped, Sphyrapicus nuchalis (6).
| Scops-Owl, Oriental, Otus sunia (2).
Screech-Owl, Eastern, Otus asio (10) | Screech-Owl, Eastern, Megascops asio (10).
Screech-Owl, Puerto Rican, Otus nudipes (10) | Screech-Owl, Puerto Rican, Megascops nudipes (10).
Screech-Owl, Western, Otus kennicottii (10) | Screech-Owl, Western, Megascops kennicottii (10).
Screech-Owl, Whiskered, Otus trichopsis (10) | Screech-Owl, Whiskered, Megascops trichopsis (10).
[see Jay, Scrub] | Scrub-Jay, Florida, Aphelocoma coerulescens (9).
| Scrub-Jay, Island, Aphelocoma insularis (6).
| Scrub-Jay, Western, Aphelocoma californica (6).
| Shearwater, Cape Verde, Calonectris edwardsii (3).
| Shearwater, Streaked, Calonectris leucomelas (2).
| Shrike, Brown, Lanius cristatus (2).
| Silky-flycatcher, Gray, Ptilogonys cinereus (3).
| Siskin, Eurasian, Carduelis spinus (3).
Skimmer, Black, Rhynchops niger (12) | Skimmer, Black, Rynchops niger (12).
Skua, Great, Catharacta skua (10) | Skua, Great, Stercorarius skua (10).
Skua, South Polar, Catharacta maccormicki (10) | Skua, South Polar, Stercorarius maccormicki (10).
Skylark, Eurasian, Alauda arvensis (9) | [see Lark, Sky].
| Snipe, Wilson's, Gallinago delicata (6).
Sparrow, Five-striped, Amphispiza quinquestriata (10) | Sparrow, Five-striped, Aimophila quinquestriata (10).
Sparrow, Harris', Zonotrichia querula (9) | Sparrow, Harris's, Zonotrichia querula (9).
| Sparrow, Nelson's Sharp-tailed, Ammodramus nelsoni (6).
Sparrow, Sharp-tailed, Ammodramus caudacutus (9) | Sparrow, Saltmarsh Sharp-tailed, Ammodramus caudacutus (9).
[see Hawk, Asiatic Sparrow] | Sparrowhawk, Japanese, Accipiter gularis (9).
| Spindalis, Puerto Rican, Spindalis portoricensis (6).
[see Tanager, Stripe-headed] | Spindalis, Western, Spindalis zena (9).
Spoonbill, Roseate, Ajaia ajaja (10) | Spoonbill, Roseate, Platalea ajaja (10).
Starling, Violet-backed, Sturnus philippensis (9) | Starling, Chestnut-cheeked, Sturnus philippensis (9).
Starling, Ashy, Sturnus cineraceus (9) | Starling, White-cheeked, Sturnus cineraceus (9).
| Stilt, Black-winged, Himantopus himantopus (3).
Stint, Rufous-necked, Calidris ruficollis (9) | Stint, Red-necked, Calidris ruficollis (9).
| Stonechat, Saxicola torquatus (3).
| Storm-Petrel, Black-bellied, Fregetta tropica (3).
| Storm-Petrel, Matsudaira's, Oceanodroma matsudairae (5).
| Storm-Petrel, Polynesian, Nesofregata fuliginosa (5).
| Storm-Petrel, Ringed, Oceanodroma hornbyi (3).
Storm-Petrel, Sooty, Oceanodroma tristrami (9) | Storm-Petrel, Tristram's, Oceanodroma tristrami (9).
| Storm-Petrel, White-bellied, Fregetta grallaria (5).
Swallow, Cave, Hirundo fulva (10) | Swallow, Cave, Petrochelidon fulva (10).
Swallow, Cliff, Hirundo pyrrhonota (10) | Swallow, Cliff, Petrochelidon pyrrhonota (10).
| Swallow, Mangrove, Tachycineta albilinea (3).
| Swamphen, Purple, Porphyrio porphyrio (5).
| Swift, Alpine, Apus melba (3).
Swift, Antillean Palm, Tachornis phoenicobia (9) | [see Palm-Swift, Antillean].
| Swift, Short-tailed, Chaetura brachyura (2).
| Swiftlet, Mariana, Aerodramus bartschi (5).
| Swiftlet, White-rumped, Aerodramus spodiopygius (5).
| Tanager, Flame-colored, Piranga bidentata (3).
Tanager, Stripe-headed, Spindalis zena (9) | [see Spindalis, Western].
Tattler, Gray-tailed, Heteroscelus brevipes (10) | Tattler, Gray-tailed, Tringa brevipes (10).
Tattler, Wandering, Heteroscelus incanus (10) | Tattler, Wandering, Tringa incana (10).
Teal, Falcated, Anas falcata (9) | [see Duck, Falcated].
Tern, Aleutian, Sterna aleutica (10) | Tern, Aleutian, Onychoprion aleuticus (10).
Tern, Bridled, Sterna anaethetus (10) | Tern, Bridled, Onychoprion anaethetus (10).
Tern, Caspian, Sterna caspia (10) | Tern, Caspian, Hydroprogne caspia (10).
Tern, Elegant, Sterna elegans (10) | Tern, Elegant, Thalasseus elegans (10).
Tern, Gray-backed, Sterna lunata (10) | Tern, Gray-backed, Onychoprion lunatus (10).
| Tern, Great Crested, Thalasseus bergii (3).
Tern, Gull-billed, Sterna nilotica (10) | Tern, Gull-billed, Gelochelidon nilotica (10).
| Tern, Large-billed, Phaetusa simplex (2).
Tern, Least, Sterna antillarum (10) | Tern, Least, Sternula antillarum (10).
Tern, Little, Sterna albifrons (10) | Tern, Little, Sternula albifrons (10).
Tern, Royal, Sterna maxima (10) | Tern, Royal, Thalasseus maximus (10).
Tern, Sandwich, Sterna sandvicensis (10) | Tern, Sandwich, Thalasseus sandvicensis (10).
Tern, Sooty, Sterna fuscata (10) | Tern, Sooty, Onychoprion fuscatus (10).
| Tern, Whiskered, Chlidonias hybrida (3).
Thrasher, Crissal, Toxostoma dorsale (10) | Thrasher, Crissal, Toxostoma crissale (10).
| Thrush, Bicknell's, Catharus bicknelli (6).
Thrush, Eye-browed, Turdus obscurus (9) | Thrush, Eyebrowed, Turdus obscurus (9).
Thrush, Hawaiian, Phaeornis obscurus (11) | [see Omao].
Thrush, Small Kauai, Phaeornis palmeri (11) | [see Puaiohi].
Thrush, Wood, Hylocichla minima (12) | Thrush, Wood, Hylocichla mustelina (12).
Tit, Siberian, Parus cinctus (11) | [see Chickadee, Gray-headed].
| Titmouse, Black-crested, Baeolophus atricristatus (6).
Titmouse, Bridled, Parus wollweberi (10) | Titmouse, Bridled, Baeolophus wollweberi (10).
| Titmouse, Juniper, Baeolophus ridgwayi (6).
Titmouse, Plain, Parus inornatus (11) | Titmouse, Oak, Baeolophus inornatus (11).
Titmouse, Tufted, Parus bicolor (10) | Titmouse, Tufted, Baeolophus bicolor (10).
| Tityra, Masked, Tityra semifasciata (3).
| Towhee, California, Pipilo crissalis (6).
Towhee, Brown, Pipilo fuscus (9) | Towhee, Canyon, Pipilo fuscus (9).
Towhee, Rufous-sided, Pipilo erythrophthalmus (9) | Towhee, Eastern, Pipilo erythrophthalmus (9).
| Towhee, Spotted, Pipilo maculatus (6).
Tree-Pipit, Olive, Anthus hodgsoni (9) | [see Pipit, Olive-backed].
Trogon, Eared, Euptilotis neoxenus (9) | [see Quetzel, Eared].
| Turtle-Dove, Oriental, Streptopelia orientalis (3).
Vireo, Solitary, Vireo solitarius (9) | Vireo, Blue-headed, Vireo solitarius (9).
| Vireo, Cassin's, Vireo cassinii (6).
| Vireo, Plumbeous, Vireo plumbeus (6).
| Vireo, Thick-billed, Vireo crassirostris (2).
| Vireo, Yellow-green, Vireo flavoviridis (6).
| Vireo, Yucatan, Vireo magister (3).
Wagtail, Black-backed, Motacilla lugens (8) | Wagtail, Citrine, Motacilla citreola (3).
Wagtail, Yellow, Motacilla flava (7) | [see Wagtail, Eastern Yellow].
| Wagtail, Eastern Yellow, Motacilla tschutschensis (6).
| Warbler, Crescent-chested, Parula superciliosa (3).
| Warbler, Dusky, Phylloscopus fuscatus (2).
Warbler, Elfin Woods, Dendroica angelae (9) | Warbler, Elfin-woods, Dendroica angelae (9).
| Warbler, Fan-tailed, Euthlypis lachrymosa (2).
| Warbler, Lanceolated, Locustella lanceolata (3).
| Warbler, Wood, Phylloscopus sibilatrix (2).
| Warbler, Yellow-browed, Phylloscopus inornatus (3).
Warbler, Worm-eating, Helmitheros vermivora (10) | Warbler, Worm-eating, Helmitheros vermivorum (10).
| Whitethroat, Lesser, Sylvia curruca (3).
Willet, Catoptrophorus semipalmatus (10) | Willet, Tringa semipalmata (10).
| Woodpecker, American Three-toed, Picoides dorsalis (6).
| Woodpecker, Arizona, Picoides arizonae (6).
| Woodpecker, Great Spotted, Dendrocopos major (3).
Woodpecker, Lewis', Melanerpes lewis (9) | Woodpecker, Lewis's, Melanerpes lewis (9).
Woodpecker, Strickland's, Picoides stricklandi (7) | [see Woodpecker, Arizona].
Woodpecker, Three-toed, Picoides tridactylis (7) | [see Woodpecker, American Three-toed].

How Do the Changes Implemented Here Differ From Those Discussed in the Proposed Rule?

(1) Three species are added to category 2:

Tern, Large-billed, Phaetusa simplex;

Warbler, Dusky, Phylloscopus fuscatus; and

Warbler, Wood, Phylloscopus sibilatrix.

(2) Six species are added to category 3:

Falcon, Red-footed, Falco vespertinus;

Golden-Plover, European, Pluvialis apricaria;

Storm-Petrel, Ringed, Oceanodroma hornbyi;

Warbler, Lanceolated, Locustella lanceolata;

Warbler, Yellow-browed, Phylloscopus inornatus; and

Whitethroat, Lesser, Sylvia curruca.

(3) A new category 4 is created and 24 species are added to this category:

Akekee, Loxops caeruleirostris;

Akepa, Loxops coccineus;

Akialoa, Greater, Hemignathus ellisianus;

Akiapolaau, Hemignathus munroi;

Akikiki, Oreomystis bairdi;

Akohekohe, Palmeria dole;

Alauahio, Maui, Paroreomyza montana;

Alauahio, Oahu, Paroreomyza maculate;

Amakihi, Hawaii, Hemignathus virens;

Amakihi, Kauai, Hemignathus kauaiensis;

Amakihi, Oahu, Hemignathus flavus;

Anianiau, Magumma parva;

Apapane, Himatione sanguinea;

Creeper, Hawaii, Oreomystis mana;

Finch, Laysan, Telespiza cantans;

Finch, Nihoa, Telespiza ultima;

Iiwi, Vestiaria coccinea;

Kakawahie, Paroreomyza flammea;

Millerbird, Acrocephalus familiaris;

Nukupuu, Hemignathus lucidus;

Ou, Psittirostra psittacea;

Palila, Loxioides bailleui;

Parrotbill, Maui, Pseudonestor xanthophrys; and

Poo-uli, Melamprosops phaeosoma.

(4) One species is added to category 5:

Reed-Warbler, Nightingale, Acrocephalus luscinia

(5) One species is removed from category 6:

Goose, Cackling, Branta hutchinsii. Recognition as a separate species deferred and will remain as subspecies of Branta canadensis, Canada Goose.

(6) One species is added to category 6:

Bean-Goose, Tundra, Anser serrirostris.

(7) One species deleted from category 7 is reinstated:

Kingbird, Loggerhead, Tyrannus caudifasciatus.

(8) The common name of one species is changed (category 9):

Goose, Bean, Anser fabalis, becomes Bean-Goose, Taiga.

(9) The scientific name of four species is changed (category 3, category 10):

Gull, Yellow-legged, Larus cachinnans becomes Larus michahellis;

Kingfisher, Belted, Ceryle alcyon becomes Megaceryle alcyon;

Kingfisher, Ringed, Ceryle torquatus becomes Megaceryle torquata; and

Hummingbird, Antillean Crested, Orthorhynchus cristatus becomes Orthorhyncus cristatus.

(10) The scientific names of six species spelled erroneously in the proposed rule are corrected to conform to the AOU Check-list (1998) and supplements:

Bunting, Reed, Emberiza schoeniculus becomes Emberiza schoeniclus;

Flycatcher, Social, Myiozetetes similes becomes Myiozetetes similes;

Owl, Snowy, Bubo scandiaca becomes Bubo scandiacus;

Pewee, Cuban, Contopus caribeaus becomes Contopus caribaeus;

Tanager, Puerto Rican, Neospingus speculiferus becomes Nesospingus speculiferus; and

Warbler, Worm-eating, Helmitheros vermivorus becomes Helmitheros vermivorum.

(11) Other editorial changes:

Crake, Paint-billed (category 2)—Louisiana is deleted from, and Virginia added to, the known range;

Ground-Dove, White-throated (category 5)—American Samoa is deleted from, and Guam and the Northern Marianas are added to, the known range;

Gull, Kelp (category 3)—Indiana and Texas are added to the known range;

Murrelet, Long-billed—moved from category 3 to category 6;

Shrike, Brown (category 2)—California is added to the known range;

Storm-Petrel, Ringed (category 2)—Alaska is deleted from, and California added to, the known range; and

the family Cathartidae, and its included species, is moved from the Ciconiiformes to the beginning of the Falconiformes, as they were on the 1985 list.

How Is the List of Migratory Birds Organized?

The species are listed in two formats to suit the needs of different segments of the public: Alphabetically in 50 CFR 10.13(c)(1) and taxonomically in 50 CFR 10.13(c)(2). In the alphabetical listing, species are listed by common (English) group names, with the scientific name of each species following the English group name. This format, similar to that used in modern telephone directories, is most useful to members of the lay public. In the taxonomic listing, species are listed in phylogenetic sequence by scientific name, with the English name following the scientific name. To help clarify species relationships, we also list the higher-level taxonomic categories of Order, Family, and Subfamily. This format follows the sequence adopted by the AOU (1998, 2004) and is most useful to ornithologists and other scientists.

What Species Are Not Protected by the Migratory Bird Treaty Act?

The MBTA does not apply to:

(1) Nonnative species introduced into the United States or its territories by means of intentional or unintentional human assistance that belong to families or groups covered by the Canadian, Mexican, or Russian Conventions, in accordance with the MBTRA. See 70 FR 12710 (March 15, 2005) for a partial list of nonnative human-introduced bird species in this category. Note, though, that native species that are introduced into parts of the United States where they are not native are still protected under the MBTA regardless of where they occur in the U.S. or its territories.

(2) Nonnative human-introduced species that belong to families or groups not covered by the Canadian, Mexican, or Russian Conventions, including Tinamidae (tinamous), Cracidae (chachalacas), Megapodiidae (megapodes), Phasianidae (grouse, ptarmigan, and turkeys), Turnicidae (buttonquails), Odontophoridae (New World quail), Pteroclididae (sandgrouse), Psittacidae (parrots), Dicruridae (drongos), Rhamphastidae (toucans), Musophagidae (turacos), Bucerotidae (hornbills), Bucorvidae (ground-hornbills), Pycnonotidae (bulbuls), Pittidae (pittas), Irenidae (fairy-bluebirds), Timaliidae (babblers), Zosteropidae (white-eyes), Sturnidae (starlings; except as listed in the Japanese Convention), Passeridae (Old World sparrows), Ploceidae (weavers), Estrildidae (estrildid finches), and numerous other families not currently represented in the United States or its territories.

(3) Native species that belong to families or groups represented in the United States, but which are not expressly mentioned by the Canadian, Mexican, or Russian Conventions, including the Megapodiidae (megapodes), Phasianidae (grouse, ptarmigan, and turkeys), Odontophoridae (New World quail), Burhinidae (thick-knees), Glareolidae (pratincoles), Psittacidae (parrots), Todidae (todies), Meliphagidae (honeyeaters), Monarchidae (monarchs), Timaliidae (wrentit), and Coerebidae (bananaquit). It should be noted that this rule supersedes the 70 FR 12710 notice to the extent that they are inconsistent. Specifically, the Mexican Convention lists the family Sylviidae (which includes and subfamily Sylviinae) and the family Fringillidae (which includes the subfamily Depanidinae). Thus, all members of these two subfamilies are now included on this list.

Partial lists of the species included in categories 2 and 3 are available at http://www.fws.gov/migratorybirds/RegulationsPolicies/mbta/MBTAProtectedNonprotected.html.

Responses to Public Comments

On August 24, 2006, we published in the Federal Register (71 FR 50194) a proposed rule to revise the list of migratory birds at 50 CFR 10.13. We solicited public comments on the proposed rule for 60 days, ending on October 23, 2006. The comment period was reopened on December 14, 2006 (71 FR 75188), extending the comment period to December 29, 2006. Any comments submitted from October 24, 2006, to the extension date were considered in this final rule.

We received 69 comment letters in response to the proposed rule; 32 letters were from 21 identified agencies, organizations, or private firms (includes 10 separate letters from one firm, and two from an organization). The following text discusses the substantive comments received and provides our responses to those comments.

Comment. The American Samoa Department of Marine and Wildlife Resources, and the Office of the Governor of American Samoa objected to the inclusion of 14 species native to American Samoa. They argued a “complete absence of a scientific basis for inclusion in a treaty based on the concept of “shared migratory' species” and “lack of demonstrated biological need for protection.” They also felt that the Service “did not consider the extent to which the stringent requirement of the new federal regulation will affect the daily activities of our people,” and emphasized that “All species proposed for listing are fully protected under Chapter 8, Title 24, of the American Samoa Administrative Code.”

Response: We recognize and appreciate the positive steps taken by the government of American Samoa to protect its native wildlife resources. The Service looks forward to continuing a close working relationship with the Department of Marine and Wildlife Resources, and pledges to consult with that agency before undertaking any action on any species covered by this rule that might affect the people of American Samoa.

Our determination that these species merit protection under the MBTA is based strictly on legal, not biological, considerations. Unlike the Endangered Species Act, the MBTA requires no “demonstrated biological need for protection.” Furthermore, the MBTA and implementing regulations provide considerable flexibility for managing bird populations, including establishment of hunting seasons (where deemed appropriate), the control of nuisance bird populations, and the issuance of permits allowing appropriate use by humans.

Applying the protection of the MBTA to these 14 species will not affect the people of American Samoa to any greater or lesser degree than the protection of more than 900 other species of migratory birds affects the residents of the other 13 territories, 50 States, and the District of Columbia.

We find this action to be consistent with the protection of bird species native to other U.S. territories (i.e., Hawaii prior to Statehood, the Commonwealth of Puerto Rico, and the U.S. Virgin Islands) that belong to families covered by the Canadian and Mexican Conventions. Under those Conventions, any species that belongs to a covered family is protected anywhere and everywhere that it might occur in the U.S. and its territories, regardless of its biological or migratory status.

We note that each of the 14 species added to the list from American Samoa belong to one of seven families expressly covered by the Canadian or Mexican Conventions: Anatidae (ducks), Procellariidae (petrels), Hydrobatidae (storm-petrels), Rallidae (rails), Columbidae (pigeons), Apodidae (swifts), Alcedinidae (kingfishers). Examples of related species from the Hawaiian Islands that have historically been protected under the MBTA include Hawaiian Duck, Hawaiian Petrel, Tristram's Storm-Petrel, and Hawaiian Coot.

Finally, we note that several other species of birds native to American Samoa, notably petrels, shearwaters, tropicbirds, boobies, frigatebirds, shorebirds, and terns and noddies, have long been protected under the MBTA without presenting undue regulatory burdens on the government and residents of American Samoa.

Comment. The Atlantic Flyway Council, Florida Fish and Wildlife Conservation Commission, South Florida Water Management District, Everglades National Park, and The Nature Conservancy all raised concerns about adding the Purple Swamphen on grounds that Federal protection would “compromise efforts to remove” this species from south Florida, where it has become established in recent years and is now viewed as an “undesirable exotic.”

Response: We are aware that adding the Purple Swamphen to the list of MBTA-protected species (because of its occurrence as a native species in American Samoa) will have the undesirable consequence of affording similar protection to the introduced population now established in south Florida. We agree that this species “has the capacity to become a serious invasive problem.”

Fortunately, the MBTA provides mechanisms that allow for the prudent management of species that are causing, or are about to cause, economic or ecological damage. In the case of the Purple Swamphen in south Florida, we believe that a depredation order targeting this species in selected geographic areas will address the concerns raised by the above agencies and organizations. Depredation orders allow specified species of birds to be taken at specified times and places and under specified conditions without need of a Federal permit; they are designed expressly for the types of control actions envisioned in this instance. The Service recognizes the urgency of the problem, and today has finalized a rule allowing control of Purple Swamphens anywhere in the contiguous United States, Alaska, Hawaii, Puerto Rico, and the U.S. Virgin Islands that they are found.

Comment. The Atlantic Flyway Council, Florida Fish and Wildlife Conservation Commission, South Carolina Department of Natural Resources, Texas Parks and Wildlife, Wisconsin Department of Natural Resources, Everglades National Park, The Nature Conservancy, a member of the Brevard County (Florida) Board of County Commissioners, and three residents of Palm City, Florida, expressed concerns about adding the Muscovy Duck because of various kinds of damages that the birds have been documented to inflict on private properties.

Response: The Service has concluded that the Muscovy Duck warrants protection under the MBTA because of the recent northward expansion of wild birds into extreme south Texas, where breeding has been confirmed. The unfortunate consequence of this is that all Muscovy Ducks in the U.S., regardless of their origin and status, will also receive the protection of the MBTA.

The Muscovy Duck has a long history of having been intentionally introduced to localities throughout the U.S. Small flocks of domestic or semi-domestic birds are found on farm ponds, in municipal parks, or in zoological parks in captive, semi-captive, and semi-wild conditions. Where present, these birds are largely or entirely dependent on human assistance for their survival, especially in the form of food handouts.

In some parts of the southern U.S. (in Florida, especially), birds have escaped or been released, and have subsequently formed feral populations in close association with humans. In Florida, for example, feral populations have been confirmed breeding and have apparently been self-sustaining for more than 10 years, with breeding now documented in all 67 of Florida's counties.

Muscovy Ducks can foul backyards, patios, swimming pools, bathing beaches, golf courses, and docks with their droppings. Their aggressive behavior can prevent landowners from using their own properties, or citizens from using public recreation facilities. To alleviate this problem, today we have revised 50 CFR part 21 to prohibit sale of muscovy ducks for hunting, and to authorize a depredation order allowing their removal without a permit in locations in which the species does not occur naturally in the contiguous United States, Alaska, and Hawaii, and in U.S. territories and possessions.

Comment. The American Bird Conservancy and a private individual expressed their concern that the Hawaiian honeycreepers were excluded from the list. They countered the Service's justification for excluding this group by arguing that, “The fact that the Drepanidinae is not expressly mentioned in the treaties is irrelevant because the taxonomic status of the group has been changed and it now falls under a family that is included under the MBTA, the Fringillidae.”

Response: Species included in the subfamily Drepanidinae (which includes the Hawaiian honeycreepers) are added to the list under the family Fringillidae. This addition is consistent with the latest edition of the AOU Checklist of North American Birds on matters of taxonomy and also meets the criteria for qualifying as an MBTA-protected species requiring that a species belongs to a family or group of species named in one of the MBTA's underlying Conventions. In addition, Millerbird (Acrocephalus familiaris) and Nightingale Reed-Warbler (Acrocephalus luscinia) have been added to the list under the Sylviidae family (subfamily Sylviinae), another family specifically named in the Mexican Convention of 1936.

Comment. International Zoological Imports and their legal counsel questioned the inclusion of Eurasian Bullfinch and Hawfinch on the list, citing, for example, beliefs that (a) “their geographic ranges lie entirely outside the United States and its territories,” (b) they are “nonnative,” and (c) they “have only an accidental/casual presence in the United States, and accidental/casual birds are not covered by the MBTA.”

Response: There is ample scientific documentation of the natural occurrence of these species in western Alaska. Given the paucity of observers in western Alaska to record their presence, it seems likely that both species occur there annually, albeit in small numbers. Whether these species are regular migrants in the U.S. or merely vagrants is irrelevant. Vagrancy is a natural process inherent to many species of migratory birds and can lead to the development of regular migratory patterns or the establishment of new populations (such as those of the Cattle Egret and the Lesser Black-backed Gull). It was a previous unwritten FWS policy, not the language of the MBTA, that excluded some species of casual or accidental occurrence from inclusion in previous versions of 50 CFR 10.13. This policy mirrored earlier versions of the AOU Check-list, which flagged species of casual or accidental occurrence and did not treat them as regular members of the North American avifauna, a practice discontinued with the 5th (1957) edition of the Check-list. Moreover, the policy was never applied uniformly: A few accidental/casual species, such as the, Corn Crake and the Eurasian Lapwing, have long been listed in 50 CFR 10.13, though many others have not. We also note the precedent set by the Japanese and Russian Conventions, which specifically list numerous species of casual or accidental occurrence in the U.S., such as the Chinese Egret and the European Hoopoe.

In summary, neither the MBTA nor the Conventions explicitly exclude any species of migratory bird because it is casual or accidental in the U.S. More to the point, Eurasian Bullfinch and Hawfinch are both specifically listed in the Japanese and Russian Conventions.

Comment. Opposition to the addition of Common Chaffinch and Eurasian Siskin was received from two importers or suppliers of cage birds (International Pet and Supply, International Zoological Imports), five cage bird organizations (American Federation of Aviculture, Michiana Bird Society, National Cage Bird Show, National Finch and Softbill Society, Society of Parrot Breeders and Exhibitors), and 27 private citizens. In support of their argument, opponents claimed that (a) these species are non-native to the U.S.; (b) individuals are present in the wild only as a result of intentional releases or accidental escapes from captivity, and that sightings occur especially near where birds are sold; (c) thousands of breeders are raising these birds in captivity; (d) they have been imported and sold since 1998; and (e) adding them to 50 CFR 10.13 will harm pet bird owners, bird enthusiasts, and breeders, and have a negative financial impact on the pet bird trade.

Response: The Common Chaffinch is considered to be “casual in northeastern North American” south to Maine and Massachusetts, “where presumably natural vagrants” (AOU 1998), with “about a dozen reports, some accepted by local bird record committees, reported between late September and late May, from e. Canada, New England, and New Jersey” (American Birding Association 2002). It also appears on the official checklists of Maine (Maine Bird Records Committee 2005) and Massachusetts (Massachusetts Avian Records Committee 2006) as natural vagrants.

There is one definitive specimen record (plus a sight report) of the Eurasian Siskin in Alaska, where considered accidental (AOU 1998). This species is also included on the official list of Maine birds (Maine Bird Records Committee 2005), apparently on the basis of a bird captured in 1962 that showed no signs of having been in captivity (Borrer 1963).

We cannot confirm the opponents' statements that “thousands of breeders are raising these birds in captivity.” One dealer reported importing, purchasing, and selling “large quantities” of these species “for the past 15 years;” while another claimed to have imported more than 4,000 Common Chaffinches and 10,000 Eurasian Siskins in the past decade. But these claims are contradicted by one commenter who noted that “these birds are bred by very few U.S. hobbyists and others interested in captive breeding. For instance, current available information reveals that in 2003 NFSS [National Finch and Softbill Society] annual census reported only two out of eight-hundred NFSS members registered working with the Common Chaffinch and the same two members registered working with the Eurasian Siskin.”

It is true that there is a long history of importing and selling these species in the U.S. For example, over a six-year period (1969-1974), 190 Common Chaffinches and 272 Eurasian Siskins were imported into the U.S. (as summarized by McLaren et al. 1989). If figures supplied by dealers are accurate (see preceding paragraph), then imports have increased substantially in recent years.

It is also true that there have been many intentional releases or accidental escapes of captive individuals of these and other European finches into the wild, as is acknowledge by the AOU (1998) and American Birding Association (ABA) (2002). The most notable and recent example was a series of reports from throughout the Great Lakes and New England in spring 2004 of innumerable individuals of numerous European species—including Common Chaffinch and Eurasian Siskin—that had apparently escaped from an import facility near Chicago, Illinois (Dinsmore and Silcock 2004). One major importer reported the intentional release or accidental escape of 12,700 (15 percent) of 82,800 individuals of 19 species from one facility during the past decade; this included 1,131 Common Chaffinches and 1,946 European Siskins.

In summary, while there is documented evidence of the intentional release or accidental escape of caged Common Chaffinches and Eurasian Siskins, we also find credible evidence to support our contention that both species have occurred in the U.S. as natural vagrants unhindered by human intervention. As with the Eurasian Bullfinch and Hawfinch discussed above, the Common Chaffinch and Eurasian Siskin warrant protection under the MBTA, regardless of their status as casual or accidental vagrants.

Comment. One commenter cautioned against listing cage-birds bought in Mexico, smuggled across the border, and released in Texas “just to please those wanting to either raise funds for a refuge, or add to their bird life-list.” Five species were specifically mentioned in this regard: Masked Tityra, Blue Mockingbird, Orange-billed Nightingale-Thrush, Black-headed Nightingale-Thrush, and Blue Bunting.

Response: We are keenly aware of the problems posed by the illegal smuggling of birds into the U.S. from Mexico. Both the AOU (1998) and the Texas Ornithological Society (TOS) (Lockwood et al. 2003) go to great lengths to investigate the origins of rare birds reported in Texas near the Mexican border and to invalidate any records for which there is evidence of human intervention, such as illegal trafficking or smuggling. We are not aware of any evidence to suggest that the activities alluded to by the commenter have actually taken place. The U.S. birding community is relatively small, close-knit, and self-policed, with the vast majority of birders adhering to a voluntary “code of ethics”. If anyone was conducting illegal activities to pad their life-lists or to help raise funds for a refuge, it would most likely become widely known and condemned. Each of the species mentioned by the commentator has been accepted by the AOU and TOS as valid, wild migrants in the U.S. As such, we deem them eligible for inclusion in 50 CFR 10.13.

Comment. The Wisconsin Department of Natural Resources indicated that recognition and protection of the Cackling Goose as distinct from the Canada Goose would create management problems, as it is probably unrealistic to expect hunters to be able to recognize and distinguish between these similar species on the wing. It was requested that the Service consider professional discussions that have occurred over the last two years.

Response: The Service recognizes the management concerns referred to by the commenter, as well as the current lack of uniform agreement among waterfowl specialists. The Service has reviewed many of the professional views concerning the AOU decision to split the Canada Goose into two species. The AOU Committee on Classification and Nomenclature indicated that additional taxonomic changes may occur as a result of further research on Canada Goose taxonomy (AOU 2004). We will consider new information when it is available. As discussed in the rule, at this time, we will continue to include the Cackling Goose within the listing for the Canada Goose rather than as a separate species.

Comment. The American Bird Conservancy (ABC) complained that we continue to deny Federal protection to several species that are native to the U.S., or occur in the U.S. as natural vagrants. They specifically mention seven species in this regard: Oriental Pratincole, Green Parakeet, Puerto Rican Parrot, Red-crowned Parrot, Puerto Rican Tody, Wrentit, and Bananaquit.

Response: These species do not qualify for protection under the MBTA because they (1) belong to families (Glareolidae, Todidae, Coerebidae, Psittacidae, Timaliidae, Coerebidae) not covered by either the Canadian or Mexican Conventions, and (2) are not specifically listed in either the Japanese or Russian Conventions. While this treatment may not be logical, as suggested by ABC, it is required by the language of the Conventions underlying the MBTA.

Comment. The Pacific Flyway Council expressed confusion over the status of the family Timaliidae (including babblers and Wrentit), noting that we had listed it (71 FR 50205) both as an example of a nonnative human-introduced family not protected by the MBTA and also as an example of a native family not specifically mentioned in treaties with Canada, Mexico, or Russia.

Response: The Timaliidae properly belongs in category 2 as an example of nonnative human-introduced species (the babblers, introduced to Hawaii) not protected by the MBTA. The Timaliidae also properly belongs in category 3 as an example of a native family and species (the Wrentit) not specifically mentioned in Conventions with Canada or Mexico. This section of the final rule has been re-written for greater clarity.

Comment. The Pacific Flyway Council recommended that we define “human introduction,” noting that “the issue of human-related introductions of species is potentially controversial, and defining the term in the document would clarify the Service's intent and eliminate the need to search for the definition elsewhere.”

Response: We agree with the desirability of being as specific as possible as to what we mean by “human introduction” or “human-assisted introduction.” Accordingly, we have added clarifying language to the end of the section entitled “What Criteria Are Used to Identify Individual Species Protected by the MBTA?”

Comment. One commenter noted that numerous species intentionally introduced to the Hawaiian Islands from the continental U.S. are now protected under the MBTA, even though they are nonnative (examples: Cattle Egret, Mourning Dove, Barn Owl, Northern Cardinal, House Finch). In many instances, these species are competitors for food, carriers of disease, and predators of native wildlife.

Response: In contrast to the Endangered Species Act, the MBTA has no provision for excluding a species from protection in designated parts of its range. A species protected by the MBTA is protected anywhere and everywhere that it might occur in the U.S. or its territories, even in localities where they are nonnative and introduced by humans. That being said, we also note that the MBTA provides mechanisms for dealing with situations in which protected species are causing economic damage, creating threats to human health and safety, or may be having a deleterious impact on native wildlife, particularly through issuance of depredation permits or authorization of depredation orders.

Required Determinations

Regulatory Planning and Review (Executive Order 12866)

The Office of Management and Budget (OMB) has determined that this rule is not significant and has reviewed it under Executive Order 12866. OMB bases its determination upon the following four criteria:

(a) Whether the rule will have an annual effect of $100 million or more on the economy or adversely affect an economic sector, productivity, jobs, the environment, or other units of the government.

(b) Whether the rule will create inconsistencies with other Federal agencies' actions.

(c) Whether the rule will materially affect entitlements, grants, user fees, loan programs, or the rights and obligations of their recipients.

(d) Whether the rule raises novel legal or policy issues.

Regulatory Flexibility Act (5 U.S.C. 601 et seq.)

Under the Regulatory Flexibility Act (5 U.S.C. 601 et seq., as amended by the Small Business Regulatory Enforcement Fairness Act (SBREFA) of 1996 (Pub. L. 104-121)), whenever an agency is required to publish a notice of rulemaking for any proposed or final rule, it must prepare and make available for public comment a regulatory flexibility analysis that describes the effect of the rule on small entities (i.e., small businesses, small organizations, and small government jurisdictions). However, no regulatory flexibility analysis is required if the head of an agency certifies the rule does not have a significant economic impact on a substantial number of small entities.

SBREFA amended the Regulatory Flexibility Act to require Federal agencies to provide the statement of the factual basis for certifying that a rule will not have a significant economic impact on a substantial number of small entities. A small number of caged bird dealers will be affected by this rule. However, we have examined this rule's potential effects on small entities as required by the Regulatory Flexibility Act, and have determined that this action does not have a significant economic impact on a substantial number of small entities. This determination is based on the fact that we are simply updating the list of migratory bird species protected under the Conventions. Consequently, we certify that because this rule does not have a significant economic effect on a substantial number of small entities, a regulatory flexibility analysis is not required.

This rule is not a major rule under the SBREFA (5 U.S.C. 804(2)). It does not have a significant impact on a substantial number of small entities.

a. This rule does not have an annual effect on the economy of $100 million or more.

b. This rule will not cause a major increase in costs or prices for consumers, individual industries, Federal, State, or local government agencies, or geographic regions. The updating of the list of migratory birds does not significantly affect costs or prices in any sector of the economy.

c. This rule will not have significant adverse effects on competition, employment, investment, productivity, innovation, or the ability of U.S.-based enterprises to compete with foreign-based enterprises.

Unfunded Mandates Reform Act

In accordance with the Unfunded Mandates Reform Act (2 U.S.C. 1501 et seq.), we have determined the following:

a. This rule does not “significantly or uniquely” affect small governments. A small government agency plan is not required. b. This rule does not produce a Federal mandate of $100 million or greater in any year; i.e., it is not a “significant regulatory action” under the Unfunded Mandates Reform Act.

Takings

In accordance with Executive Order 12630, the rule does not have significant takings implications. This rule does not contain a provision for taking of private property. A takings implication assessment is not required.

Federalism

This rule does not have sufficient Federalism effects to warrant preparation of a Federalism assessment under Executive Order 13132. It does not interfere with the States' ability to manage themselves or their funds. No significant economic impacts are expected to result from the updating of the list of migratory bird species.

Civil Justice Reform

In accordance with Executive Order 12988, the Office of the Solicitor has determined that the rule does not unduly burden the judicial system and meets the requirements of sections 3(a) and 3(b)(2) of the Order.

Paperwork Reduction Act

We examined these regulations under the Paperwork Reduction Act of 1995. This regulations change has no direct impact on information collection.

National Environmental Policy Act (NEPA)

Given that the revision of 50 CFR 10.13 is strictly administrative in nature and does not constitute a Federal action in the context of NEPA it is categorically excluded from further NEPA requirements, as provided by Department of the Interior Manual 516 DM 2, Appendix 1.10.

Endangered Species Act (ESA)

Ninety-six of the species on the List of Migratory Birds are also designated as endangered or threatened in all or some portion of their U.S. range under provisions of the Endangered Species Act of 1973 (16 U.S.C. 1531, et seq.; see 50 CFR 17.11). No legal complications arise from the dual listing since the two lists are developed under separate authorities and for different purposes. Because the rule is strictly administrative in nature, it does not require ESA consultation.

Energy Supply, Distribution, or Use (Executive Order 13211)

On May 18, 2001, the President issued Executive Order 13211 addressing regulations that significantly affect energy supply, distribution, and use. Executive Order 13211 requires agencies to prepare Statements of Energy Effects when undertaking certain actions. Because this rule only affects the listing of protected species in the United States, it is not a significant regulatory action under Executive Order 12866, and does not significantly affect energy supplies, distribution, or use. Therefore, this action is not a significant energy action and no Statement of Energy Effects is required.

Regarding Government-to-Government relationships with Tribes (59 FR 22951) and Executive Order 13175, these revisions to existing regulations are purely administrative in nature. They will have no effect on Federally recognized Tribes or Tribal trust resources.

References Cited

A complete list of all references cited is available upon request (see ADDRESSES above).

List of Subjects in 50 CFR Part 10

Exports, Fish, Imports, Law enforcement, Plants, Transportation, Wildlife.

Regulation Promulgation

For the reasons discussed in the preamble, we amend title 50, chapter I, subchapter B, part 10 of the Code of Federal Regulations, as follows:

PART 10—[AMENDED]

1. The authority citation for part 10 continues to read as follows:

Authority: 18 U.S.C. 42; 16 U.S.C. 703-712; 16 U.S.C. 668a-d; 19 U.S.C. 1202; 16 U.S.C. 1531-1543; 16 U.S.C. 1361-1384, 1401-1407; 16 U.S.C. 742a-742j-l; 16 U.S.C. 3371-3378.-q4

2. Revise § 10.13 to read as follows:

§ 10.13 List of Migratory Birds.

(a) Legal authority for this list. The Migratory Bird Treaty Act (MBTA) in 16 U.S.C. 703-711, the Fish and Wildlife Improvement Act of 1978, 16 U.S.C. 712, and 16 U.S.C. 742a-j. The MBTA implements Conventions between the United States and four neighboring countries for the protection of migratory birds, as follows:

(1) Canada: Convention for the Protection of Migratory Birds, August 16, 1916, United States-Great Britain (on behalf of Canada), 39 Stat. 1702, T.S. No. 628, as amended;

(2) Mexico: Convention for the Protection of Migratory Birds and Game Mammals, February 7, 1936, United States-United Mexican States (=Mexico), 50 Stat. 1311, T.S. No. 912, as amended;

(3) Japan: Convention for the Protection of Migratory Birds and Birds in Danger of Extinction, and Their Environment, March 4, 1972, United States-Japan, 25 U.S.T. 3329, T.I.A.S. No. 7990; and

(4) Russia: Convention for the Conservation of Migratory Birds and Their Environment, United States-Union of Soviet Socialist Republics (=Russia), November 26, 1976, 92 Stat. 3110, T.I.A.S. 9073, 16 U.S.C. 703, 712.

(b) Purpose of this list. The purpose is to inform the public of the species protected by regulations designed to enforce the terms of the MBTA. These regulations, found in parts 10, 20, and 21 of this chapter, cover most aspects of the taking, possession, transportation, sale, purchase, barter, exportation, and importation of migratory birds.

(c) What species are protected as migratory birds? Species protected as migratory birds are listed in two formats to suit the varying needs of the user: Alphabetically in paragraph (c)(1) of this section and taxonomically in paragraph (c)(2) of this section. Taxonomy and nomenclature generally follow the 7th edition of the American Ornithologists' Union's Check-list of North American birds (1998, as amended through 2007). For species not treated by the AOU Check-list, we generally follow Monroe and Sibley's A World Checklist of Birds (1993).

(1) Alphabetical listing. Species are listed alphabetically by common (English) group names, with the scientific name of each species following the common name. It is possible that alphabetical listing by common group names may create confusion in those few instances in which the common (English) name of a species has changed. The species formerly known as the Falcated Teal, for example, is now known as the Falcated Duck. To prevent confusion, the alphabetical list has two entries for Falcated Duck: “DUCK, Falcated” and “[TEAL, Falcated (see DUCK, Falcated)].” Other potential ambiguities are treated in the same way.

ACCENTOR, Siberian, Prunella montanella

AKEKEE, Loxops caeruleirostris

AKEPA, Loxops coccineus

AKIALOA, Greater, Hemignathus ellisianus

AKIAPOLAAU, Hemignathus munroi

AKIKIKI, Oreomystis bairdi

AKOHEKOHE, Palmeria dolei

ALAUAHIO, Maui, Paroreomyza montana

Oahu, Paroreomyza maculata

ALBATROSS, Black-browed, Thalassarche melanophris

Black-footed, Phoebastria nigripes

Laysan, Phoebastria immutabilis

Light-mantled, Phoebetria palpebrata

Short-tailed, Phoebastria albatrus

Shy, Thalassarche cauta

Wandering, Diomedea exulans

Yellow-nosed, Thalassarche chlororhynchos

ANHINGA, Anhinga anhinga

ANI, Groove-billed, Crotophaga sulcirostris

Smooth-billed, Crotophaga ani

AMAKIHI, Hawaii, Hemignathus virens

Kauai, Hemignathus kauaiensis

Oahu, Hemignathus flavus

ANIANIAU, Magumma parva

APAPANE, Himatione sanguinea

AUKLET, Cassin's, Ptychoramphus aleuticus

Crested, Aethia cristatella

Least, Aethia pusilla

Parakeet, Aethia psittacula

Rhinoceros, Cerorhinca monocerata

Whiskered, Aethia pygmaea

AVOCET, American, Recurvirostra americana

[BARN-OWL, Common (see OWL, Barn)]

BEAN-GOOSE, Taiga, Anser fabalis

Tundra, Anser serrirostris

BEARDLESS-TYRANNULET, Northern, Camptostoma imberbe

BECARD, Rose-throated, Pachyramphus aglaiae

BITTERN, American, Botaurus lentiginosus

Black, Ixobrychus flavicollis

[Chinese (see Yellow)]

Least, Ixobrychus exilis

Schrenck's, Ixobrychus eurhythmus

Yellow, Ixobrychus sinensis

BLACK-HAWK, Common, Buteogallus anthracinus

BLACKBIRD, Brewer's, Euphagus cyanocephalus

Red-winged, Agelaius phoeniceus

Rusty, Euphagus carolinus

Tawny-shouldered, Agelaius humeralis

Tricolored, Agelaius tricolor

Yellow-headed, Xanthocephalus xanthocephalus

Yellow-shouldered, Agelaius xanthomus

BLUEBIRD, Eastern, Sialia sialis

Mountain, Sialia currucoides

Western, Sialia mexicana

BLUETAIL, Red-flanked, Tarsiger cyanurus

BLUETHROAT, Luscinia svecica

BOBOLINK, Dolichonyx oryzivorus

BOOBY, Blue-footed, Sula nebouxii

Brown, Sula leucogaster

Masked, Sula dactylatra

Red-footed, Sula sula

BRAMBLING, Fringilla montifringilla

BRANT, Branta bernicla

BUFFLEHEAD, Bucephala albeola

BULLFINCH, Eurasian, Pyrrhula pyrrhula

Puerto Rican, Loxigilla portoricensis

BUNTING, Blue, Cyanocompsa parellina

Gray, Emberiza variabilis

Indigo, Passerina cyanea

Little, Emberiza pusilla

Lark, Calamospiza melanocorys

Lazuli, Passerina amoena

McKay's, Plectrophenax hyperboreus

Painted, Passerina ciris

Pallas's, Emberiza pallasi

Pine, Emberiza leucocephalos

Reed, Emberiza schoeniclus

Rustic, Emberiza rustica

Snow, Plectrophenax nivalis

Varied, Passerina versicolor

Yellow-breasted, Emberiza aureola

Yellow-throated, Emberiza elegans

BUSHTIT, Psaltriparus minimus

CANVASBACK, Aythya valisineria

CARACARA, Crested, Caracara cheriway

CARDINAL, Northern, Cardinalis cardinalis

CARIB, Green-throated, Eulampis holosericeus

Purple-throated, Eulampis jugularis

CATBIRD, Black, Melanoptila glabrirostris

Gray, Dumetella carolinensis

CHAFFINCH, Common, Fringilla coelebs

CHAT, Yellow-breasted, Icteria virens

CHICKADEE, Black-capped, Poecile atricapillus

Boreal, Poecile hudsonica

Carolina, Poecile carolinensis

Chestnut-backed, Poecile rufescens

Gray-headed, Poecile cincta

Mexican, Poecile sclateri

Mountain, Poecile gambeli

CHUCK-WILL'S-WIDOW, Caprimulgus carolinensis

CONDOR, California, Gymnogyps californianus

COOT, American, Fulica americana

Caribbean, Fulica caribaea

Eurasian, Fulica atra

Hawaiian, Fulica alai

CORMORANT, Brandt's, Phalacrocorax penicillatus

Double-crested, Phalacrocorax auritus

Great, Phalacrocorax carbo

Little Pied, Phalacrocorax melanoleucos

Neotropic, Phalacrocorax brasilianus

[Olivaceous (see Neotropic)]

Pelagic, Phalacrocorax pelagicus

Red-faced, Phalacrocorax urile

COWBIRD, Bronzed, Molothrus aeneus

Brown-headed, Molothrus ater

Shiny, Molothrus bonariensis

CRAKE, Corn, Crex crex

Paint-billed, Neocrex erythrops

Spotless, Porzana tabuensis

Yellow-breasted, Porzana flaviventer

CRANE, Common, Grus grus

Sandhill, Grus canadensis

Whooping, Grus americana

CREEPER, Brown, Certhia americana

Hawaii, Oreomystis mana

CROSSBILL, Red, Loxia curvirostra

White-winged, Loxia leucoptera

CROW, American, Corvus brachyrhynchos

Fish, Corvus ossifragus

Hawaiian, Corvus hawaiiensis

Mariana, Corvus kubaryi

[Mexican (see Tamaulipas)]

Northwestern, Corvus caurinus

Tamaulipas, Corvus imparatus

White-necked, Corvus leucognaphalus

CUCKOO, Black-billed, Coccyzus erythropthalmus

Common, Cuculus canorus

Mangrove, Coccyzus minor

Oriental, Cuculus optatus

Yellow-billed, Coccyzus americanus

CURLEW, Bristle-thighed, Numenius tahitiensis

Eskimo, Numenius borealis

Eurasian, Numenius arquata

Far Eastern, Numenius madagascariensis

[Least (see Little)]

Little, Numenius minutus

Long-billed, Numenius americanus

DICKCISSEL, Spiza americana

DIPPER, American, Cinclus mexicanus

DOTTEREL, Eurasian, Charadrius morinellus

DOVE, Inca, Columbina inca

Mourning, Zenaida macroura

White-tipped, Leptotila verreauxi

White-winged, Zenaida asiatica

Zenaida, Zenaida aurita

DOVEKIE, Alle alle

DOWITCHER, Long-billed, Limnodromus scolopaceus

Short-billed, Limnodromus griseus

DUCK, American Black, Anas rubripes

Falcated, Anas falcata

Harlequin, Histrionicus histrionicus

Hawaiian, Anas wyvilliana

Laysan, Anas laysanensis

Long-tailed, Clangula hyemalis

Masked, Nomonyx dominicus

Mottled, Anas fulvigula

Muscovy, Cairina moschata

Pacific Black, Anas superciliosa

Ring-necked, Aythya collaris

Ruddy, Oxyura jamaicensis

Spot-billed, Anas poecilorhyncha

Tufted, Aythya fuligula

Wood, Aix sponsa

DUNLIN, Calidris alpina

EAGLE, Bald, Haliaeetus leucocephalus

Golden, Aquila chrysaetos

White-tailed, Haliaeetus albicilla

EGRET, Cattle, Bubulcus ibis

Chinese, Egretta eulophotes

Great, Ardea alba

Intermediate, Mesophoyx intermedia

Little, Egretta garzetta

[Plumed (see Intermediate)]

Reddish, Egretta rufescens

Snowy, Egretta thula

EIDER, Common, Somateria mollissima

King, Somateria spectabilis

Spectacled, Somateria fischeri

Steller's, Polysticta stelleri

ELAENIA, Caribbean, Elaenia martinica

Greenish, Myiopagis viridicata

EMERALD, Puerto Rican, Chlorostilbon maugaeus

EUPHONIA, Antillean, Euphonia musica

FALCON, Aplomado, Falco femoralis

Peregrine, Falco peregrinus

Prairie, Falco mexicanus

Red-Footed, Falco vespertinus

FIELDFARE, Turdus pilaris

FINCH, Cassin's, Carpodacus cassinii

House, Carpodacus mexicanus

Laysan, Telespiza cantans

Nihoa, Telespiza ultima

Purple, Carpodacus purpureus

[Rosy (see ROSY-FINCH)]

FLAMINGO, Greater, Phoenicopterus ruber

FLICKER, Gilded, Colaptes chrysoides

Northern, Colaptes auratus

FLYCATCHER, Acadian, Empidonax virescens

Alder, Empidonax alnorum

Ash-throated, Myiarchus cinerascens

Brown-crested, Myiarchus tyrannulus

Buff-breasted, Empidonax fulvifrons

Cordilleran, Empidonax occidentalis

Dusky, Empidonax oberholseri

Dusky-capped, Myiarchus tuberculifer

Fork-tailed, Tyrannus savana

Gray, Empidonax wrightii

[Gray-spotted (see Gray-streaked)]

Gray-streaked, Muscicapa griseisticta

Great Crested, Myiarchus crinitus

Hammond's, Empidonax hammondii

La Sagra's, Myiarchus sagrae

Least, Empidonax minimus

Narcissus, Ficedula narcissina

Nutting's, Myiarchus nuttingi

Olive-sided, Contopus cooperi

Pacific-slope, Empidonax difficilis

Piratic, Legatus leucophalus

Puerto Rican, Myiarchus antillarum

Scissor-tailed, Tyrannus forficatus

Social, Myiozetetes similis

Sulphur-bellied, Myiodynastes luteiventris

Tufted, Mitrephanes phaeocercus

Variegated, Empidonomus varius

Vermilion, Pyrocephalus rubinus

[Western (see Cordilleran and Pacific-slope)]

Willow, Empidonax traillii

Yellow-bellied, Empidonax flaviventris

FOREST-FALCON, Collared, Micrastur semitorquatus

FRIGATEBIRD, Great, Fregata minor

Lesser, Fregata ariel

Magnificent, Fregata magnificens

FROG-HAWK, Gray, Accipiter soloensis

FRUIT-DOVE, Crimson-crowned, Ptilinopus porphyraceus

Many-colored, Ptilinopus perousii

Mariana, Ptilinopus roseicapilla

FULMAR, Northern, Fulmarus glacialis

GADWALL, Anas strepera

GALLINULE, Azure, Porphyrio flavirostris

Purple, Porphyrio martinica

GANNET, Northern, Morus bassanus

GARGANEY, Anas querquedula

GNATCATCHER, Black-capped, Polioptila nigriceps

Black-tailed, Polioptila melanura

Blue-gray, Polioptila caerulea

California, Polioptila californica

GODWIT, Bar-tailed, Limosa lapponica

Black-tailed, Limosa limosa

Hudsonian, Limosa haemastica

Marbled, Limosa fedoa

GOLDEN-PLOVER, American, Pluvialis dominica

European, Pluvialis apricaria

[Lesser (see American)]

Pacific, Pluvialis fulva

GOLDENEYE, Barrow's, Bucephala islandica

Common, Bucephala clangula

GOLDFINCH, American, Carduelis tristis

Lawrence's, Carduelis lawrencei

Lesser, Carduelis psaltria

GOOSE, Barnacle, Branta leucopsis

[Bean, (see BEAN-GOOSE, Taiga)]

Canada, Branta canadensis (including Cackling Goose, Branta hutchinsii)

Emperor, Chen canagica

Greater White-fronted, Anser albifrons

Hawaiian, Branta sandvicensis

Lesser White-fronted, Anser erythropus

Ross's, Chen rossii

Snow, Chen caerulescens

GOSHAWK, Northern, Accipiter gentilis

GRACKLE, Boat-tailed, Quiscalus major

Common, Quiscalus quiscula

Great-tailed, Quiscalus mexicanus

Greater Antillean, Quiscalus niger

GRASSHOPPER-WARBLER, Middendorff's, Locustella ochotensis

GRASSQUIT, Black-faced, Tiaris bicolor

Yellow-faced, Tiaris olivaceus

GREBE, Clark's, Aechmophorus clarkii

Eared, Podiceps nigricollis

Horned, Podiceps auritus

Least, Tachybaptus dominicus

Pied-billed, Podilymbus podiceps

Red-necked, Podiceps grisegena

Western, Aechmophorus occidentalis

GREENFINCH, Oriental, Carduelis sinica

GREENSHANK, Common, Tringa nebularia

Nordmann's, Tringa guttifer

GROSBEAK, Black-headed, Pheucticus melanocephalus

Blue, Passerina caerulea

Crimson-collared, Rhodothraupis celaeno

Evening, Coccothraustes vespertinus

Pine, Pinicola enucleator

Rose-breasted, Pheucticus ludovicianus

Yellow, Pheucticus chrysopeplus

GROUND-DOVE, Common, Columbina passerina

Friendly, Gallicolumba stairi

Ruddy, Columbina talpacoti

White-throated, Gallicolumba xanthonura

GUILLEMOT, Black, Cepphus grylle

Pigeon, Cepphus columba

GULL, Belcher's, Larus belcheri

Black-headed, Larus ridibundus

Black-tailed, Larus crassirostris

Bonaparte's, Larus philadelphia

California, Larus californicus

[Common Black-headed (see Black-headed)]

Franklin's, Larus pipixcan

Glaucous, Larus hyperboreus

Glaucous-winged, Larus glaucescens

Gray-hooded, Larus cirrocephalus

Great Black-backed, Larus marinus

Heermann's, Larus heermanni

Herring, Larus argentatus

Iceland, Larus glaucoides

Ivory, Pagophila eburnea

Kelp, Larus dominicanus

Laughing, Larus atricilla

Lesser Black-backed, Larus fuscus

Little, Larus minutus

Mew, Larus canus

Ring-billed, Larus delawarensis

Ross's, Rhodostethia rosea

Sabine's, Xema sabini

Slaty-backed, Larus schistisagus

Thayer's, Larus thayeri

Western, Larus occidentalis

Yellow-footed, Larus livens

Yellow-legged, Larus michahellis

GYRFALCON, Falco rusticolus

HARRIER, Northern, Circus cyaneus

HAWFINCH, Coccothraustes coccothraustes

HAWK, [Asiatic Sparrow (see SPARROWHAWK, Japanese)]

Broad-winged, Buteo platypterus

Cooper's, Accipiter cooperii

Crane, Geranospiza caerulescens

Ferruginous, Buteo regalis

Gray, Buteo nitidus

Harris's, Parabuteo unicinctus

Hawaiian, Buteo solitarius

Red-shouldered, Buteo lineatus

Red-tailed, Buteo jamaicensis

Roadside, Buteo magnirostris

Rough-legged, Buteo lagopus

Sharp-shinned, Accipiter striatus

Short-tailed, Buteo brachyurus

Swainson's, Buteo swainsoni

White-tailed, Buteo albicaudatus

Zone-tailed, Buteo albonotatus

HAWK-CUCKOO, Hodgson's, Cuculus fugax

[HAWK-OWL, Northern (see OWL, Northern Hawk)]

HERON, Gray, Ardea cinerea

Great Blue, Ardea herodias

Green, Butorides virescens

[Green-backed (see Green)]

Little Blue, Egretta caerulea

[Pacific Reef (see REEF-EGRET, Pacific)]

Tricolored, Egretta tricolor

HOBBY, Eurasian, Falco subbuteo

HOOPOE, Eurasian, Upupa epops

HOUSE-MARTIN, Common, Delichon urbicum

HUMMINGBIRD, Allen's, Selasphorus sasin

Anna's, Calypte anna

Antillean Crested, Orthorhyncus cristatus

Berylline, Amazilia beryllina

Black-chinned, Archilochus alexandri

Blue-throated, Lampornis clemenciae

Broad-billed, Cynanthus latirostris

Broad-tailed, Selasphorus platycercus

Buff-bellied, Amazilia yucatanensis

Bumblebee, Atthis heloisa

Calliope, Stellula calliope

Cinnamon, Amazilia rutila

Costa's, Calypte costae

Lucifer, Calothorax lucifer

Magnificent, Eugenes fulgens

Ruby-throated, Archilochus colubris

Rufous, Selasphorus rufus

Violet-crowned, Amazilia violiceps

White-eared, Hylocharis leucotis

Xantus's, Hylocharis xantusii

IBIS, Glossy, Plegadis falcinellus

Scarlet, Eudocimus ruber

White, Eudocimus albus

White-faced, Plegadis chihi

IIWI, Vestiaria coccinea

IMPERIAL-PIGEON, Pacific, Ducula pacifica

JABIRU, Jabiru mycteria

JACANA, Northern, Jacana spinosa

JAEGER, Long-tailed, Stercorarius longicaudus

Parasitic, Stercorarius parasiticus

Pomarine, Stercorarius pomarinus

JAY, Blue, Cyanocitta cristata

Brown, Cyanocorax morio

Gray, Perisoreus canadensis

[Gray-breasted (see Mexican)]

Green, Cyanocorax yncas

Mexican, Aphelocoma ultramarina

Pinyon, Gymnorhinus cyanocephalus

[Scrub (see SCRUB-JAY)]

Steller's, Cyanocitta stelleri

JUNCO, Dark-eyed, Junco hyemalis

Yellow-eyed, Junco phaeonotus

KAKAWAHIE, Paroreomyza flammea

KAMAO, Myadestes myadestinus

KESTREL, American, Falco sparverius

Eurasian, Falco tinnunculus

KILLDEER, Charadrius vociferus

KINGBIRD, Cassin's, Tyrannus vociferans

Couch's, Tyrannus couchii

Eastern, Tyrannus tyrannus

Gray, Tyrannus dominicensis

Loggerhead, Tyrannus caudifasciatus

Thick-billed, Tyrannus crassirostris

Tropical, Tyrannus melancholicus

Western, Tyrannus verticalis

KINGFISHER, Belted, Megaceryle alcyon

Collared, Todirhamphus chloris

Green, Chloroceryle americana

Micronesian, Todirhamphus cinnamominus

Ringed, Megaceryle torquata

KINGLET, Golden-crowned, Regulus satrapa

Ruby-crowned, Regulus calendula

KISKADEE, Great, Pitangus sulphuratus

KITE, [American Swallow-tailed (see Swallow-tailed)]

Black, Milvus migrans

[Black-shouldered (see White-tailed)]

Hook-billed, Chondrohierax uncinatus

Mississippi, Ictinia mississippiensis

Snail, Rostrhamus sociabilis

Swallow-tailed, Elanoides forficatus

White-tailed, Elanus leucurus

KITTIWAKE, Black-legged, Rissa tridactyla

Red-legged, Rissa brevirostris

KNOT, Great, Calidris tenuirostris

Red, Calidris canutus

LAPWING, Northern, Vanellus vanellus

LARK, Horned, Eremophila alpestris

Sky, Alauda arvensis

LIMPKIN, Aramus guarauna

LIZARD-CUCKOO, Puerto Rican, Coccyzus vieilloti

LONGSPUR, Chestnut-collared, Calcarius ornatus

Lapland, Calcarius lapponicus

McCown's, Calcarius mccownii

Smith's, Calcarius pictus

LOON, Arctic, Gavia arctica

Common, Gavia immer

Pacific, Gavia pacifica

Red-throated, Gavia stellata

Yellow-billed, Gavia adamsii

MAGPIE, Black-billed, Pica hudsonia

Yellow-billed, Pica nuttalli

MALLARD, Anas platyrhynchos

MANGO, Antillean, Anthracothorax dominicus

Green, Anthracothorax viridis

Green-breasted, Anthracothorax prevostii

MARTIN, Brown-chested, Progne tapera

Caribbean, Progne dominicensis

Cuban, Progne cryptoleuca

Gray-breasted, Progne chalybea

Purple, Progne subis

Southern, Progne elegans

MEADOWLARK, Eastern, Sturnella magna

Western, Sturnella neglecta

MERGANSER, Common, Mergus merganser

Hooded, Lophodytes cucullatus

Red-breasted, Mergus serrator

MERLIN, Falco columbarius

MILLERBIRD, Acrocephalus familiaris

MOCKINGBIRD, Bahama, Mimus gundlachii

Blue, Melanotis caerulescens

Northern, Mimus polyglottos

MOORHEN, Common, Gallinula chloropus

MURRE, Common, Uria aalge

Thick-billed, Uria lomvia

MURRELET, Ancient, Synthliboramphus antiquus

Craveri's, Synthliboramphus craveri

Kittlitz's, Brachyramphus brevirostris

Long-billed, Brachyramphus perdix

Marbled, Brachyramphus marmoratus

Xantus's, Synthliboramphus hypoleucus

NEEDLETAIL, White-throated, Hirundapus caudacutus

NIGHT-HERON, Black-crowned, Nycticorax nycticorax

Japanese, Gorsachius goisagi

[Malay (see Malayan)]

Malayan, Gorsachius melanolophus

Yellow-crowned, Nyctanassa violacea

NIGHTHAWK, Antillean, Chordeiles gundlachii

Common, Chordeiles minor

Lesser, Chordeiles acutipennis

NIGHTINGALE-THRUSH, Black-headed, Catharus mexicanus

Orange-billed, Catharus aurantiirostris

NIGHTJAR, Buff-collared, Caprimulgus ridgwayi

Gray, Caprimulgus indicus

[Jungle (see Gray)]

Puerto Rican, Caprimulgus noctitherus

NODDY, Black, Anous minutus

Blue-gray, Procelsterna cerulea

Brown, Anous stolidus

[Lesser (see Black)]

NUKUPUU, Hemignathus lucidus

NUTCRACKER, Clark's, Nucifraga columbiana

NUTHATCH, Brown-headed, Sitta pusilla

Pygmy, Sitta pygmaea

Red-breasted, Sitta canadensis

White-breasted, Sitta carolinensis

[OLDSQUAW (see DUCK, Long-tailed)]

OLOMAO, Myadestes lanaiensis

OMAO, Myadestes obscurus

ORIOLE, Altamira, Icterus gularis

Audubon's, Icterus graduacauda

Baltimore, Icterus galbula

[Black-cowled (see Greater Antillean)]

Black-vented, Icterus wagleri

Bullock's, Icterus bullockii

Greater Antillean, Icterus dominicensis

Hooded, Icterus cucullatus

[Northern (see Baltimore and Bullock's)]

Orchard, Icterus spurius

Scott's, Icterus parisorum

Streak-backed, Icterus pustulatus

OSPREY, Pandion haliaetus

OU, Psittirostra psittacea

OVENBIRD, Seiurus aurocapilla

OWL, Barn, Tyto alba

Barred, Strix varia

Boreal, Aegolius funereus

Burrowing, Athene cunicularia

Elf, Micrathene whitneyi

Flammulated, Otus flammeolus

Great Gray, Strix nebulosa

Great Horned, Bubo virginianus

Long-eared, Asio otus

Mottled, Ciccaba virgata

Northern Hawk, Surnia ulula

Northern Saw-whet, Aegolius acadicus

Short-eared, Asio flammeus

Snowy, Bubo scandiacus

Spotted, Strix occidentalis

Stygian, Asio stygius

OYSTERCATCHER, American, Haematopus palliatus

Black, Haematopus bachmani

Eurasian, Haematopus ostralegus

PALILA, Loxioides bailleui

PALM-SWIFT, Antillean, Tachornis phoenicobia

PARROTBILL, Maui, Pseudonestor xanthophrys

PARULA, Northern, Parula americana

Tropical, Parula pitiayumi

PAURAQUE, Common, Nyctidromus albicollis

PELICAN, American White, Pelecanus erythrorhynchos

Brown, Pelecanus occidentalis

PETREL, Bermuda, Pterodroma cahow

Black-capped, Pterodroma hasitata

Black-winged, Pterodroma nigripennis

Bonin, Pterodroma hypoleuca

Bulwer's, Bulweria bulwerii

Cook's, Pterodroma cookii

[Dark-rumped (see Hawaiian)]

Gould's, Pterodroma leucoptera

Great-winged, Pterodroma macroptera

Hawaiian, Pterodroma sandwichensis

Herald, Pterodroma arminjoniana

Jouanin's, Bulweria fallax

Juan Fernandez, Pterodroma externa

Kermadec, Pterodroma neglecta

Mottled, Pterodroma inexpectata

Murphy's, Pterodroma ultima

Phoenix, Pterodroma alba

Stejneger's, Pterodroma longirostris

Tahiti, Pterodroma rostrata

White-necked, Pterodroma cervicalis

[White-necked, Pterodroma externa (see Petrel, Juan Fernandez)]

PEWEE, Cuban, Contopus caribaeus

Greater, Contopus pertinax

Hispaniolan, Contopus hispaniolensis

Lesser Antillean, Contopus latirostris

PHAINOPEPLA, Phainopepla nitens

PHALAROPE, Red, Phalaropus fulicarius

Red-necked, Phalaropus lobatus

Wilson's, Phalaropus tricolor

PHOEBE, Black, Sayornis nigricans

Eastern, Sayornis phoebe

Say's, Sayornis saya

PIGEON, Band-tailed, Patagioenas fasciata

Plain, Patagioenas inornata

Red-billed, Patagioenas flavirostris

Scaly-naped, Patagioenas squamosa

White-crowned, Patagioenas leucocephala

PINTAIL, Northern, Anas acuta

White-cheeked, Anas bahamensis

PIPIT, American, Anthus rubescens

Olive-backed, Anthus hodgsoni

Pechora, Anthus gustavi

Red-throated, Anthus cervinus

Sprague's, Anthus spragueii

Tree, Anthus trivialis

[Water (see American)]

PLOVER, Black-bellied, Pluvialis squatarola

Collared, Charadrius collaris

Common Ringed, Charadrius hiaticula

[Great Sand (see Sand-Plover, Greater)]

Little Ringed, Charadrius dubius

[Mongolian (see Sand-Plover, Lesser)]

Mountain, Charadrius montanus

Piping, Charadrius melodus

Semipalmated, Charadrius semipalmatus

Snowy, Charadrius alexandrinus

Wilson's, Charadrius wilsonia

POCHARD, Baer's, Aythya baeri

Common, Aythya ferina

POND-HERON, Chinese, Ardeola bacchus

POORWILL, Common, Phalaenoptilus nuttallii

POO-ULI, Melamprosops phaeosoma

PUAIOHI, Myadestes palmeri

PUFFIN, Atlantic, Fratercula arctica

Horned, Fratercula corniculata

Tufted, Fratercula cirrhata

PYGMY-OWL, Ferruginous, Glaucidium brasilianum

Northern, Glaucidium gnoma

PYRRHULOXIA, Cardinalis sinuatus

QUAIL-DOVE, Bridled, Geotrygon mystacea

Key West, Geotrygon chrysia

Ruddy, Geotrygon montana

QUETZEL, Eared, Euptilotis neoxenus

RAIL, Black, Laterallus jamaicensis

Buff-banded, Gallirallus philippensis

Clapper, Rallus longirostris

Guam, Gallirallus owstoni

King, Rallus elegans

Spotted, Pardirallus maculatus

Virginia, Rallus limicola

Yellow, Coturnicops noveboracensis

RAVEN, Chihuahuan, Corvus cryptoleucus

Common, Corvus corax

RAZORBILL, Alca torda

REDHEAD, Aythya americana

REDPOLL, Common, Carduelis flammea

Hoary, Carduelis hornemanni

REDSHANK, Spotted, Tringa erythropus

REDSTART, American, Setophaga ruticilla

Painted, Myioborus pictus

Slate-throated, Myioborus miniatus

[REED-BUNTING, Common (see BUNTING, Reed)]

[Pallas' (see BUNTING, Pallas's)]

REED-WARBLER, Nightingale, Acrocephalus luscinia

REEF-EGRET, Pacific, Egretta sacra

REEF-HERON, Western, Egretta gularis

ROADRUNNER, Greater, Geococcyx californianus

ROBIN, American, Turdus migratorius

Clay-colored, Turdus grayi

Rufous-backed, Turdus rufopalliatus

Siberian Blue, Luscinia cyane

White-throated, Turdus assimilis

ROSEFINCH, Common, Carpodacus erythrinus

ROSY-FINCH, Black, Leucosticte atrata

Brown-capped, Leucosticte australis

Gray-crowned, Leucosticte tephrocotis

RUBYTHROAT, Siberian, Luscinia calliope

RUFF, Philomachus pugnax

SANDERLING, Calidris alba

SANDPIPER, Baird's, Calidris bairdii

Broad-billed, Limicola falcinellus

Buff-breasted, Tryngites subruficollis

Common, Actitis hypoleucos

Curlew, Calidris ferruginea

Green, Tringa ochropus

Least, Calidris minutilla

Marsh, Tringa stagnatilis

Pectoral, Calidris melanotos

Purple, Calidris maritima

Rock, Calidris ptilocnemis

Semipalmated, Calidris pusilla

Sharp-tailed, Calidris acuminata

Solitary, Tringa solitaria

[Spoonbill (see Spoon-billed)]

Spoon-billed, Eurynorhynchus pygmeus

Spotted, Actitis macularius

Stilt, Calidris himantopus

Terek, Xenus cinereus

Upland, Bartramia longicauda

Western, Calidris mauri

White-rumped, Calidris fuscicollis

Wood, Tringa glareola

SAND-PLOVER, Greater, Charadrius leschenaultii

Lesser, Charadrius mongolus

SAPSUCKER, Red-breasted, Sphyrapicus ruber

Red-naped, Sphyrapicus nuchalis

Williamson's, Sphyrapicus thyroideus

Yellow-bellied, Sphyrapicus varius

SCAUP, Greater, Aythya marila

Lesser, Aythya affinis

SCOPS-OWL, Oriental, Otus sunia

SCOTER, Black, Melanitta nigra

Surf, Melanitta perspicillata

White-winged, Melanitta fusca

SCREECH-OWL, Eastern, Megascops asio

Puerto Rican, Megascops nudipes

Western, Megascops kennicottii

Whiskered, Megascops trichopsis

SCRUB-JAY, Florida, Aphelocoma coerulescens

Island, Aphelocoma insularis

Western, Aphelocoma californica

SEA-EAGLE, Steller's, Haliaeetus pelagicus

SEEDEATER, White-collared, Sporophila torqueola

SHEARWATER, Audubon's, Puffinus lherminieri

Black-vented, Puffinus opisthomelas

Buller's, Puffinus bulleri

Cape Verde, Calonectris edwardsii

Christmas, Puffinus nativitatis

Cory's, Calonectris diomedea

Flesh-footed, Puffinus carneipes

Greater, Puffinus gravis

Little, Puffinus assimilis

Manx, Puffinus puffinus

Pink-footed, Puffinus creatopus

Short-tailed, Puffinus tenuirostris

Sooty, Puffinus griseus

Streaked, Calonectris leucomelas

Townsend's, Puffinus auricularis

Wedge-tailed, Puffinus pacificus

SHOVELER, Northern, Anas clypeata

SHRIKE, Brown, Lanius cristatus

Loggerhead, Lanius ludovicianus

Northern, Lanius excubitor

SILKY-FLYCATCHER, Gray, Ptilogonys cinereus

SISKIN, Eurasian, Carduelis spinus

Pine, Carduelis pinus

SKIMMER, Black, Rynchops niger

SKUA, Great, Stercorarius skua

South Polar, Stercorarius maccormicki

[SKYLARK, Eurasian (see LARK, Sky)]

SMEW, Mergellus albellus

SNIPE, Common, Gallinago gallinago (rare in western Alaska; also see SNIPE, Wilson's)

Jack, Lymnocryptes minimus

Pin-tailed, Gallinago stenura

Swinhoe's, Gallinago megala

Wilson's, Gallinago delicata (the “common” snipe hunted in most of the U.S.)

SOLITAIRE, Townsend's, Myadestes townsendi

SORA, Porzana carolina

SPARROW, American Tree, Spizella arborea

Bachman's, Aimophila aestivalis

Baird's, Ammodramus bairdii

Black-chinned, Spizella atrogularis

Black-throated, Amphispiza bilineata

Botteri's, Aimophila botterii

Brewer's, Spizella breweri

Cassin's, Aimophila cassinii

Chipping, Spizella passerina

Clay-colored, Spizella pallida

Field, Spizella pusilla

Five-striped, Aimophila quinquestriata

Fox, Passerella iliaca

Golden-crowned, Zonotrichia atricapilla

Grasshopper, Ammodramus savannarum

Harris's, Zonotrichia querula

Henslow's, Ammodramus henslowii

Lark, Chondestes grammacus

Le Conte's, Ammodramus leconteii

Lincoln's, Melospiza lincolnii

Nelson's Sharp-tailed, Ammodramus nelsoni

Olive, Arremonops rufivirgatus

Rufous-crowned, Aimophila ruficeps

Rufous-winged, Aimophila carpalis

Sage, Amphispiza belli

Saltmarsh Sharp-tailed, Ammodramus caudacutus

Savannah, Passerculus sandwichensis

Seaside, Ammodramus maritimus

[Sharp-tailed (see Nelson's Sharp-tailed and Saltmarsh Sharp-tailed)]

Song, Melospiza melodia

Swamp, Melospiza georgiana

Vesper, Pooecetes gramineus

White-crowned, Zonotrichia leucophrys

White-throated, Zonotrichia albicollis

Worthen's, Spizella wortheni

SPARROWHAWK, Japanese, Accipiter gularis

SPINDALIS, Puerto Rican, Spindalis portoricensis

Western, Spindalis zena

SPOONBILL, Roseate, Platalea ajaja

STARLING, [Ashy (see White-cheeked)]

Chestnut-cheeked, Sturnus philippensis

[Violet-backed (see Chestnut-cheeked)]

White-cheeked, Sturnus cineraceus

STARTHROAT, Plain-capped, Heliomaster constantii

STILT, Black-necked, Himantopus mexicanus

Black-winged, Himantopus himantopus

STINT, Little, Calidris minuta

Long-toed, Calidris subminuta

Red-necked, Calidris ruficollis

[Rufous-necked (see Red-necked)]

Temminck's, Calidris temminckii

STONECHAT, Saxicola torquatus

STORK, Wood, Mycteria americana

STORM-PETREL, Ashy, Oceanodroma homochroa

Band-rumped, Oceanodroma castro

Black, Oceanodroma melania

Black-bellied, Fregetta tropica

Fork-tailed, Oceanodroma furcata

Leach's, Oceanodroma leucorhoa

Least, Oceanodroma microsoma

Matsudaira's, Oceanodroma matsudairae

Polynesian, Nesofregata fuliginosa

Ringed, Oceanodroma hornbyi

[Sooty (see Tristram's)]

Tristram's, Oceanodroma tristrami

Wedge-rumped, Oceanodroma tethys

White-faced, Pelagodroma marina

White-bellied, Fregetta grallaria

Wilson's, Oceanites oceanicus

SURFBIRD, Aphriza virgata

SWALLOW, Bahama, Tachycineta cyaneoviridis

Bank, Riparia riparia

Barn, Hirundo rustica

Cave, Petrochelidon fulva

Cliff, Petrochelidon pyrrhonota

Mangrove, Tachycineta albilinea

Northern Rough-winged, Stelgidopteryx serripennis

Tree, Tachycineta bicolor

Violet-green, Tachycineta thalassina

SWAMPHEN, Purple, Porphyrio porphyrio

SWAN, Trumpeter, Cygnus buccinator

Tundra, Cygnus columbianus

Whooper, Cygnus cygnus

SWIFT, Alpine, Apus melba

[Antillean Palm (see PALM-SWIFT, Antillean)]

Black, Cypseloides niger

Chimney, Chaetura pelagica

Common, Apus apus

Fork-tailed, Apus pacificus

Short-tailed, Chaetura brachyura

Vaux's, Chaetura vauxi

White-collared, Streptoprocne zonaris

White-throated, Aeronautes saxatalis

SWIFTLET, Mariana, Aerodramus bartschi

White-rumped, Aerodramus spodiopygius

TANAGER, Flame-colored, Piranga bidentata

Hepatic, Piranga flava

Puerto Rican, Nesospingus speculiferus

Scarlet, Piranga olivacea

[Stripe-headed (see SPINDALIS, Puerto Rican and Western)]

Summer, Piranga rubra

Western, Piranga ludoviciana

TATTLER, Gray-tailed, Tringa brevipes

Wandering, Tringa incana

TEAL, Baikal, Anas formosa

Blue-winged, Anas discors

Cinnamon, Anas cyanoptera

[Falcated (see DUCK, Falcated)]

Green-winged, Anas crecca

TERN, Aleutian, Onychoprion aleuticus

Arctic, Sterna paradisaea

Black, Chlidonias niger

Black-naped, Sterna sumatrana

Bridled, Onychoprion anaethetus

Caspian, Hydroprogne caspia

Common, Sterna hirundo

Elegant, Thalasseus elegans

Forster's, Sterna forsteri

Gray-backed, Onychoprion lunatus

Great Crested, Thalasseus bergii

Gull-billed, Gelochelidon nilotica

Large-billed, Phaetusa simplex

Least, Sternula antillarum

Little, Sternula albifrons

Roseate, Sterna dougallii

Royal, Thalleseus maximus

Sandwich, Thalleseus sandvicensis

Sooty, Onychoprion fuscatus

Whiskered, Chlidonias hybrida

White, Gygis alba

White-winged, Chlidonias leucopterus

THRASHER, Bendire's, Toxostoma bendirei

Brown, Toxostoma rufum

California, Toxostoma redivivum

Crissal, Toxostoma crissale

Curve-billed, Toxostoma curvirostre

Le Conte's, Toxostoma lecontei

Long-billed, Toxostoma longirostre

Pearly-eyed, Margarops fuscatus

Sage, Oreoscoptes montanus

THRUSH, Aztec, Ridgwayia pinicola

Bicknell's, Catharus bicknelli

Blue Rock, Monticola solitarius

Dusky, Turdus naumanni

Eyebrowed, Turdus obscurus

Gray-cheeked, Catharus minimus

[Hawaiian (see KAMAO, OLOMAO, and OMAO)]

Hermit, Catharus guttatus

Red-legged, Turdus plumbeus

[Small Kauai (see PUAIOHI)]

Swainson's, Catharus ustulatus

Varied, Ixoreus naevius

Wood, Hylocichla mustelina

[TIT, Siberian (see CHICKADEE, Gray-headed)]

TITMOUSE, Black-crested, Baeolophus atricristatus

Bridled, Baeolophus wollweberi

Juniper, Baeolophus ridgwayi

Oak, Baeolophus inornatus

[Plain (see Juniper and Oak)]

Tufted, Baeolophus bicolor

TITYRA, Masked, Tityra semifasciata

TOWHEE, Abert's, Pipilo aberti

[Brown (see California and Canyon)]

California, Pipilo crissalis

Canyon, Pipilo fuscus

Eastern, Pipilo erythrophthalmus

Green-tailed, Pipilo chlorurus

[Rufous-sided (see Eastern and Spotted)]

Spotted, Pipilo maculatus

[TREE-PIPIT, Olive (see PIPIT, Olive-backed)]

TROGON, [Eared (see QUETZEL, Eared)]

Elegant, Trogon elegans

TROPICBIRD, Red-billed, Phaethon aethereus

Red-tailed, Phaethon rubricauda

White-tailed, Phaethon lepturus

TURNSTONE, Black, Arenaria melanocephala

Ruddy, Arenaria interpres

TURTLE-DOVE, Oriental, Streptopelia orientalis

VEERY, Catharus fuscescens

VERDIN, Auriparus flaviceps

VIOLET-EAR, Green, Colibri thalassinus

VIREO, Bell's, Vireo bellii

Black-capped, Vireo atricapillus

Black-whiskered, Vireo altiloquus

Blue-headed, Vireo solitarius

Cassin's, Vireo cassinii

Gray, Vireo vicinior

Hutton's, Vireo huttoni

Philadelphia, Vireo philadelphicus

Plumbeous, Vireo plumbeus

Puerto Rican, Vireo latimeri

Red-eyed, Vireo olivaceus

[Solitary (see Blue-headed, Cassin's, and Plumbeous)]

Thick-billed, Vireo crassirostris

Warbling, Vireo gilvus

White-eyed, Vireo griseus

Yellow-green, Vireo flavoviridis

Yellow-throated, Vireo flavifrons

Yucatan, Vireo magister

VULTURE, Black, Coragyps atratus

Turkey, Cathartes aura

WAGTAIL, [Black-backed (see White)]

Citrine, Motacilla citreola

Eastern Yellow, Motacilla tschutschensis

Gray, Motacilla cinerea

White, Motacilla alba

[Yellow (see Eastern Yellow)]

WARBLER, Adelaide's, Dendroica adelaidae

Arctic, Phylloscopus borealis

Bachman's, Vermivora bachmanii

Bay-breasted, Dendroica castanea

Black-and-white, Mniotilta varia

Black-throated Blue, Dendroica caerulescens

Black-throated Gray, Dendroica nigrescens

Black-throated Green, Dendroica virens

Blackburnian, Dendroica fusca

Blackpoll, Dendroica striata

Blue-winged, Vermivora pinus

Canada, Wilsonia canadensis

Cape May, Dendroica tigrina

Cerulean, Dendroica cerulea

Chestnut-sided, Dendroica pensylvanica

Colima, Vermivora crissalis

Connecticut, Oporornis agilis

Crescent-chested, Parula superciliosa

Dusky, Phylloscopus fuscatus

Elfin-woods, Dendroica angelae

Fan-tailed, Euthlypis lachrymosa

Golden-cheeked, Dendroica chrysoparia

Golden-crowned, Basileuterus culicivorus

Golden-winged, Vermivora chrysoptera

Grace's, Dendroica graciae

Hermit, Dendroica occidentalis

Hooded, Wilsonia citrina

Kentucky, Oporornis formosus

Kirtland's, Dendroica kirtlandii

Lanceolated, Locustella lanceoloata

Lucy's, Vermivora luciae

MacGillivray's, Oporornis tolmiei

Magnolia, Dendroica magnolia

Mourning, Oporornis philadelphia

Nashville, Vermivora ruficapilla

Olive, Peucedramus taeniatus

Orange-crowned, Vermivora celata

Palm, Dendroica palmarum

Pine, Dendroica pinus

Prairie, Dendroica discolor

Prothonotary, Protonotaria citrea

Red-faced, Cardellina rubrifrons

Rufous-capped, Basileuterus rufifrons

Swainson's, Limnothlypis swainsonii

Tennessee, Vermivora peregrina

Townsend's, Dendroica townsendi

Virginia's, Vermivora virginiae

Willow, Phylloscopus trochilus

Wilson's, Wilsonia pusilla

Wood, Phylloscopus siilatrix

Worm-eating, Helmitheros vermivorum

Yellow, Dendroica petechia

Yellow-browed, Phylloscopus inornatus

Yellow-rumped, Dendroica coronata

Yellow-throated, Dendroica dominica

WATERTHRUSH, Louisiana, Seiurus motacilla

Northern, Seiurus noveboracensis

WAXWING, Bohemian, Bombycilla garrulus

Cedar, Bombycilla cedrorum

WHEATEAR, Northern, Oenanthe oenanthe

WHIMBREL, Numenius phaeopus

WHIP-POOR-WILL, Caprimulgus vociferus

WHISTLING-DUCK, Black-bellied, Dendrocygna autumnalis

Fulvous, Dendrocygna bicolor

West Indian, Dendrocygna arborea

WHITETHROAT, Lesser, Sylvia curruca

WIGEON, American, Anas americana

Eurasian, Anas penelope

WILLET, Tringa semipalmata

WOOD-PEWEE, Eastern, Contopus virens

Western, Contopus sordidulus

WOODCOCK, American, Scolopax minor

Eurasian, Scolopax rusticola

WOODPECKER, Acorn, Melanerpes formicivorus

American Three-toed, Picoides dorsalis

Arizona, Picoides arizonae

Black-backed, Picoides arcticus

Downy, Picoides pubescens

Gila, Melanerpes uropygialis

Golden-fronted, Melanerpes aurifrons

Great Spotted, Dendrocopos major

Hairy, Picoides villosus

Ivory-billed, Campephilus principalis

Ladder-backed, Picoides scalaris

Lewis's, Melanerpes lewis

Nuttall's, Picoides nuttallii

Pileated, Dryocopus pileatus

Puerto Rican, Melanerpes portoricensis

Red-bellied, Melanerpes carolinus

Red-cockaded, Picoides borealis

Red-headed, Melanerpes erythrocephalus

[Strickland's (see Arizona)]

[Three-toed (see American Three-toed)]

White-headed, Picoides albolarvatus

WOODSTAR, Bahama, Calliphlox evelynae

WREN, Bewick's, Thryomanes bewickii

Cactus, Campylorhynchus brunneicapillus

Canyon, Catherpes mexicanus

Carolina, Thryothorus ludovicianus

House, Troglodytes aedon

Marsh, Cistothorus palustris

Rock, Salpinctes obsoletus

Sedge, Cistothorus platensis

Winter, Troglodytes troglodytes

WRYNECK, Eurasian, Jynx torquilla

YELLOWLEGS, Greater, Tringa melanoleuca

Lesser, Tringa flavipes

YELLOWTHROAT, Common, Geothlypis trichas

Gray-crowned, Geothlypis poliocephala

(2) Taxonomic listing. Species are listed in phylogenetic sequence by scientific name, with the common (English) name following the scientific name. To help clarify species relationships, we also list the higher-level taxonomic categories of Order, Family, and Subfamily.

Order ANSERIFORMES

Family ANATIDAE

Subfamily DENDROCYGNINAE

Dendrocygna autumnalis, Black-bellied Whistling-Duck

Dendrocygna arborea, West Indian Whistling-Duck

Dendrocygna bicolor, Fulvous Whistling-Duck

Subfamily ANSERINAE

Anser fabalis, Taiga Bean-Goose

Anser serrirostris, Tundra Bean-Goose

Anser albifrons, Greater White-fronted Goose

Anser erythropus, Lesser White-fronted Goose

Chen canagica, Emperor Goose

Chen caerulescens, Snow Goose

Chen rossii, Ross's Goose

Branta bernicla, Brant

Branta leucopsis, Barnacle Goose

Branta canadensis, Canada Goose (including Branta hutchinsii, Cackling Goose)

Branta sandvicensis, Hawaiian Goose

Cygnus buccinator, Trumpeter Swan

Cygnus columbianus, Tundra Swan

Cygnus cygnus, Whooper Swan

Subfamily ANATINAE

Cairina moschata, Muscovy Duck

Aix sponsa, Wood Duck

Anas strepera, Gadwall

Anas falcata, Falcated Duck

Anas penelope, Eurasian Wigeon

Anas americana, American Wigeon

Anas rubripes, American Black Duck

Anas platyrhynchos, Mallard

Anas fulvigula, Mottled Duck

Anas wyvilliana, Hawaiian Duck

Anas laysanensis, Laysan Duck

Anas poecilorhyncha, Spot-billed Duck

Anas superciliosa, Pacific Black Duck

Anas discors, Blue-winged Teal

Anas cyanoptera, Cinnamon Teal

Anas clypeata, Northern Shoveler

Anas bahamensis, White-cheeked Pintail

Anas acuta, Northern Pintail

Anas querquedula, Garganey

Anas formosa, Baikal Teal

Anas crecca, Green-winged Teal

Aythya valisineria, Canvasback

Aythya americana, Redhead

Aythya ferina, Common Pochard

Aythya baeri, Baer's Pochard

Aythya collaris, Ring-necked Duck

Aythya fuligula, Tufted Duck

Aythya marila, Greater Scaup

Aythya affinis, Lesser Scaup

Polysticta stelleri, Steller's Eider

Somateria fischeri, Spectacled Eider

Somateria spectabilis, King Eider

Somateria mollissima, Common Eider

Histrionicus histrionicus, Harlequin Duck

Melanitta perspicillata, Surf Scoter

Melanitta fusca, White-winged Scoter

Melanitta nigra, Black Scoter

Clangula hyemalis, Long-tailed Duck

Bucephala albeola, Bufflehead

Bucephala clangula, Common Goldeneye

Bucephala islandica, Barrow's Goldeneye

Mergellus albellus, Smew

Lophodytes cucullatus, Hooded Merganser

Mergus merganser, Common Merganser

Mergus serrator, Red-breasted Merganser

Nomonyx dominicus, Masked Duck

Oxyura jamaicensis, Ruddy Duck

Order GAVIIFORMES

Family GAVIIDAE

Gavia stellata, Red-throated Loon

Gavia arctica, Arctic Loon

Gavia pacifica, Pacific Loon

Gavia immer, Common Loon

Gavia adamsii, Yellow-billed Loon

Order PODICIPEDIFORMES

Family PODICIPEDIDAE

Tachybaptus dominicus, Least Grebe

Podilymbus podiceps, Pied-billed Grebe

Podiceps auritus, Horned Grebe

Podiceps grisegena, Red-necked Grebe

Podiceps nigricollis, Eared Grebe

Aechmophorus occidentalis, Western Grebe

Aechmophorus clarkii, Clark's Grebe

Order PROCELLARIIFORMES

Family DIOMEDEIDAE

Thalassarche chlororhynchos, Yellow-nosed Albatross

Thalassarche cauta, Shy Albatross

Thalassarche melanophris, Black-browed Albatross

Phoebetria palpebrata, Light-mantled Albatross

Diomedea exulans, Wandering Albatross

Phoebastria immutabilis, Laysan Albatross

Phoebastria nigripes, Black-footed Albatross

Phoebastria albatrus, Short-tailed Albatross

Family PROCELLARIIDAE

Fulmarus glacialis, Northern Fulmar

Pterodroma macroptera, Great-winged Petrel

Pterodroma neglecta, Kermadec Petrel

Pterodroma arminjoniana, Herald Petrel

Pterodroma ultima, Murphy's Petrel

Pterodroma inexpectata, Mottled Petrel

Pterodroma cahow, Bermuda Petrel

Pterodroma hasitata, Black-capped Petrel

Pterodroma externa, Juan Fernandez Petrel

Pterodroma sandwichensis, Hawaiian Petrel

Pterodroma cervicalis, White-necked Petrel

Pterodroma hypoleuca, Bonin Petrel

Pterodroma nigripennis, Black-winged Petrel

Pterodroma cookii, Cook's Petrel

Pterodroma longirostris, Stejneger's Petrel

Pterodroma alba, Phoenix Petrel

Pterodroma leucoptera, Gould's Petrel

Pterodroma rostrata, Tahiti Petrel

Bulweria bulwerii, Bulwer's Petrel

Bulweria fallax, Jouanin's Petrel

Calonectris leucomelas, Streaked Shearwater

Calonectris diomedea, Cory's Shearwater

Calonectris edwardsii, Cape Verde Shearwater

Puffinus creatopus, Pink-footed Shearwater

Puffinus carneipes, Flesh-footed Shearwater

Puffinus gravis, Greater Shearwater

Puffinus pacificus, Wedge-tailed Shearwater

Puffinus bulleri, Buller's Shearwater

Puffinus griseus, Sooty Shearwater

Puffinus tenuirostris, Short-tailed Shearwater

Puffinus nativitatis, Christmas Shearwater

Puffinus puffinus, Manx Shearwater

Puffinus auricularis, Townsend's Shearwater

Puffinus opisthomelas, Black-vented Shearwater

Puffinus lherminieri, Audubon's Shearwater

Puffinus assimilis, Little Shearwater

Family HYDROBATIDAE

Oceanites oceanicus, Wilson's Storm-Petrel

Pelagodroma marina, White-faced Storm-Petrel

Fregetta tropica, Black-bellied Storm-Petrel

Fregetta grallaria, White-bellied Storm-Petrel

Nesofregetta fuiginosa, Polynesian Storm-Petrel

Oceanodroma furcata, Fork-tailed Storm-Petrel

Oceanodroma hornbyi, Ringed Storm-Petrel

Oceanodroma leucorhoa, Leach's Storm-Petrel

Oceanodroma homochroa, Ashy Storm-Petrel

Oceanodroma castro, Band-rumped Storm-Petrel

Oceanodroma tethys, Wedge-rumped Storm-Petrel

Oceanodroma matsudairae, Matsudaira's Storm-Petrel

Oceanodroma melania, Black Storm-Petrel

Oceanodroma tristrami, Tristram's Storm-Petrel

Oceanodroma microsoma, Least Storm-Petrel

Order PELECANIFORMES

Family PHAETHONTIDAE

Phaethon lepturus, White-tailed Tropicbird

Phaethon aethereus, Red-billed Tropicbird

Phaethon rubricauda, Red-tailed Tropicbird

Family SULIDAE

Sula dactylatra, Masked Booby

Sula nebouxii, Blue-footed Booby

Sula leucogaster, Brown Booby

Sula sula, Red-footed Booby

Morus bassanus, Northern Gannet

Family PELECANIDAE

Pelecanus erythrorhynchos, American White Pelican

Pelecanus occidentalis, Brown Pelican

Family PHALACROCORACIDAE

Phalacrocorax melanoleucos, Little Pied Cormorant

Phalacrocorax penicillatus, Brandt's Cormorant

Phalacrocorax brasilianus, Neotropic Cormorant

Phalacrocorax auritus, Double-crested Cormorant

Phalacrocorax carbo, Great Cormorant

Phalacrocorax urile, Red-faced Cormorant

Phalacrocorax pelagicus, Pelagic Cormorant

Family ANHINGIDAE

Anhinga anhinga, Anhinga

Family FREGATIDAE

Fregata magnificens, Magnificent Frigatebird

Fregata minor, Great Frigatebird

Fregata ariel, Lesser Frigatebird

Order CICONIIFORMES

Family ARDEIDAE

Botaurus lentiginosus, American Bittern

Ixobrychus sinensis, Yellow Bittern

Ixobrychus exilis, Least Bittern

Ixobrychus eurhythmus, Schrenck's Bittern

Ixobrychus flavicollis, Black Bittern

Ardea herodias, Great Blue Heron

Ardea cinerea, Gray Heron

Ardea alba, Great Egret

Mesophoyx intermedia, Intermediate Egret

Egretta eulophotes, Chinese Egret

Egretta garzetta, Little Egret

Egretta sacra, Pacific Reef-Egret

Egretta gularis, Western Reef-Heron

Egretta thula, Snowy Egret

Egretta caerulea, Little Blue Heron

Egretta tricolor, Tricolored Heron

Egretta rufescens, Reddish Egret

Bubulcus ibis, Cattle Egret

Ardeola bacchus, Chinese Pond-Heron

Butorides virescens, Green Heron

Nycticorax nycticorax, Black-crowned Night-Heron

Nyctanassa violacea, Yellow-crowned Night-Heron

Gorsachius goisagi, Japanese Night-Heron

Gorsachius melanolophus, Malayan Night-Heron

Family THRESKIORNITHIDAE

Subfamily THRESKIORNITHINAE

Eudocimus albus, White Ibis

Eudocimus ruber, Scarlet Ibis

Plegadis falcinellus, Glossy Ibis

Plegadis chihi, White-faced Ibis

Subfamily PLATALEINAE

Platalea ajaja, Roseate Spoonbill

Family CICONIIDAE

Jabiru mycteria, Jabiru

Mycteria americana, Wood Stork

Order PHOENICOPTERIFORMES

Family PHOENICOPTERIDAE

Phoenicopterus ruber, Greater Flamingo

Order FALCONIFORMES

Family CATHARTIDAE

Coragyps atratus, Black Vulture

Cathartes aura, Turkey Vulture

Gymnogyps californianus, California Condor

Family ACCIPITRIDAE

Subfamily PANDIONINAE

Pandion haliaetus, Osprey

Subfamily ACCIPITRINAE

Chondrohierax uncinatus, Hook-billed Kite

Elanoides forficatus, Swallow-tailed Kite

Elanus leucurus, White-tailed Kite

Rostrhamus sociabilis, Snail Kite

Ictinia mississippiensis, Mississippi Kite

Milvus migrans, Black Kite

Haliaeetus leucocephalus, Bald Eagle

Haliaeetus albicilla, White-tailed Eagle

Haliaeetus pelagicus, Steller's Sea-Eagle

Circus cyaneus, Northern Harrier

Accipiter soloensis, Gray Frog-Hawk

Accipiter gularis, Japanese Sparrowhawk

Accipiter striatus, Sharp-shinned Hawk

Accipiter cooperii, Cooper's Hawk

Accipiter gentilis, Northern Goshawk

Geranospiza caerulescens, Crane Hawk

Buteogallus anthracinus, Common Black-Hawk

Parabuteo unicinctus, Harris's Hawk

Buteo magnirostris, Roadside Hawk

Buteo lineatus, Red-shouldered Hawk

Buteo platypterus, Broad-winged Hawk

Buteo nitidus, Gray Hawk

Buteo brachyurus, Short-tailed Hawk

Buteo swainsoni, Swainson's Hawk

Buteo albicaudatus, White-tailed Hawk

Buteo albonotatus, Zone-tailed Hawk

Buteo solitarius, Hawaiian Hawk

Buteo jamaicensis, Red-tailed Hawk

Buteo regalis, Ferruginous Hawk

Buteo lagopus, Rough-legged Hawk

Aquila chrysaetos, Golden Eagle

Family FALCONIDAE

Subfamily MICRASTURINAE

Micrastur semitorquatus, Collared Forest-Falcon

Subfamily CARACARINAE

Caracara cheriway, Crested Caracara

Subfamily FALCONINAE

Falco tinnunculus, Eurasian Kestrel

Falco sparverius, American Kestrel

Falco vespertinus, Red-footed Falcon

Falco columbarius, Merlin

Falco subbuteo, Eurasian Hobby

Falco femoralis, Aplomado Falcon

Falco rusticolus, Gyrfalcon

Falco peregrinus, Peregrine Falcon

Falco mexicanus, Prairie Falcon

Order GRUIFORMES

Family RALLIDAE

Coturnicops noveboracensis, Yellow Rail

Laterallus jamaicensis, Black Rail

Gallirallus philippensis, Buff-banded Rail

Gallirallus owstoni, Guam Rail

Crex crex, Corn Crake

Rallus longirostris, Clapper Rail

Rallus elegans, King Rail

Rallus limicola, Virginia Rail

Porzana carolina, Sora

Porzana tabuensis, Spotless Crake

Porzana flaviventer, Yellow-breasted Crake

Neocrex erythrops, Paint-billed Crake

Pardirallus maculatus, Spotted Rail

Porphyrio martinica, Purple Gallinule

Porphyrio porphyrio, Purple Swamphen

Porphyrio flavirostris, Azure Gallinule

Gallinula chloropus, Common Moorhen

Fulica atra, Eurasian Coot

Fulica alai, Hawaiian Coot

Fulica americana, American Coot

Fulica caribaea, Caribbean Coot

Family ARAMIDAE

Aramus guarauna, Limpkin

Family GRUIDAE

Grus canadensis, Sandhill Crane

Grus grus, Common Crane

Grus americana, Whooping Crane

Order CHARADRIIFORMES

Family CHARADRIIDAE

Subfamily VANELLINAE

Vanellus vanellus, Northern Lapwing

Subfamily CHARADRIINAE

Pluvialis squatarola, Black-bellied Plover

Pluvialis apricaria, European Golden-Plover

Pluvialis dominica, American Golden-Plover

Pluvialis fulva, Pacific Golden-Plover

Charadrius mongolus, Lesser Sand-Plover

Charadrius leschenaultii, Greater Sand-Plover

Charadrius collaris, Collared Plover

Charadrius alexandrinus, Snowy Plover

Charadrius wilsonia, Wilson's Plover

Charadrius hiaticula, Common Ringed Plover

Charadrius semipalmatus, Semipalmated Plover

Charadrius melodus, Piping Plover

Charadrius dubius, Little Ringed Plover

Charadrius vociferus, Killdeer

Charadrius montanus, Mountain Plover

Charadrius morinellus, Eurasian Dotterel

Family HAEMATOPODIDAE

Haematopus ostralegus, Eurasian Oystercatcher

Haematopus palliatus, American Oystercatcher

Haematopus bachmani, Black Oystercatcher

Family RECURVIROSTRIDAE

Himantopus himantopus, Black-winged Stilt

Himantopus mexicanus, Black-necked Stilt

Recurvirostra americana, American Avocet

Family JACANIDAE

Jacana spinosa, Northern Jacana

Family SCOLOPACIDAE

Subfamily SCOLOPACINAE

Xenus cinereus, Terek Sandpiper

Actitis hypoleucos, Common Sandpiper

Actitis macularius, Spotted Sandpiper

Tringa ochropus, Green Sandpiper

Tringa solitaria, Solitary Sandpiper

Tringa brevipes, Gray-tailed Tattler

Tringa incana, Wandering Tattler

Tringa erythropus, Spotted Redshank

Tringa melanoleuca, Greater Yellowlegs

Tringa nebularia, Common Greenshank

Tringa guttifer, Nordmann's Greenshank

Tringa semipalmata, Willet

Tringa flavipes, Lesser Yellowlegs

Tringa stagnatilis, Marsh Sandpiper

Tringa glareola, Wood Sandpiper

Bartramia longicauda, Upland Sandpiper

Numenius minutus, Little Curlew

Numenius borealis, Eskimo Curlew

Numenius phaeopus, Whimbrel

Numenius tahitiensis, Bristle-thighed Curlew

Numenius madagascariensis, Far Eastern Curlew

Numenius arquata, Eurasian Curlew

Numenius americanus, Long-billed Curlew

Limosa limosa, Black-tailed Godwit

Limosa haemastica, Hudsonian Godwit

Limosa lapponica, Bar-tailed Godwit

Limosa fedoa, Marbled Godwit

Arenaria interpres, Ruddy Turnstone

Arenaria melanocephala, Black Turnstone

Aphriza virgata, Surfbird

Calidris tenuirostris, Great Knot

Calidris canutus, Red Knot

Calidris alba, Sanderling

Calidris pusilla, Semipalmated Sandpiper

Calidris mauri, Western Sandpiper

Calidris ruficollis, Red-necked Stint

Calidris minuta, Little Stint

Calidris temminckii, Temminck's Stint

Calidris subminuta, Long-toed Stint

Calidris minutilla, Least Sandpiper

Calidris fuscicollis, White-rumped Sandpiper

Calidris bairdii, Baird's Sandpiper

Calidris melanotos, Pectoral Sandpiper

Calidris acuminata, Sharp-tailed Sandpiper

Calidris maritima, Purple Sandpiper

Calidris ptilocnemis, Rock Sandpiper

Calidris alpina, Dunlin

Calidris ferruginea, Curlew Sandpiper

Calidris himantopus, Stilt Sandpiper

Eurynorhynchus pygmeus, Spoon-billed Sandpiper

Limicola falcinellus, Broad-billed Sandpiper

Tryngites subruficollis, Buff-breasted Sandpiper

Philomachus pugnax, Ruff

Limnodromus griseus, Short-billed Dowitcher

Limnodromus scolopaceus, Long-billed Dowitcher

Lymnocryptes minimus, Jack Snipe

Gallinago delicata, Wilson's Snipe (the “common” snipe hunted in most of the U.S.)

Gallinago gallinago, Common Snipe (rare in western Alaska; also see Gallinago delicata)

Gallinago stenura, Pin-tailed Snipe

Gallinago megala, Swinhoe's Snipe

Scolopax rusticola, Eurasian Woodcock

Scolopax minor, American Woodcock

Subfamily PHALAROPODINAE

Phalaropus tricolor, Wilson's Phalarope

Phalaropus lobatus, Red-necked Phalarope

Phalaropus fulicarius, Red Phalarope

Family LARIDAE

Subfamily LARINAE

Larus atricilla, Laughing Gull

Larus pipixcan, Franklin's Gull

Larus minutus, Little Gull

Larus ridibundus, Black-headed Gull

Larus philadelphia, Bonaparte's Gull

Larus heermanni, Heermann's Gull

Larus cirrocephalus, Gray-hooded Gull

Larus belcheri, Belcher's Gull

Larus crassirostris, Black-tailed Gull

Larus canus, Mew Gull

Larus delawarensis, Ring-billed Gull

Larus californicus, California Gull

Larus argentatus, Herring Gull

Larus michahellis, Yellow-legged Gull

Larus thayeri, Thayer's Gull

Larus glaucoides, Iceland Gull

Larus fuscus, Lesser Black-backed Gull

Larus schistisagus, Slaty-backed Gull

Larus livens, Yellow-footed Gull

Larus occidentalis, Western Gull

Larus glaucescens, Glaucous-winged Gull

Larus hyperboreus, Glaucous Gull

Larus marinus, Great Black-backed Gull

Larus dominicanus, Kelp Gull

Xema sabini, Sabine's Gull

Rissa tridactyla, Black-legged Kittiwake

Rissa brevirostris, Red-legged Kittiwake

Rhodostethia rosea, Ross's Gull

Pagophila eburnea, Ivory Gull

Subfamily STERNINAE

Anous stolidus, Brown Noddy

Anous minutus, Black Noddy

Procelsterna cerulea, Blue-gray Noddy

Gygis alba, White Tern

Onychoprion fuscatus, Sooty Tern

Onychoprion lunatus, Gray-backed Tern

Onychoprion anaethetus, Bridled Tern

Onychoprion aleuticus, Aleutian Tern

Sternula albifrons, Little Tern

Sternula antillarum, Least Tern

Phaetusa simplex, Large-billed Tern

Gelochelidon nilotica, Gull-billed Tern

Hydroprogne caspia, Caspian Tern

Chlidonias niger, Black Tern

Chlidonias leucopterus, White-winged Tern

Chlidonias hybridus, Whiskered Tern

Sterna dougallii, Roseate Tern

Sterna hirundo, Common Tern

Sterna paradisaea, Arctic Tern

Sterna forsteri, Forster's Tern

Sterna sumatrana, Black-naped Tern

Thalasseus maximus, Royal Tern

Thalasseus bergii, Great Crested Tern

Thalasseus sandvicensis, Sandwich Tern

Thalasseus elegans, Elegant Tern

Subfamily RYNCHOPINAE

Rynchops niger, Black Skimmer

Family STERCORARIIDAE

Stercorarius skua, Great Skua

Stercorarius maccormicki, South Polar Skua

Stercorarius pomarinus, Pomarine Jaeger

Stercorarius parasiticus, Parasitic Jaeger

Stercorarius longicaudus, Long-tailed Jaeger

Family ALCIDAE

Alle alle, Dovekie

Uria aalge, Common Murre

Uria lomvia, Thick-billed Murre

Alca torda, Razorbill

Cepphus grylle, Black Guillemot

Cepphus columba, Pigeon Guillemot

Brachyramphus perdix, Long-billed Murrelet

Brachyramphus marmoratus, Marbled Murrelet

Brachyramphus brevirostris, Kittlitz's Murrelet

Synthliboramphus hypoleucus, Xantus's Murrelet

Synthliboramphus craveri, Craveri's Murrelet

Synthliboramphus antiquus, Ancient Murrelet

Ptychoramphus aleuticus, Cassin's Auklet

Aethia psittacula, Parakeet Auklet

Aethia pusilla, Least Auklet

Aethia pygmaea, Whiskered Auklet

Aethia cristatella, Crested Auklet

Cerorhinca monocerata, Rhinoceros Auklet

Fratercula arctica, Atlantic Puffin

Fratercula corniculata, Horned Puffin

Fratercula cirrhata, Tufted Puffin

Order COLUMBIFORMES

Family COLUMBIDAE

Patagioenas squamosa, Scaly-naped Pigeon

Patagioenas leucocephala, White-crowned Pigeon

Patagioenas flavirostris, Red-billed Pigeon

Patagioenas inornata, Plain Pigeon

Patagioenas fasciata, Band-tailed Pigeon

Streptopelia orientalis, Oriental Turtle-Dove

Zenaida asiatica, White-winged Dove

Zenaida aurita, Zenaida Dove

Zenaida macroura, Mourning Dove

Columbina inca, Inca Dove

Columbina passerina, Common Ground-Dove

Columbina talpacoti, Ruddy Ground-Dove

Leptotila verreauxi, White-tipped Dove

Geotrygon chrysia, Key West Quail-Dove

Geotrygon mystacea, Bridled Quail-Dove

Geotrygon montana, Ruddy Quail-Dove

Gallicolumba xanthonura, White-throated Ground-Dove

Gallicolumba stairi, Friendly Ground-Dove

Ptilinopus perousii, Many-colored Fruit-Dove

Ptilinopus roseicapilla, Mariana Fruit-Dove

Ptilinopus porphyraceus, Crimson-crowned Fruit-Dove

Ducula pacifica, Pacific Imperial-Pigeon

Order CUCULIFORMES

Family CUCULIDAE

Subfamily CUCULINAE

Cuculus canorus, Common Cuckoo

Cuculus optatus, Oriental Cuckoo

Cuculus fugax, Hodgson's Hawk-Cuckoo

Coccyzus americanus, Yellow-billed Cuckoo

Coccyzus minor, Mangrove Cuckoo

Coccyzus erythropthalmus, Black-billed Cuckoo

Coccyzus vieilloti, Puerto Rican Lizard-Cuckoo

Subfamily NEOMORPHINAE

Geococcyx californianus, Greater Roadrunner

Subfamily CROTOPHAGINAE

Crotophaga ani, Smooth-billed Ani

Crotophaga sulcirostris, Groove-billed Ani

Order STRIGIFORMES

Family TYTONIDAE

Tyto alba, Barn Owl

Family STRIGIDAE

Otus flammeolus, Flammulated Owl

Otus sunia, Oriental Scops-Owl

Megascops kennicottii, Western Screech-Owl

Megascops asio, Eastern Screech-Owl

Megascops trichopsis, Whiskered Screech-Owl

Megascops nudipes, Puerto Rican Screech-Owl

Bubo virginianus, Great Horned Owl

Bubo scandiacus, Snowy Owl

Surnia ulula, Northern Hawk Owl

Glaucidium gnoma, Northern Pygmy-Owl

Glaucidium brasilianum, Ferruginous Pygmy-Owl

Micrathene whitneyi, Elf Owl

Athene cunicularia, Burrowing Owl

Ciccaba virgata, Mottled Owl

Strix occidentalis, Spotted Owl

Strix varia, Barred Owl

Strix nebulosa, Great Gray Owl

Asio otus, Long-eared Owl

Asio stygius, Stygian Owl

Asio flammeus, Short-eared Owl

Aegolius funereus, Boreal Owl

Aegolius acadicus, Northern Saw-whet Owl

Order CAPRIMULGIFORMES

Family CAPRIMULGIDAE

Subfamily CHORDEILINAE

Chordeiles acutipennis, Lesser Nighthawk

Chordeiles minor, Common Nighthawk

Chordeiles gundlachii, Antillean Nighthawk

Subfamily CAPRIMULGINAE

Nyctidromus albicollis, Common Pauraque

Phalaenoptilus nuttallii, Common Poorwill

Caprimulgus carolinensis, Chuck-will's-widow

Caprimulgus ridgwayi, Buff-collared Nightjar

Caprimulgus vociferus, Whip-poor-will

Caprimulgus noctitherus, Puerto Rican Nightjar

Caprimulgus indicus, Gray Nightjar

Order APODIFORMES

Family APODIDAE

Subfamily CYPSELOIDINAE

Cypseloides niger, Black Swift

Streptoprocne zonaris, White-collared Swift

Subfamily CHAETURINAE

Chaetura pelagica, Chimney Swift

Chaetura vauxi, Vaux's Swift

Chaetura brachyura, Short-tailed Swift

Hirundapus caudacutus, White-throated Needletail

Aerodramus spodiopygius, White-rumped Swiftlet

Aerodramus bartschi, Mariana Swiftlet

Subfamily APODINAE

Apus apus, Common Swift

Apus pacificus, Fork-tailed Swift

Apus melba, Alpine Swift

Aeronautes saxatalis, White-throated Swift

Tachornis phoenicobia, Antillean Palm-Swift

Family TROCHILIDAE

Subfamily TROCHILINAE

Colibri thalassinus, Green Violet-ear

Anthracothorax prevostii, Green-breasted Mango

Anthracothorax dominicus, Antillean Mango

Anthracothorax viridis, Green Mango

Eulampis jugularis, Purple-throated Carib

Eulampis holosericeus, Green-throated Carib

Orthorhyncus cristatus, Antillean Crested Hummingbird

Chlorostilbon maugaeus, Puerto Rican Emerald

Cynanthus latirostris, Broad-billed Hummingbird

Hylocharis leucotis, White-eared Hummingbird

Hylocharis xantusii, Xantus's Hummingbird

Amazilia beryllina, Berylline Hummingbird

Amazilia yucatanensis, Buff-bellied Hummingbird

Amazilia rutila, Cinnamon Hummingbird

Amazilia violiceps, Violet-crowned Hummingbird

Lampornis clemenciae, Blue-throated Hummingbird

Eugenes fulgens, Magnificent Hummingbird

Heliomaster constantii, Plain-capped Starthroat

Calliphlox evelynae, Bahama Woodstar

Calothorax lucifer, Lucifer Hummingbird

Archilochus colubris, Ruby-throated Hummingbird

Archilochus alexandri, Black-chinned Hummingbird

Calypte anna, Anna's Hummingbird

Calypte costae, Costa's Hummingbird

Stellula calliope, Calliope Hummingbird

Atthis heloisa, Bumblebee Hummingbird

Selasphorus platycercus, Broad-tailed Hummingbird

Selasphorus rufus, Rufous Hummingbird

Selasphorus sasin, Allen's Hummingbird

Order TROGONIFORMES

Family TROGONIDAE

Subfamily TROGONINAE

Trogon elegans, Elegant Trogon

Euptilotis neoxenus, Eared Quetzel

Order UPUPIFORMES

Family UPUPIDAE

Upupa epops, Eurasian Hoopoe

Order CORACIIFORMES

Family ALCEDINIDAE

Subfamily HALCYONINAE

Todirhamphus cinnamominus, Micronesian Kingfisher

Todirhamphus chloris, Collared Kingfisher

Subfamily CERYLINAE

Megaceryle torquata, Ringed Kingfisher

Megaceryle alcyon, Belted Kingfisher

Chloroceryle americana, Green Kingfisher

Order PICIFORMES

Family PICIDAE

Subfamily JYNGINAE

Jynx torquilla, Eurasian Wryneck

Subfamily PICINAE

Melanerpes lewis, Lewis's Woodpecker

Melanerpes portoricensis, Puerto Rican Woodpecker

Melanerpes erythrocephalus, Red-headed Woodpecker

Melanerpes formicivorus, Acorn Woodpecker

Melanerpes uropygialis, Gila Woodpecker

Melanerpes aurifrons, Golden-fronted Woodpecker

Melanerpes carolinus, Red-bellied Woodpecker

Sphyrapicus thyroideus, Williamson's Sapsucker

Sphyrapicus varius, Yellow-bellied Sapsucker

Sphyrapicus nuchalis, Red-naped Sapsucker

Sphyrapicus ruber, Red-breasted Sapsucker

Dendrocopos major, Great Spotted Woodpecker

Picoides scalaris, Ladder-backed Woodpecker

Picoides nuttallii, Nuttall's Woodpecker

Picoides pubescens, Downy Woodpecker

Picoides villosus, Hairy Woodpecker

Picoides arizonae, Arizona Woodpecker

Picoides borealis, Red-cockaded Woodpecker

Picoides albolarvatus, White-headed Woodpecker

Picoides dorsalis, American Three-toed Woodpecker

Picoides arcticus, Black-backed Woodpecker

Colaptes auratus, Northern Flicker

Colaptes chrysoides, Gilded Flicker

Dryocopus pileatus, Pileated Woodpecker

Campephilus principalis, Ivory-billed Woodpecker

Order PASSERIFORMES

Family TYRANNIDAE

Subfamily ELAENIINAE

Camptostoma imberbe, Northern Beardless-Tyrannulet

Myiopagis viridicata, Greenish Elaenia

Elaenia martinica, Caribbean Elaenia

Subfamily FLUVICOLINAE

Mitrephanes phaeocercus, Tufted Flycatcher

Contopus cooperi, Olive-sided Flycatcher

Contopus pertinax, Greater Pewee

Contopus sordidulus, Western Wood-Pewee

Contopus virens, Eastern Wood-Pewee

Contopus caribaeus, Cuban Pewee

Contopus hispaniolensis, Hispaniolan Pewee

Contopus latirostris, Lesser Antillean Pewee

Empidonax flaviventris, Yellow-bellied Flycatcher

Empidonax virescens, Acadian Flycatcher

Empidonax alnorum, Alder Flycatcher

Empidonax traillii, Willow Flycatcher

Empidonax minimus, Least Flycatcher

Empidonax hammondii, Hammond's Flycatcher

Empidonax wrightii, Gray Flycatcher

Empidonax oberholseri, Dusky Flycatcher

Empidonax difficilis, Pacific-slope Flycatcher

Empidonax occidentalis, Cordilleran Flycatcher

Empidonax fulvifrons, Buff-breasted Flycatcher

Sayornis nigricans, Black Phoebe

Sayornis phoebe, Eastern Phoebe

Sayornis saya, Say's Phoebe

Pyrocephalus rubinus, Vermilion Flycatcher

Subfamily TYRANNINAE

Myiarchus tuberculifer, Dusky-capped Flycatcher

Myiarchus cinerascens, Ash-throated Flycatcher

Myiarchus nuttingi, Nutting's Flycatcher

Myiarchus crinitus, Great Crested Flycatcher

Myiarchus tyrannulus, Brown-crested Flycatcher

Myiarchus sagrae, La Sagra's Flycatcher

Myiarchus antillarum, Puerto Rican Flycatcher

Pitangus sulphuratus, Great Kiskadee

Myiozetetes similis, Social Flycatcher

Myiodynastes luteiventris, Sulphur-bellied Flycatcher

Legatus leucophalus, Piratic Flycatcher

Empidonomus varius, Variegated Flycatcher

Tyrannus melancholicus, Tropical Kingbird

Tyrannus couchii, Couch's Kingbird

Tyrannus vociferans, Cassin's Kingbird

Tyrannus crassirostris, Thick-billed Kingbird

Tyrannus verticalis, Western Kingbird

Tyrannus tyrannus, Eastern Kingbird

Tyrannus dominicensis, Gray Kingbird

Tyrannus caudifasciatus, Loggerhead Kingbird

Tyrannus forficatus, Scissor-tailed Flycatcher

Tyrannus savana, Fork-tailed Flycatcher

Pachyramphus aglaiae, Rose-throated Becard

Tityra semifasciata, Masked Tityra

Family LANIIDAE

Lanius cristatus, Brown Shrike

Lanius ludovicianus, Loggerhead Shrike

Lanius excubitor, Northern Shrike

Family VIREONIDAE

Vireo griseus, White-eyed Vireo

Vireo crassirostris, Thick-billed Vireo

Vireo latimeri, Puerto Rican Vireo

Vireo bellii, Bell's Vireo

Vireo atricapillus, Black-capped Vireo

Vireo vicinior, Gray Vireo

Vireo flavifrons, Yellow-throated Vireo

Vireo plumbeus, Plumbeous Vireo

Vireo cassinii, Cassin's Vireo

Vireo solitarius, Blue-headed Vireo

Vireo huttoni, Hutton's Vireo

Vireo gilvus, Warbling Vireo

Vireo philadelphicus, Philadelphia Vireo

Vireo olivaceus, Red-eyed Vireo

Vireo flavoviridis, Yellow-green Vireo

Vireo altiloquus, Black-whiskered Vireo

Vireo magister, Yucatan Vireo

Family CORVIDAE

Perisoreus canadensis, Gray Jay

Cyanocitta stelleri, Steller's Jay

Cyanocitta cristata, Blue Jay

Cyanocorax yncas, Green Jay

Cyanocorax morio, Brown Jay

Aphelocoma coerulescens, Florida Scrub-Jay

Aphelocoma insularis, Island Scrub-Jay

Aphelocoma californica, Western Scrub-Jay

Aphelocoma ultramarina, Mexican Jay

Gymnorhinus cyanocephalus, Pinyon Jay

Nucifraga columbiana, Clark's Nutcracker

Pica hudsonia, Black-billed Magpie

Pica nuttalli, Yellow-billed Magpie

Corvus kubaryi, Mariana Crow

Corvus brachyrhynchos, American Crow

Corvus caurinus, Northwestern Crow

Corvus leucognaphalus, White-necked Crow

Corvus imparatus, Tamaulipas Crow

Corvus ossifragus, Fish Crow

Corvus hawaiiensis, Hawaiian Crow

Corvus cryptoleucus, Chihuahuan Raven

Corvus corax, Common Raven

Family ALAUDIDAE

Alauda arvensis, Sky Lark

Eremophila alpestris, Horned Lark

Family HIRUNDINIDAE

Subfamily HIRUNDININAE

Progne subis, Purple Martin

Progne cryptoleuca, Cuban Martin

Progne dominicensis, Caribbean Martin

Progne chalybea, Gray-breasted Martin

Progne elegans, Southern Martin

Progne tapera, Brown-chested Martin

Tachycineta bicolor, Tree Swallow

Tachycineta albilinea, Mangrove Swallow

Tachycineta thalassina, Violet-green Swallow

Tachycineta cyaneoviridis, Bahama Swallow

Stelgidopteryx serripennis, Northern Rough-winged Swallow

Riparia riparia, Bank Swallow

Petrochelidon pyrrhonota, Cliff Swallow

Petrochelidon fulva, Cave Swallow

Hirundo rustica, Barn Swallow

Delichon urbicum, Common House-Martin

Family PARIDAE

Poecile carolinensis, Carolina Chickadee

Poecile atricapillus, Black-capped Chickadee

Poecile gambeli, Mountain Chickadee

Poecile sclateri, Mexican Chickadee

Poecile rufescens, Chestnut-backed Chickadee

Poecile hudsonica, Boreal Chickadee

Poecile cincta, Gray-headed Chickadee

Baeolophus wollweberi, Bridled Titmouse

Baeolophus inornatus, Oak Titmouse

Baeolophus ridgwayi, Juniper Titmouse

Baeolophus bicolor, Tufted Titmouse

Baeolophus atricristatus, Black-crested Titmouse

Family REMIZIDAE

Auriparus flaviceps, Verdin

Family AEGITHALIDAE

Psaltriparus minimus, Bushtit

Family SITTIDAE

Subfamily SITTINAE

Sitta canadensis, Red-breasted Nuthatch

Sitta carolinensis, White-breasted Nuthatch

Sitta pygmaea, Pygmy Nuthatch

Sitta pusilla, Brown-headed Nuthatch

Family CERTHIIDAE

Subfamily CERTHIINAE

Certhia americana, Brown Creeper

Family TROGLODYTIDAE

Campylorhynchus brunneicapillus, Cactus Wren

Salpinctes obsoletus, Rock Wren

Catherpes mexicanus, Canyon Wren

Thryothorus ludovicianus, Carolina Wren

Thryomanes bewickii, Bewick's Wren

Troglodytes aedon, House Wren

Troglodytes troglodytes, Winter Wren

Cistothorus platensis, Sedge Wren

Cistothorus palustris, Marsh Wren

Family CINCLIDAE

Cinclus mexicanus, American Dipper

Family REGULIDAE

Regulus satrapa, Golden-crowned Kinglet

Regulus calendula, Ruby-crowned Kinglet

Family SYLVIIDAE

Subfamily SYLVIINAE

Locustella ochotensis, Middendorff's Grasshopper-Warbler

Locustella lanceolata, Lanceolated Warbler

Acrocephalus luscinia, Nightingale Reed-Warbler

Acrocephalus familiaris, Millerbird

Phylloscopus trochilus, Willow Warbler

Phylloscopus sibilatrix, Wood Warbler

Phylloscopus fuscatus, Dusky Warbler

Phylloscopus inornatus, Yellow-browed Warbler

Phylloscopus borealis, Arctic Warbler

Sylvia curruca, Lesser Whitethroat

Subfamily POLIOPTILINAE

Polioptila caerulea, Blue-gray Gnatcatcher

Polioptila californica, California Gnatcatcher

Polioptila melanura, Black-tailed Gnatcatcher

Polioptila nigriceps, Black-capped Gnatcatcher

Family MUSCICAPIDAE

Ficedula narcissina, Narcissus Flycatcher

Muscicapa griseisticta, Gray-streaked Flycatcher

Family TURDIDAE

Luscinia calliope, Siberian Rubythroat

Luscinia svecica, Bluethroat

Luscinia cyane, Siberian Blue Robin

Monticola solitarius, Blue Rock Thrush

Tarsiger cyanurus, Red-flanked Bluetail

Oenanthe oenanthe, Northern Wheatear

Saxicola torquatus, Stonechat

Sialia sialis, Eastern Bluebird

Sialia mexicana, Western Bluebird

Sialia currucoides, Mountain Bluebird

Myadestes townsendi, Townsend's Solitaire

Myadestes myadestinus, Kamao

Myadestes lanaiensis, Olomao

Myadestes obscurus, Omao

Myadestes palmeri, Puaiohi

Catharus aurantiirostris, Orange-billed Nightingale-Thrush

Catharus mexicanus, Black-headed Nightingale-Thrush

Catharus fuscescens, Veery

Catharus minimus, Gray-cheeked Thrush

Catharus bicknelli, Bicknell's Thrush

Catharus ustulatus, Swainson's Thrush

Catharus guttatus, Hermit Thrush

Hylocichla mustelina, Wood Thrush

Turdus obscurus, Eyebrowed Thrush

Turdus naumanni, Dusky Thrush

Turdus pilaris, Fieldfare

Turdus grayi, Clay-colored Robin

Turdus assimilis, White-throated Robin

Turdus rufopalliatus, Rufous-backed Robin

Turdus migratorius, American Robin

Turdus plumbeus, Red-legged Thrush

Ixoreus naevius, Varied Thrush

Ridgwayia pinicola, Aztec Thrush

Family MIMIDAE

Dumetella carolinensis, Gray Catbird

Melanoptila glabrirostris, Black Catbird

Mimus polyglottos, Northern Mockingbird

Mimus gundlachii, Bahama Mockingbird

Oreoscoptes montanus, Sage Thrasher

Toxostoma rufum, Brown Thrasher

Toxostoma longirostre, Long-billed Thrasher

Toxostoma bendirei, Bendire's Thrasher

Toxostoma curvirostre, Curve-billed Thrasher

Toxostoma redivivum, California Thrasher

Toxostoma crissale, Crissal Thrasher

Toxostoma lecontei, Le Conte's Thrasher

Melanotis caerulescens, Blue Mockingbird

Margarops fuscatus, Pearly-eyed Thrasher

Family STURNIDAE

Sturnus philippensis, Chestnut-cheeked Starling

Sturnus cineraceus, White-cheeked Starling

Family PRUNELLIDAE

Prunella montanella, Siberian Accentor

Family MOTACILLIDAE

Motacilla tschutschensis, Eastern Yellow Wagtail

Motacilla citreola, Citrine Wagtail

Motacilla cinerea, Gray Wagtail

Motacilla alba, White Wagtail

Anthus trivialis, Tree Pipit

Anthus hodgsoni, Olive-backed Pipit

Anthus gustavi, Pechora Pipit

Anthus cervinus, Red-throated Pipit

Anthus rubescens, American Pipit

Anthus spragueii, Sprague's Pipit

Family BOMBYCILLIDAE

Bombycilla garrulus, Bohemian Waxwing

Bombycilla cedrorum, Cedar Waxwing

Family PTILOGONATIDAE

Ptilogonys cinereus, Gray Silky-flycatcher

Phainopepla nitens, Phainopepla

Family PEUCEDRAMIDAE

Peucedramus taeniatus, Olive Warbler

Family PARULIDAE

Vermivora bachmanii, Bachman's Warbler

Vermivora pinus, Blue-winged Warbler

Vermivora chrysoptera, Golden-winged Warbler

Vermivora peregrina, Tennessee Warbler

Vermivora celata, Orange-crowned Warbler

Vermivora ruficapilla, Nashville Warbler

Vermivora virginiae, Virginia's Warbler

Vermivora crissalis, Colima Warbler

Vermivora luciae, Lucy's Warbler

Parula superciliosa, Crescent-chested Warbler

Parula americana, Northern Parula

Parula pitiayumi, Tropical Parula

Dendroica petechia, Yellow Warbler

Dendroica pensylvanica, Chestnut-sided Warbler

Dendroica magnolia, Magnolia Warbler

Dendroica tigrina, Cape May Warbler

Dendroica caerulescens, Black-throated Blue Warbler

Dendroica coronata, Yellow-rumped Warbler

Dendroica nigrescens, Black-throated Gray Warbler

Dendroica chrysoparia, Golden-cheeked Warbler

Dendroica virens, Black-throated Green Warbler

Dendroica townsendi, Townsend's Warbler

Dendroica occidentalis, Hermit Warbler

Dendroica fusca, Blackburnian Warbler

Dendroica dominica, Yellow-throated Warbler

Dendroica graciae, Grace's Warbler

Dendroica adelaidae, Adelaide's Warbler

Dendroica pinus, Pine Warbler

Dendroica kirtlandii, Kirtland's Warbler

Dendroica discolor, Prairie Warbler

Dendroica palmarum, Palm Warbler

Dendroica castanea, Bay-breasted Warbler

Dendroica striata, Blackpoll Warbler

Dendroica cerulea, Cerulean Warbler

Dendroica angelae, Elfin-woods Warbler

Mniotilta varia, Black-and-white Warbler

Setophaga ruticilla, American Redstart

Protonotaria citrea, Prothonotary Warbler

Helmitheros vermivorum, Worm-eating Warbler

Limnothlypis swainsonii, Swainson's Warbler

Seiurus aurocapilla, Ovenbird

Seiurus noveboracensis, Northern Waterthrush

Seiurus motacilla, Louisiana Waterthrush

Oporornis formosus, Kentucky Warbler

Oporornis agilis, Connecticut Warbler

Oporornis philadelphia, Mourning Warbler

Oporornis tolmiei, MacGillivray's Warbler

Geothlypis trichas, Common Yellowthroat

Geothlypis poliocephala, Gray-crowned Yellowthroat

Wilsonia citrina, Hooded Warbler

Wilsonia pusilla, Wilson's Warbler

Wilsonia canadensis, Canada Warbler

Cardellina rubrifrons, Red-faced Warbler

Myioborus pictus, Painted Redstart

Myioborus miniatus, Slate-throated Redstart

Euthlypis lachrymosa, Fan-tailed Warbler

Basileuterus culicivorus, Golden-crowned Warbler

Basileuterus rufifrons, Rufous-capped Warbler

Icteria virens, Yellow-breasted Chat

Family THRAUPIDAE

Nesospingus speculiferus, Puerto Rican Tanager

Piranga flava, Hepatic Tanager

Piranga rubra, Summer Tanager

Piranga olivacea, Scarlet Tanager

Piranga ludoviciana, Western Tanager

Piranga bidentata, Flame-colored Tanager

Spindalis zena, Western Spindalis

Spindalis portoricensis, Puerto Rican Spindalis

Euphonia musica, Antillean Euphonia

Family EMBERIZIDAE

Sporophila torqueola, White-collared Seedeater

Tiaris olivacea, Yellow-faced Grassquit

Tiaris bicolor, Black-faced Grassquit

Loxigilla portoricensis, Puerto Rican Bullfinch

Arremonops rufivirgatus, Olive Sparrow

Pipilo chlorurus, Green-tailed Towhee

Pipilo maculatus, Spotted Towhee

Pipilo erythrophthalmus, Eastern Towhee

Pipilo fuscus, Canyon Towhee

Pipilo crissalis, California Towhee

Pipilo aberti, Abert's Towhee

Aimophila carpalis, Rufous-winged Sparrow

Aimophila cassinii, Cassin's Sparrow

Aimophila aestivalis, Bachman's Sparrow

Aimophila botterii, Botteri's Sparrow

Aimophila ruficeps, Rufous-crowned Sparrow

Aimophila quinquestriata, Five-striped Sparrow

Spizella arborea, American Tree Sparrow

Spizella passerina, Chipping Sparrow

Spizella pallida, Clay-colored Sparrow

Spizella breweri, Brewer's Sparrow

Spizella pusilla, Field Sparrow

Spizella wortheni, Worthen's Sparrow

Spizella atrogularis, Black-chinned Sparrow

Pooecetes gramineus, Vesper Sparrow

Chondestes grammacus, Lark Sparrow

Amphispiza bilineata, Black-throated Sparrow

Amphispiza belli, Sage Sparrow

Calamospiza melanocorys, Lark Bunting

Passerculus sandwichensis, Savannah Sparrow

Ammodramus savannarum, Grasshopper Sparrow

Ammodramus bairdii, Baird's Sparrow

Ammodramus henslowii, Henslow's Sparrow

Ammodramus leconteii, Le Conte's Sparrow

Ammodramus nelsoni, Nelson's Sharp-tailed Sparrow

Ammodramus caudacutus, Saltmarsh Sharp-tailed Sparrow

Ammodramus maritimus, Seaside Sparrow

Passerella iliaca, Fox Sparrow

Melospiza melodia, Song Sparrow

Melospiza lincolnii, Lincoln's Sparrow

Melospiza georgiana, Swamp Sparrow

Zonotrichia albicollis, White-throated Sparrow

Zonotrichia querula, Harris's Sparrow

Zonotrichia leucophrys, White-crowned Sparrow

Zonotrichia atricapilla, Golden-crowned Sparrow

Junco hyemalis, Dark-eyed Junco

Junco phaeonotus, Yellow-eyed Junco

Calcarius mccownii, McCown's Longspur

Calcarius lapponicus, Lapland Longspur

Calcarius pictus, Smith's Longspur

Calcarius ornatus, Chestnut-collared Longspur

Emberiza leucocephalos, Pine Bunting

Emberiza pusilla, Little Bunting

Emberiza rustica, Rustic Bunting

Emberiza elegans, Yellow-throated Bunting

Emberiza aureola, Yellow-breasted Bunting

Emberiza variabilis, Gray Bunting

Emberiza pallasi, Pallas's Bunting

Emberiza schoeniclus, Reed Bunting

Plectrophenax nivalis, Snow Bunting

Plectrophenax hyperboreus, McKay's Bunting

Family CARDINALIDAE

Rhodothraupis celaeno, Crimson-collared Grosbeak

Cardinalis cardinalis, Northern Cardinal

Cardinalis sinuatus, Pyrrhuloxia

Pheucticus chrysopeplus, Yellow Grosbeak

Pheucticus ludovicianus, Rose-breasted Grosbeak

Pheucticus melanocephalus, Black-headed Grosbeak

Cyanocompsa parellina, Blue Bunting

Passerina caerulea, Blue Grosbeak

Passerina amoena, Lazuli Bunting

Passerina cyanea, Indigo Bunting

Passerina versicolor, Varied Bunting

Passerina ciris, Painted Bunting

Spiza americana, Dickcissel

Family ICTERIDAE

Dolichonyx oryzivorus, Bobolink

Agelaius phoeniceus, Red-winged Blackbird

Agelaius tricolor, Tricolored Blackbird

Agelaius humeralis, Tawny-shouldered Blackbird

Agelaius xanthomus, Yellow-shouldered Blackbird

Sturnella magna, Eastern Meadowlark

Sturnella neglecta, Western Meadowlark

Xanthocephalus xanthocephalus, Yellow-headed Blackbird

Euphagus carolinus, Rusty Blackbird

Euphagus cyanocephalus, Brewer's Blackbird

Quiscalus quiscula, Common Grackle

Quiscalus major, Boat-tailed Grackle

Quiscalus mexicanus, Great-tailed Grackle

Quiscalus niger, Greater Antillean Grackle

Molothrus bonariensis, Shiny Cowbird

Molothrus aeneus, Bronzed Cowbird

Molothrus ater, Brown-headed Cowbird

Icterus wagleri, Black-vented Oriole

Icterus dominicensis, Greater Antillean Oriole

Icterus spurius, Orchard Oriole

Icterus cucullatus, Hooded Oriole

Icterus pustulatus, Streak-backed Oriole

Icterus bullockii, Bullock's Oriole

Icterus gularis, Altamira Oriole

Icterus graduacauda, Audubon's Oriole

Icterus galbula, Baltimore Oriole

Icterus parisorum, Scott's Oriole

Family FRINGILLIDAE

Subfamily FRINGILLINAE

Fringilla coelebs, Common Chaffinch

Fringilla montifringilla, Brambling

Subfamily CARDUELINAE

Leucosticte tephrocotis, Gray-crowned Rosy-Finch

Leucosticte atrata, Black Rosy-Finch

Leucosticte australis, Brown-capped Rosy-Finch

Pinicola enucleator, Pine Grosbeak

Carpodacus erythrinus, Common Rosefinch

Carpodacus purpureus, Purple Finch

Carpodacus cassinii, Cassin's Finch

Carpodacus mexicanus, House Finch

Loxia curvirostra, Red Crossbill

Loxia leucoptera, White-winged Crossbill

Carduelis flammea, Common Redpoll

Carduelis hornemanni, Hoary Redpoll

Carduelis spinus, Eurasian Siskin

Carduelis pinus, Pine Siskin

Carduelis psaltria, Lesser Goldfinch

Carduelis lawrencei, Lawrence's Goldfinch

Carduelis tristis, American Goldfinch

Carduelis sinica, Oriental Greenfinch

Pyrrhula pyrrhula, Eurasian Bullfinch

Coccothraustes vespertinus, Evening Grosbeak

Coccothraustes coccothraustes, Hawfinch

Subfamily DREPANIDINAE

Telespiza cantans, Laysan Finch

Telespiza ultima, Nihoa Finch

Psittirostra psittacea, Ou

Loxioides bailleui, Palila

Pseudonestor xanthophrys, Maui Parrotbill

Hemignathus virens, Hawaii Amakihi

Hemignathus flavus, Oahu Amakihi

Hemignathus kauaiensis, Kauai Amakihi

Hemignathus ellisianus, Greater Akialoa

Hemignathus lucidus, Nukupuu

Hemignathus munroi, Akiapolaau

Magumma parva, Anianiau

Oreomystis bairdi, Akikiki

Oreomystis mana, Hawaii Creeper

Paroreomyza maculata, Oahu Alauahio

Paroreomyza flammea, Kakawahie

Paroreomyza montana, Maui Alauahio

Loxops caeruleirostris, Akekee

Loxops coccineus, Akepa

Vestiaria coccinea, Iiwi

Palmeria dolei, Akohekohe

Himatione sanguinea, Apapane

Melamprosops phaeosoma, Poo-uli

Dated: February 3, 2010.
Thomas L. Strickland,
Assistant Secretary for Fish and Wildlife and Parks.

[FR Doc. 2010-3294 Filed 2-26-10; 8:45 am]

BILLING CODE 4310-55-P